DEPARTMENT OF THE INTERIOR

Fish and Wildlife Service

50 CFR Part 32

[Docket No. FWS-R9-NSR-2010-0036; 93250-1265-0000-4A]

RIN 1018-AX20

2010-2011 Refuge-Specific Hunting and Sport Fishing Regulations

AGENCY: Fish and Wildlife Service, Interior.

ACTION: Final rule.

SUMMARY: The Fish and Wildlife Service adds one refuge to the list of areas open for hunting and/or sport fishing and increases the activities available at seven other refuges, along with pertinent refuge-specific regulations on other refuges that pertain to migratory game bird hunting, upland game hunting, big game hunting, and sport fishing for the 2010-2011 season.

DATES: This rule is effective January 21, 2011.

FOR FURTHER INFORMATION CONTACT: Leslie A. Marler, (703) 358-2397.

SUPPLEMENTARY INFORMATION: The National Wildlife Refuge System Administration Act of 1966 closes national wildlife refuges in all States except Alaska to all uses until opened. The Secretary of the Interior (Secretary) may open refuge areas to any use, including hunting and/or sport fishing, upon a determination that such uses are compatible with the purposes of the refuge and National Wildlife Refuge System (Refuge System or our/we) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the “Statutory Authority” section below. We issue refuge-specific hunting and sport fishing regulations when we open wildlife refuges to migratory game bird hunting, upland game hunting, big game hunting, or sport fishing. These regulations list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also standardizing and clarifying the language of existing regulations.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k-460k-4) (Recreation Act) govern the administration and public use of refuges.

Amendments enacted by the Improvement Act, built upon the Administration Act in a manner that provides an “organic act” for the Refuge System, are similar to those that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: Hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans and specific plans, and by annual review of hunting and sport fishing programs and regulations.

Response to Comments Received

In the September 15, 2010, Federal Register (75 FR 56360), we published a proposed rulemaking identifying changes pertaining to migratory game bird hunting, upland game bird hunting, big game hunting, and sport fishing to existing refuge-specific language on certain refuges for the 2010-2011 season. We received 14 comments on the proposed rule during a 30-day comment period; seven of those comments were supportive of the rulemaking.

Comment 1: Four commenters expressed opposition to the Service banning lead sinkers on several of our refuges. They feel that this ban would necessitate them having to purchase new nontoxic sinkers and this would be hardship on all anglers, especially in light of current economic conditions. They feel that the amount of lead left in waters is minimal and not the same as that in ammunition used by waterfowl hunters.

Response 1: Three refuges in this rule have language banning lead sinkers on their refuges: Patuxent Research Refuge in Maryland, Seney National Wildlife Refuge in Michigan, and Rappahannock River Valley National Wildlife Refuge in Virginia. Lead is a toxic metal that, in sufficient quantities, has adverse effects on the nervous and reproductive systems of animals, and can be lethal to wildlife if ingested, even in small amounts such as that contained in a fishing weight. According to the American Bird Conservancy and Center for Biological Diversity, an estimated 10 million to 20 million birds and other animals die each year from lead poisoning in the United States. Some animals die a painful death from lead poisoning while others suffer for years from its debilitating effects. Current estimates are that approximately 4,000 tons are lost in ponds and streams as fishing lures and sinkers. This metal is poisoning at least 75 wild bird species, including loons, golden and bald eagles, ravens and endangered California condors. Bald eagles are especially vulnerable to lead. Eagles eat fish, including the bottom-feeding varieties most likely to scoop sinkers from the sediments. It is true that sinkers are only part of the lead problems. Raptors can also pick up bullet fragments from deer carcasses, and other birds can pick up lead shot showered over fields and wetlands by years of hunting activity. But lead shot for waterfowl hunting has been illegal since 1998. There are nontoxic fishing weights (split shot) for use in nontidal waters that are readily available in the marketplace. Many anglers are using fishing tackle made from nontoxic materials such as tin, bismuth, steel, and tungsten, alternatives which are found in all 50 States. The difference in cost between nonlead tackle and lead is not great, especially for basic items. For example, a 3/0 reusable split shot costs $.03 for lead and $.04 for tin.

This ban of lead sinkers is not new to any of these refuges. In the case of Rappahannock River Valley National Wildlife Refuge, they have banned lead sinkers since 2004 in their freshwater ponds, where there is a greater likelihood of lead split shot being ingested by wildlife. They do allow the use of lead sinkers in tidal creeks because to hold bait in a tidal situation anglers need heavier weights, and heavier nontoxic weights are not as available in the marketplace. There is also less likelihood of weights in tidal waters being ingested (larger size, deeper water).

Seney National Wildlife Refuge has banned lead sinkers since 2002. They have several fish-eating predators (bald eagle, osprey, kingfisher, otter, loon) that are susceptible to incidental lead ingestion on the refuge along with swans that may ingest lead weights while feeding in shallow waters. From 1987-2004, lead toxicosis accounted for 22 percent of the 204 Michigan common loon deaths that were necropsied by the Minnesota Department of Natural Resources' Rose Lake Wildlife Disease Lab.

Patuxent Research Refuge banned lead sinkers as of April 12, 2010 (it was effective in the 2009-10 rulemaking). We are making no change to the regulations as a result of these comments.

Comment 2: Two commenters feel that we are making more refuges into killing fields for wildlife and birds. One of these commenters also wishes to extend the comment period by 60 days. Both commenters feel that by spreading lead shot all over the environment it kills a second time and more with other animals feeding from the dead carcass. They feel that the use of the refuge is taken away from nonhunters who cannot use the site when “the wildlife murderers are there shooting,” and that hunting is incompatible with any other use of the site.

Response 2: The 1997 National Wildlife Refuge System Administration Act stipulates that hunting (along with fishing, wildlife observation and photography, and environmental education and interpretation), if found to be compatible, is a legitimate and priority general public use of a refuge and should be facilitated. The Administration Act authorizes the Secretary to allow use of any refuge area for any purpose as long as those uses are compatible. In the case of each refuge opening/expansion in this rule, the refuge managers went through the compatibility process (which allows for public comment), in addition to complying with the National Environmental Policy Act (42 U.S.C. 4321 et seq.) (NEPA) (which also allows for public comment) to make the determination before opening or expanding the refuge to allow for hunting.

We disagree that the comment period is insufficient. The process of opening refuges is done in stages, with the fundamental work being done on the ground at the refuge and in the community where the program is administered. In these stages, the public is provided other opportunities to comment, for example, on the comprehensive conservation plans, the compatibility determinations, and the hunt plans and accompanying NEPA documents. The final stage is when we publish the proposed rule in the Federal Register for additional comment, commonly providing a 30-day comment period.

We make every attempt to collect all of the proposals from the refuges nationwide and process them expeditiously to maximize the time available for public review. We believe that a 30-day comment period, through the broader publication following the earlier public involvement, gives the public sufficient time to comment and allows us to establish hunting and fishing programs in time for the upcoming seasons. Many of these rules also relieve restrictions and allow the public to participate in wildlife-dependent recreational activities on a number of refuges. Even after issuance of a final rule, we accept comments, suggestions, and concerns for consideration for any appropriate subsequent rulemaking.

We are and have been phasing out the use of lead shot by hunters on refuge lands. However, we are doing this phase-out of lead shot in a coordinated manner with the respective State wildlife agency. The National Wildlife Refuge Improvement Act of 1997 directs the Service to make refuge regulations as consistent with State regulations as practicable. See additional discussion on the lead shot issue in Response 1. There were no changes to this rulemaking as a result of these comments.

Comment 3: A commenter asked whether a change could be made to Cape May National Wildlife Refuge (NWR), which is opening the Great Cedar Swamp Division section of its refuge to wild turkey hunting, to include the Delaware Bay Division. The commenter explains that he/she understood the reason why Delaware Bay Division was not listed during the time of the comprehensive conservation plan (CCP) approval was that no wild turkeys were likely to be found in that Division, but feels that is not the case today. Also, the commenter feels that the turkey hunting disturbance footprint/impact is far less than other user groups who currently venture onto the refuge—that some of the nonhunting user group activities involve large numbers of individuals, moving as a single group, which creates a much larger disturbance to the wildlife population than a single individual transiting the same area. The commenter goes on to state that other users are not limited in any fashion as to the amount of time spent inside the ecosystem, unlike hunter users who are limited by Federal and State regulations.

Response 3: In accordance with the National Wildlife Refuge System Improvement Act of 1997, the 2004 Comprehensive Conservation Plan (CCP) for Cape May NWR provides a strategic management direction for the refuge over a 15-year period. As described in the 2009 Turkey, Rabbit, Squirrel Hunt Management Plan, the Preferred Alternative implements the strategies as outlined in the CCP for providing new compatible upland game hunting (turkey, rabbit, and squirrel) on the refuge. We consider this activity to be a wildlife-dependent public use activity. The exclusion of the Delaware Bay Division for turkey hunting meets the purposes of the Cape May NWR, as outlined in the 2004 CCP. Opportunities for turkey hunting and other wildlife-dependent public use activities on the refuge will be re-evaluated during the CCP's revision in 2019.

We designed hunting opportunities provided on Cape May NWR to result in minimal disturbance to trust resources. Minimizing disturbance factors and potential impacts are a primary consideration in season and regulation development. Because hunters may only harvest turkey during the spring in the Great Cedar Swamp Division on 4,492 acres, fewer biological impacts would occur than if we allowed turkey hunting in the Delaware Bay Division as well. We allow turkey hunting in limited areas of the refuge in order to reduce the cumulative negative impacts to wildlife and conflicts among other user groups on the refuge. No changes were made to the regulation as a result of this comment.

Comment 4: Another commenter felt that Federal hunting and fishing rules should not only be consistent with State hunting and fishing regulations but provide a practical, easy-to-use structure to permit hunters and anglers on Federal refuges. In particular the commenter suggests that we should provide notice in State hunting and fishing guides of opportunities found in refuges along with permitting requirements, allowing hunters and anglers to obtain required permits in a similar manner as State fishing and hunting licenses or permits.

Response 4: Most State hunting regulation pamphlets identify hunting opportunities on refuges. In addition, many States also assist in and coordinate the issuance of refuge hunting permits, and many assist in running the hunting program on a specific refuge by providing staff. We are seeking additional opportunities to harmonize the refuge and State regulations. In addition, the process of selecting hunters for various hunting opportunities undergoes annual reviews, often in conjunction with State wildlife agency staff, and we are seeking opportunities to improve these processes. However, an important distinction between refuges and other lands within a State is that national wildlife refuges are closed to hunting in the lower 48 States until the Service opens them through a prescribed series of steps set forth both in regulation (50 CFR 32.1) and in policy (605 FW 2). Furthermore, if we do open a refuge, not all lands within a refuge are opened in their entirety, and we are very specific about exactly how this hunt will take place.

The decision to open a refuge to hunting involves numerous steps where each refuge manager determines, after completing a compatibility determination, hunting and/or fishing opening package, appropriate NEPA documentation, section 7 consultation, and consultation with State fish and game agencies, the conduct of the hunting or fishing opportunity. While we make every effort to be consistent with State regulations, there are instances when it is appropriate that we be more restrictive than the State. Our regulations at 50 CFR 32.2(d) state that, “Each person shall comply with the applicable provisions of the laws and regulations of the State wherein any area is located unless further restricted by Federal law or regulation.” [Emphasis added.]

For example, States may typically allow a longer hunting/angling season or larger bag limits than do many refuges. Most refuges have shorter seasons not only to ensure healthy wildlife populations, but to also allow other users opportunities to visit and observe wildlife on our refuges (i.e., bird watchers, school groups, other refuge visitors) free of any safety concerns related to hunting in particular. We allow refuge managers the latitude to be more restrictive than the State when they deem it necessary and appropriate for a particular refuge.

The commenter also referred to a condition that required hunters wishing to participate in a hunt to submit a Big/Upland Game Hunt Application (FWS Form 3-2356). We recently secured OMB approval of nine new forms allowing the refuges to keep track of various activities on the refuges. The Paperwork Reduction Act of 1980 (44 U.S.C. 3501 et seq.) (PRA) determines how we may collect information from 10 or more individuals. We strive with every annual regulation to comply with the PRA and this is an attempt to do so. This law is unique to the Federal Government and compliance is not discretionary. The collection of this information enables refuge managers to more appropriately manage hunts helping to ensure quality opportunities for the hunting and angling public in addition to better managing wildlife populations. We made no changes to the regulation as a result of this comment.

Comment 5: A commenter says that the Service should only propose rules that it reasonably believes it can enforce and that is consistent with the purposes of allowing hunting in refuges. Specifically, the commenter assumes that the requirement for hunters in tree stands to use a safety belt or harness (as proposed at Choctaw NWR) is proposed for safety purposes, but we provide no analysis justifying this rule. Further, the rule is overly prescriptive and will be difficult to enforce without undermining the hunting.

Response 5: This is not a new proposal for Choctaw NWR. The refuge has had this regulation in place since 2004. The commenter states that in order to enforce this regulation, the law enforcement officer would disturb any wildlife. Often officers (Federal or State) make use of spotting scopes and binoculars enabling them to check compliance from a distance and also are able to examine equipment at check-in and check out stations, in addition to field checks. Furthermore, this is a requirement for hunters using State wildlife management areas in Alabama. According to State statistics, falling from tree stands is the leading cause of injuries to hunters in Alabama. Injuries from tree stand accidents could be minimized or prevented by wearing a safety belt or harness. Alabama regulations now require all hunters using a tree stand on wildlife management areas to wear a safety belt or harness. We make no changes to the regulation as a result of this comment.

Comment 6: A commenter feels that a condition for Bald Knob NWR Arkansas (A6) is overly broad and without reason. Specifically, he/she does not disagree with the requirement for use of only approved nontoxic shot shells for waterfowl hunting, and feels that the proposal to disallow shells in/on vehicles will result in unwarranted searches and seizures and possibly increase the Service's liability.

Response 6: Bald Knob NWR is both a popular waterfowl hunting refuge and known as one of the best areas for waterfowl hunting in the State. Over the years disputes between hunting parties escalated based on various reasons such as hunting too close together, “sky busting” (shooting birds at long ranges when there is only a small chance of taking a bird), and other problems. The refuge addressed those problems in 2001 by implementing a minimum distance between different hunting groups to be at least 100 yards (90 m). They addressed the “sky busting” issue by implementing the 25 shell possession limit, including in vehicles. This significantly reduced “sky busting” forcing hunters to make better judgments and shots in the field. Consequently, hunters are more peacefully coexisting resulting in a more enjoyable and quality hunt. No major hunter conflicts have arisen since the refuge implemented these rules. The logic behind the wording “including in vehicles” is because hunters would bring 25 shells into the field and once expended, the law enforcement officers would find them returning to their vehicles to get another box of 25. If the officers imposed a limit of 25 shells only in the field, as suggested by the commenter, we are not reducing sky busting because there is potentially an unlimited supply of ammunition available to the hunter in his or her vehicle. By limiting hunters' possession to 25 shells, including in their vehicles, we have eliminated (or nearly so) the problem as evidenced by the few disputes in the past 9 to 10 years.

Finally, on Bald Knob NWR all hunters must possess the refuge brochure, which when signed becomes their refuge hunting permit. Their signature indicates that they have read and understood the refuge hunting regulations and willingly agree to allow law enforcement officers to inspect or search their equipment used during the hunt. We made no changes to the rule as a result of this comment.

Comment 7: A commenter feels that hunting and fishing age requirements should be consistent throughout the country and points out that Bayou Cocodrie NWR listed a different age threshold for youth hunters than other Louisiana refuges. The commenter also felt that instead of prescribing Federal hunting supervision laws that the refuge should defer to State law.

Response 7: After submission by the refuge of their regulations, the State proposed an age change for youth hunters. Bayou Cocodrie NWR is effecting that change with this final rule and modifying the age for youth hunters from age 17 and under to age 16 and under. As a general rule, we strive to be consistent with State regulations. As for the comment about supervision of youth hunters and the comparison to other refuges, each refuge manager determines the conduct of a hunt on the individual refuge. They take into consideration such factors as habitat types, endangered species, and public hunting pressure present on their particular refuge. At Bayou Cocodrie NWR, the manager determined that there needs to be a more experienced hunter accompanying and teaching the younger hunter the responsibilities of hunting on the refuge. Other than modifying the age of youth hunters to age 16 and under, we made no changes to the regulation as a result of these comments.

Comment 8: A commenter, though supportive of expanding hunting on Minnesota Valley National Wildlife Refuge in Minnesota, expressed concern about expansion of hunting on wildlife refuges in general. The commenter expressed that the cumulative impact assessment of each refuge was made available online in a prior stage of this process but is not available online now while the regulation is in its final stages.

Response 8: We disagree. We posted on http://www.regulations.gov a cumulative impacts assessment report of the entire rulemaking (23 pages) on the day the Federal Register published the proposed rule, and we simultaneously posted the proposed rule on that Web site. This report addresses a description of the subject and issues involved and assesses the direct, indirect, and cumulative impacts of the proposed hunting activities on hunted populations of migratory birds and resident wildlife, nonhunted migratory and resident wildlife, threatened and endangered species, plant and habitat resources, other wildlife-dependent recreational uses, physical resources (including air, soil and water) cultural resources, refuge facilities, solitude and socioeconomics. We also assessed impacts of the proposed opening and/or expansion of hunting activities on the seven refuges by evaluating Compatibility Determinations prepared by each refuge for their respective hunting programs, and intra-Service consultations on the effects of hunting on endangered and threatened species conducted for each refuge hunting program as required by section 7 of the Endangered Species Act of 1973, as amended (16 U.S.C. 1531 et seq.).

When contacted by the commenter, he/she did not inquire about the cumulative impacts assessment, but rather about the general process of the rulemaking, including the 2003 Fund for Animals litigation. We explained to the commenter that this rulemaking was a compilation of the changes needed by refuges for this particular season and that the bulk of the economic analysis is done, appropriately, at the field level. We directed the commenter to contact individual refuges if they wished to receive the NEPA documentation created at the refuge level. The commenter did so, received the information that he/she was seeking, and supports the expansion of hunting in Minnesota Valley NWR. The commenter further stated that he/she felt there should be more information available to the public about proposed hunting regulations, specifically the readily available environmental assessment of each refuge. As discussed in the preamble of the rule, the decision to open or expand a refuge is a public process. All elements of that decision, including the hunt plan, compatibility determination, and appropriate NEPA analysis, are the subject of a public review and comment process and are available upon request. The decision to post online individual refuge-specific environmental analyses lies with the refuge manager; however, we will make the suggestion to refuge managers that they do so in the future to facilitate additional public inspection of documents after the appropriate public review process has ended and we have made a decision. We made no changes to this rulemaking as a result of this comment.

Effective Date

This rule is effective upon publication in the Federal Register. We have determined that any further delay in implementing these refuge-specific hunting and sport fishing regulations would not be in the public interest, in that a delay would hinder the effective planning and administration of the hunting and fishing programs. We provided a 30-day public comment period for the September 15, 2010, proposed rule. An additional delay would jeopardize holding the hunting and/or fishing programs this year or shorten their duration and thereby lessen the management effectiveness of this regulation. This rule does not impact the public generally in terms of requiring lead time for compliance. Rather it relieves restrictions in that it allows activities on refuges that we would otherwise prohibit. Therefore, we find good cause under 5 U.S.C. 553(d)(3) to make this rule effective upon publication.

Amendments to Existing Regulations

This document codifies in the Code of Federal Regulations all of the Service's hunting and/or sport fishing regulations that are applicable at Refuge System units previously opened to hunting and/or sport fishing. We are doing this to better inform the general public of the regulations at each refuge, to increase understanding and compliance with these regulations, and to make enforcement of these regulations more efficient. In addition to now finding these regulations in 50 CFR part 32, visitors to our refuges will usually find them reiterated in literature distributed by each refuge or posted on signs.

We have cross-referenced a number of existing regulations in 50 CFR parts 26, 27, and 32 to assist hunting and sport fishing visitors with understanding safety and other legal requirements on refuges. This redundancy is deliberate, with the intention of improving safety and compliance in our hunting and sport fishing programs.

Table 1—Changes for 2010-2011 Hunting/Fishing Season
National Wildlife Refuge | State | Migratory bird hunting | Upland game hunting | Big game hunting | Fishing
Modoc | CA | C | Already open | Closed | Already open.
Cape May | NJ | Already open | B | D (turkey) | Already open.
Fort Niobrara | NE | Closed | Closed | B | Already open.
Caddo Lake | TX | Closed | Closed | A | Closed.
Deep Fork | OK | Already open | Already open | C | Already open.
Bosque del Apache | NM | Already open | Already open | D (turkey) | Already open.
Rappahannock River Valley | VA | Closed | Closed | Already open | C.
Minnesota Valley | MN | C/D | C/D | C | Already open.
A = New refuge opened.
B = New activity on a refuge previously opened to other activities.
C = Refuge already open to activity but added new land/waters which increased activity.
D = Refuge already open to activity but added new species to hunt.

The changes for the 2010-11 hunting/fishing season noted in the chart above are each based on a complete administrative record which, among other detailed documentation, also includes a hunt plan, a compatibility determination, and the appropriate NEPA analysis, all of which were the subject of a public review and comment process. These documents are available upon request.

Fish Advisory

For health reasons, anglers should review and follow State-issued consumption advisories before enjoying recreational sport fishing opportunities on Service-managed waters. You can find information about current fish consumption advisories on the Internet at: http://www.epa.gov/waterscience/fish/.

Plain Language Mandate

In this rule we made some of the revisions to the individual refuge units to comply with a Presidential mandate to use plain language in regulations; as such, these particular revisions do not modify the substance of the previous regulations. These types of changes include using “you” to refer to the reader and “we” to refer to the Refuge System, using the word “allow” instead of “permit” when we do not require the use of a permit for an activity, and using active voice (i.e., “We restrict entry into the refuge” vs. “Entry into the refuge is restricted”).

Regulatory Planning and Review

The Office of Management and Budget (OMB) has determined that this rule is not significant under Executive Order 12866 (E.O. 12866). OMB bases its determination on the following four criteria:

(a) Whether the rule will have an annual effect of $100 million or more on the economy or adversely affect an economic sector, productivity, jobs, the environment, or other units of the government.

(b) Whether the rule will create inconsistencies with other Federal agencies' actions.

(c) Whether the rule will materially affect entitlements, grants, use fees, loan programs, or the rights and obligations of their recipients.

(d) Whether the rule raises novel legal or policy issues.

Regulatory Flexibility Act

Under the Regulatory Flexibility Act (as amended by the Small Business Regulatory Enforcement Fairness Act [SBREFA] of 1996) (5 U.S.C. 601, et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would not have a significant economic impact on a substantial number of small entities.

This rule adds one national wildlife refuge to the list of refuges open to hunting, increases hunting activities on six national wildlife refuges, and increases fishing activities at one national wildlife refuge. As a result, visitor use for wildlife-dependent recreation on these national wildlife refuges will change. If the refuges establishing new programs were a pure addition to the current supply of such activities, it would mean an estimated increase of 12,330 user days (one person per day participating in a recreational opportunity) (Table 2). Because the participation trend is flat in these activities since 1991, this increase in supply will most likely be offset by other sites losing participants. Therefore, this is likely to be a substitute site for the activity and not necessarily an increase in participation rates for the activity.

Table 2—Estimated Change in Recreation Opportunities in 2010/2011
Refuge | Additional days | Additional expenditures
Modoc | 130 | $13,868
Cape May | 1,700 | 181,356
Fort Niobrara | 250 | 26,670
Caddo Lake | 225 | 24,003
Deep Fork | 177 | 18,882
Bosque del Apache | 8 | 853
Rappahannock River Valley | 640 | 51,510
Minnesota Valley | 9,200 | 981,454
Total | 12,330 | 1,298,596

To the extent visitors spend time and money in the area of the refuge that they would not have spent there anyway, they contribute new income to the regional economy and benefit local businesses. Due to the unavailability of site-specific expenditure data, we use the national estimates from the 2006 National Survey of Fishing, Hunting, and Wildlife Associated Recreation to identify expenditures for food and lodging, transportation, and other incidental expenses. Using the average expenditures for these categories with the maximum expected additional participation of the Refuge System yields approximately $1.3 million in recreation-related expenditures (Table 2). By having ripple effects throughout the economy, these direct expenditures are only part of the economic impact of these recreational activities. Using a national impact multiplier for hunting activities (2.67) derived from the report “Economic Importance of Hunting in America” and a national impact multiplier for fishing activities (2.79) derived from the report “Economic Importance of Fishing in America” yields a total economic impact of approximately $3.5 million (2009 dollars) (Southwick Associates, Inc., 2007). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $3.5 million, and most likely considerably less. Since 80 percent of the participants travel less than 100 miles to engage in hunting and fishing activities, their spending patterns would not add new money into the local economy and, therefore, the real impact would be on the order of about $695,000 annually.

Small businesses within the retail trade industry (such as hotels, gas stations, taxidermy shops, bait and tackle shops, etc.) may be impacted from some increased or decreased refuge visitation. A large percentage of these retail trade establishments in the local communities around national wildlife refuges qualify as small businesses (Table 3). We expect that the incremental recreational changes will be scattered, and so we do not expect that the rule will have a significant economic effect on a substantial number of small entities in any region or nationally. As noted previously, we expect approximately $695,000 to be spent in total in the refuges' local economies. The maximum increase ($3.5 million if all spending were new money) at most would be less than 1 percent for local retail trade spending.

Table 3—Comparative Expenditures for Retail Trade Associated With Additional Refuge Visitation for 2010/2011
[Thousands, 2009 dollars]
Refuge/County(ies) | Retail trade in 2002 (2009 $) | Estimated maximum addition from new activities | Addition as % of total | Establishments in 2007 | Establ. with <10 emp in 2007
Modoc: Modoc, CA | 51,719 | 13.9 | 0.027 | 33 | 22
Cape May: Cape May, NJ | 1,649,345 | 181.4 | 0.011 | 746 | 597
Fort Niobrara: Cherry, NE | 80,374 | 26.7 | 0.033 | 44 | 28
Caddo Lake:
Caddo, LA | 3,329,277 | 6.0 | 0.000 | 999 | 685
Bossier, LA | 1,369,032 | 6.0 | 0.000 | 469 | 201
Harrison, TX | 505,210 | 6.0 | 0.001 | 209 | 160
Marion, TX | 63,964 | 6.0 | 0.009 | 38 | 30
Deep Fork: Okmulgee, OK | 302,176 | 18.9 | 0.006 | 128 | 98
Bosque del Apache:
Bernalillo, NM | 9,354,821 | 0.3 | 0 | 2,272 | 1,512
Socorro, NM | 91,494 | 0.3 | 0 | 47 | 35
Sierra, NM | 85,374 | 0.3 | 0 | 563 | 40
Rappahannock River Valley:
Caroline, VA | 306,350 | 2.6 | 0.001 | 64 | 52
Essex, VA | 193,558 | 24.5 | 0.013 | 61 | 39
Richmond, VA | 88,581 | 24.5 | 0.028 | 41 | 29
Minnesota Valley:
Hennepin MN | 20,238,488 | 245.4 | 0.001 | 4,399 | 2,742
Carver MN | 703,601 | 245.4 | 0.035 | 232 | 142
Scott MN | 878,227 | 245.4 | 0.028 | 358 | 240
Dakota MN | 5,787,006 | 245.4 | 0.004 | 1,181 | 722

This final rule reflects a change for Rappahannock River Valley NWR as being in three different counties in Virginia: Caroline, Essex, and Richmond. The proposed rule incorrectly stated the refuge was located in Northumberland County.

With the small change in overall spending anticipated from this rule, it is unlikely that a substantial number of small entities will have more than a small impact from the spending change near the affected refuges. Therefore, we certify that this rule will not have a significant economic effect on a substantial number of small entities as defined under the Regulatory Flexibility Act (5 U.S.C. 601 et. seq.). An initial/final Regulatory Flexibility Analysis is not required. Accordingly, a Small Entity Compliance Guide is not required.

Small Business Regulatory Enforcement Fairness Act

The rule is not a major rule under 5 U.S.C. 804(2), the Small Business Regulatory Enforcement Fairness Act. We anticipate no significant employment or small business effects. This rule:

a. Will not have an annual effect on the economy of $100 million or more. The minimal impact will be scattered across the country and will most likely not be significant in any local area.

b. Will not cause a major increase in costs or prices for consumers, individual industries, Federal, State, or local government agencies, or geographic regions. This rule will have only a slight effect on the costs of hunting opportunities for Americans. If the substitute sites are farther from the participants' residences, then an increase in travel costs will occur. The Service does not have information to quantify this change in travel cost but assumes that, since most people travel less than 100 miles to hunt, the increased travel cost will be small. We do not expect this rule to affect the supply or demand for hunting opportunities in the United States and, therefore, it should not affect prices for hunting equipment and supplies, or the retailers that sell equipment.

c. Will not have significant adverse effects on competition, employment, investment, productivity, innovation, or the ability of United States-based enterprises to compete with foreign-based enterprises. This rule represents only a small proportion of recreational spending at national wildlife refuges. Therefore, this rule will have no measurable economic effect on the wildlife-dependent industry, which has annual sales of equipment and travel expenditures of $72 billion nationwide.

Unfunded Mandates Reform Act

Since this rule applies to public use of federally owned and managed refuges, it will not impose an unfunded mandate on State, local, or Tribal governments or the private sector of more than $100 million per year. The rule will not have a significant or unique effect on State, local, or Tribal governments or the private sector. A statement containing the information required by the Unfunded Mandates Reform Act (2 U.S.C. 1531 et seq.) is not required.

Takings (E.O. 12630)

In accordance with E.O. 12630, this rule will not have significant takings implications. This regulation affects only visitors at national wildlife refuges and describes what they can do while they are on a refuge.

Federalism (E.O. 13132)

As discussed in the Regulatory Planning and Review and Unfunded Mandates Reform Act sections above, this rule will not have sufficient Federalism implications to warrant the preparation of a Federalism Assessment under E.O. 13132. In preparing this rule, we worked with State governments.

Civil Justice Reform (E.O. 12988)

In accordance with E.O. 12988, the Office of the Solicitor has determined that the rule does not unduly burden the judicial system and that it meets the requirements of sections 3(a) and 3(b)(2) of the Order. The regulation clarifies established regulations and results in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this rule increases activities at seven refuges and opens one new refuge, it is not a significant regulatory action under E.O. 12866 and is not expected to significantly affect energy supplies, distribution, and use. Therefore, this action is a not a significant energy action and no Statement of Energy Effects is required.

Consultation and Coordination With Indian Tribal Governments (E.O. 13175)

In accordance with E.O. 13175, we have evaluated possible effects on federally recognized Indian tribes and have determined that there are no effects. We coordinate recreational use on national wildlife refuges with Tribal governments having adjoining or overlapping jurisdiction before we propose the regulations.

Paperwork Reduction Act

This regulation does not contain any information collection requirements other than those already approved by the Office of Management and Budget under the Paperwork Reduction Act (44 U.S.C. 3501 et seq.) (OMB Control Numbers are 1018-0102 and 1018-0140). See 50 CFR 25.23 for information concerning that approval. An agency may not conduct or sponsor and a person is not required to respond to a collection of information unless it displays a currently valid OMB control number.

Endangered Species Act Section 7 Consultation

We comply with section 7 of the Endangered Species Act of 1973, as amended (16 U.S.C. 1531 et seq.), when developing Comprehensive Conservation Plans (CCPs) and step-down management plans (which would include hunting and/or fishing plans) for public use of refuges, and prior to implementing any new or revised public recreation program on a refuge as identified in 50 CFR 26.32. We have completed section 7 consultation on each of the affected refuges.

National Environmental Policy Act

We analyzed this rule in accordance with the criteria of the National Environmental Policy Act of 1969 (NEPA) (42 U.S.C. 4332(C)), 43 CFR part 46, and 516 Departmental Manual (DM) 8.

A categorical exclusion from NEPA documentation applies to publication of amendments to refuge-specific hunting and fishing regulations since they are technical and procedural in nature, and the environmental effects are too broad, speculative, or conjectural to lend themselves to meaningful analysis (43 CFR 46.210 and 516 DM 8). Concerning the actions that are the subject of this rulemaking, we have complied with NEPA at the project level when developing each proposal. This is consistent with the Department of the Interior instructions for compliance with NEPA where actions are covered sufficiently by an earlier environmental document (516 DM 3.2A).

Prior to the addition of a refuge to the list of areas open to hunting and fishing in 50 CFR part 32, we develop hunting and fishing plans for the affected refuges. We incorporate these refuge hunting and fishing activities in the refuge CCPs and/or other step-down management plans, pursuant to our refuge planning guidance in 602 Fish and Wildlife Service Manual (FW) 1, 3, and 4. We prepare these CCPs and step-down plans in compliance with section 102(2)(C) of NEPA, and the Council on Environmental Quality's regulations for implementing NEPA in 40 CFR parts 1500-1508. We invite the affected public to participate in the review, development, and implementation of these plans. Copies of all plans and NEPA compliance are available from the refuges at the addresses provided below.

Available Information for Specific Refuges

Individual refuge headquarters have information about public use programs and conditions that apply to their specific programs and maps of their respective areas. To find out how to contact a specific refuge, contact the appropriate Regional offices listed below:

Region 1—Hawaii, Idaho, Oregon, and Washington. Regional Chief, National Wildlife Refuge System, U.S. Fish and Wildlife Service, Eastside Federal Complex, Suite 1692, 911 NE. 11th Avenue, Portland, OR 97232-4181; Telephone (503) 231-6214.

Region 2—Arizona, New Mexico, Oklahoma, and Texas. Regional Chief, National Wildlife Refuge System, U.S. Fish and Wildlife Service, Box 1306, 500 Gold Avenue, Albuquerque, NM 87103; Telephone (505) 248-7419.

Caddo Lake National Wildlife Refuge, P.O. Box 230, Karnack, TX 75661; Telephone (903) 679-9144.

Region 3—Illinois, Indiana, Iowa, Michigan, Minnesota, Missouri, Ohio, and Wisconsin. Regional Chief, National Wildlife Refuge System, U.S. Fish and Wildlife Service, 1 Federal Drive, Federal Building, Fort Snelling, Twin Cities, MN 55111; Telephone (612) 713-5401.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8306.

Region 6—Colorado, Kansas, Montana, Nebraska, North Dakota, South Dakota, Utah, and Wyoming. Regional Chief, National Wildlife Refuge System, U.S. Fish and Wildlife Service, 134 Union Blvd., Lakewood, CO 80228; Telephone (303) 236-8145.

Region 7—Alaska. Regional Chief, National Wildlife Refuge System, U.S. Fish and Wildlife Service, 1011 E. Tudor Rd., Anchorage, AK 99503; Telephone (907) 786-3545.

Region 8—California and Nevada. Regional Chief, National Wildlife Refuge System, U.S. Fish and Wildlife Service, 2800 Cottage Way, Room W-2606, Sacramento, CA 95825; Telephone (916) 414-6464.

Primary Author

Leslie A. Marler, Management Analyst, Division of Conservation Planning and Policy, National Wildlife Refuge System is the primary author of this rulemaking document.

List of Subjects in 50 CFR Part 32

Fishing, Hunting, Reporting and recordkeeping requirements, Wildlife, Wildlife refuges.

For the reasons set forth in the preamble, we amend title 50, chapter I, subchapter C of the Code of Federal Regulations as follows:

PART 32—[AMENDED]

1. The authority citation for part 32 continues to read as follows:

Authority: 5 U.S.C. 301; 16 U.S.C. 460k, 664, 668dd-668ee, and 715i.

§ 32.7 [Amended]

2. Amend § 32.7 “What refuge units are open to hunting and/or sport fishing?” by:

a. Adding Michigan Wetland Management District, in alphabetical order, in the State of Michigan; and

b. Adding Caddo Lake National Wildlife Refuge, in alphabetical order, in the State of Texas.

3. Amend § 32.20 Alabama by:

a. Revising paragraphs B., C., and D. of Choctaw National Wildlife Refuge; and

b. Revising paragraph A.1., adding paragraph A.6., and revising paragraph C.3. of Eufaula National Wildlife Refuge, to read as follows:

§ 32.20 Alabama.

* * * * *

Choctaw National Wildlife Refuge

* * * * *

B. Upland Game Hunting. We allow hunting of squirrel, rabbit, raccoon, and opossum on designated areas of the refuge in accordance with State regulations subject to the following conditions:

1. We prohibit hunting within 100 yards (90 m) of the fenced-in refuge work center area, hiking trail, and refuge boat ramp.

2. We prohibit marking trees and using flagging tape, reflective tacks, and other similar marking devices.

3. We allow take of incidental species as listed in the refuge hunt permit (signed brochure) during any hunt with those weapons legal during those hunts.

4. Hunters must possess and carry a signed refuge hunt permit (signed brochure) when hunting.

5. All youth hunters age 15 and younger must remain within sight and normal voice contact of an adult age 21 or older, possessing a license and permit. One adult may supervise no more than two youth hunters.

6. We prohibit overnight mooring or storage of boats.

7. We require hunters to check all harvested game at the conclusion of each day at one of the refuge check out stations.

8. A hunter may only use approved nontoxic shot (see § 32.2(k)). We restrict hunting weapons to shotguns with shot size no larger than No. 6 or rifles no larger than .22 standard rimfire or legal archery equipment.

9. We prohibit the use of mules, horses, and ATVs.

10. We allow dogs for upland game hunting except in Middle Swamp. We allow dogs only in Middle Swamp the last 2 weeks of upland game season.

C. Big Game Hunting. We allow hunting of white-tailed deer and feral hog in accordance with State regulations subject to the following conditions:

1. Conditions B1 through B9 apply.

2. We require tree stand users to use a safety belt or harness.

3. We prohibit damaging trees or hunting from a tree that contains an inserted metal object (see § 32.2(i)). We require hunters to remove all tree stands and blinds daily (see § 27.93 of this chapter).

4. We prohibit participation in organized drives.

5. We prohibit hunting by aid or distribution of any feed, salt, or other mineral at any time (see § 32.2(h)).

D. Sport Fishing. We allow fishing in designated areas of the refuge in accordance with State regulations subject to the following conditions:

1. We allow fishing year-round, except in the waterfowl sanctuary, which we close from December 1 through March 1.

2. With the exception of the refuge boat ramp, we limit access from ½ hour before legal sunrise to ½ hour after legal sunset.

3. We allow a rod and reel and pole and line. We prohibit all other methods of fishing.

4. We prohibit the taking of frogs and turtles (see § 27.21 of this chapter).

5. We prohibit bow fishing.

6. We prohibit the use of airboats, hovercrafts, and inboard-water-thrust boats such as, but not limited to, personal watercraft, watercycles, and waterbikes.

7. We require a refuge Special Use Permit (FWS Form 3-1383) for commercial fishing. Commercial anglers may use nets, seines, baskets, and boxes legal for use within the State of Alabama.

8. We prohibit mooring or storing of boats from ½ hour after legal sunset to ½ hour before legal sunrise.

Eufaula National Wildlife Refuge

A. Migratory Bird Hunting. * * *

1. You must possess and carry a signed refuge hunt brochure (permit) when hunting.

* * * * *

6. All waterfowl hunting opportunities are spaced-blind and assigned by lottery. Hunters wishing to participate in our waterfowl hunt must submit a Waterfowl Lottery Application (FWS Form 3-2355). Consult the refuge brochure for details.

* * * * *

C. Big Game Hunting. * * *

* * * * *

3. All youth gun hunting opportunities are spaced-blind and assigned by lottery. Hunters wishing to participate in our youth gun hunt must submit a Big/Upland Game Hunt Application (FWS Form 3-2356). Consult the refuge brochure for details.

* * * * *

4. Amend § 32.22 Arizona by:

a. Revising paragraphs A.2. through A.6., A.10., C.1., and C.2., adding paragraph C.3., and revising paragraphs D.1. and D.3. of Bill Williams River National Wildlife Refuge;

b. Revising the introductory text of paragraph A., and revising paragraphs B. and C.2. of Buenos Aires National Wildlife Refuge; and

c. Removing paragraph B.4. and redesignating paragraph B.5. as B.4. of Imperial National Wildlife Refuge.

The revisions and additions read as follows:

§ 32.22 Arizona.

* * *

Bill Williams River National Wildlife Refuge

A. Migratory Game Bird Hunting. * * *

* * * * *

2. You may possess only nontoxic shot while hunting in the field (see § 32.2(k)).

3. We prohibit hunting within 50 yards (45 m) of any building, road, or levee open to public use.

4. We allow hunting/angling on the refuge only in those areas posted or designated as open. The public hunting area is generally described as south of the Bill Williams Road and east of Arizona State Rt. 95 plus the south half of Section 35, T 11N-R 17W as posted. We close the isolated grow-out cove near the visitor center to fishing as posted.

5. We allow hunting/angling in accordance with State regulations only for the listed species.

6. You may retrieve fish or game from an area closed to hunting or entry only upon specific consent from an authorized refuge employee.

* * * * *

10. All refuge visitors must remove all personal items from the refuge at the end of each day's activity, i.e., boats, equipment, cameras, temporary blinds, stands, etc. (see § 27.93 of this chapter).

* * * * *

C. Big Game Hunting * * *

1. Conditions A4 through A11 apply.

2. In Arizona Wildlife Management Unit 44A, we allow hunting on the refuge only in those areas south of the Bill Williams River Road and east of Arizona State Rt. 95 plus the south half of Section 35, T 11N-R 17W as posted.

3. In Arizona Wildlife Management Unit 16A, we allow hunting for desert bighorn sheep only in those areas north of the Bill Williams River.

D. Sport Fishing. * * *

1. Conditions A4 through A11 apply.

* * * * *

3. We designate all refuge waters as wakeless speed zones (as defined by State law).

* * * * *

Buenos Aires National Wildlife Refuge

A. Migratory Game Bird Hunting. We allow hunting of goose, duck, coot, and dove on designated areas of the refuge in accordance with State regulations subject to the following conditions:

* * * * *

B. Upland Game Hunting. We allow hunting of rabbit, coyote, and skunk on designated areas of the refuge in accordance with State regulations subject to the following condition: Conditions A1 through A3 apply.

C. Big Game Hunting. * * *

* * * * *

2. Conditions A1 through A3 apply.

* * * * *

5. Amend § 32.23 Arkansas by:

a. Revising Bald Knob National Wildlife Refuge;

b. Revising paragraphs B., C.1., C.3., C.5., C.8., and C.12., removing paragraph C.13., and revising paragraph D. of Big Lake National Wildlife Refuge;

c. Revising Cache River National Wildlife Refuge;

d. Revising paragraphs A., B., C.1., C.3. through C.9., C.13. through C.15., and D. of Felsenthal National Wildlife Refuge;

e. Removing paragraph B.4., redesignating paragraphs B.5. through B.14. as paragraphs B.4. through B.13., revising newly redesignated paragraphs B.6., B.11., and B.13., and revising paragraphs C.1., C.2., and D.1. of Holla Bend National Wildlife Refuge;

f. Revising the introductory text of paragraph A., revising paragraphs A.1., A.3., A.5., A.7., A.9., A.10., and A.12. through A.17., removing paragraph A.20. and redesignating paragraphs A.21. through A.24. as paragraphs A.20. through A.23., revising the introductory text of paragraph B., revising paragraphs B.1., B.3. through B.5., C.1. through C.5., and C.8. through C.11. of Overflow National Wildlife Refuge;

g. Revising paragraphs A.1., A.3., A.5., A.7., and A.11. through A.18., removing paragraph A.19., redesignating paragraphs A.20. through A.24. as paragraphs A.19. through A.23., and revising paragraphs B., C.2., C.4. through C.8., and C.12. through C.16. of Pond Creek National Wildlife Refuge;

h. Revising paragraph A.1., adding paragraphs A.5. through A.11., revising paragraphs B., C.1., C.2., C.7. through C.9., D.1., and D.5. through D.8., and removing paragraph D.9. of Wapanocca National Wildlife Refuge; and

i. Revising paragraphs A., B.1. through B.4., and B.7., adding paragraphs B.9. through B.11. and revising paragraphs C. and D. of White River National Wildlife Refuge.

The revisions and additions read as follows:

§ 32.23 Arkansas.

* * * * *

Bald Knob National Wildlife Refuge

A. Migratory Game Bird Hunting. We allow hunting of duck, goose, coot, snipe, woodcock, and dove on designated areas of the refuge in accordance with State regulations subject to the following conditions:

1. We require refuge hunting permits. The permits (found on the front cover of the annual hunt brochure/permit—signature required) are nontransferable, and anyone on refuge land in possession of hunting equipment must sign, possess, and carry the permits at all times.

2. We allow hunting of duck, goose, coot, dove, and snipe daily until 12 p.m. (noon) throughout the State seasons, except for season closures on the Farm Unit during the Quota Gun Deer Hunt and for the exception provided in A3.

3. We allow hunting for goose from ½ hour before legal sunrise until ½ hour past legal sunset after the closing of the duck season in January for the remainder of the State goose season(s) and Snow, Blue, and Ross' Goose Conservation Orders.

4. We allow hunting for woodcock daily throughout the State seasons, except for season closures during the Quota Gun Deer Hunt.

5. We prohibit commercial hunting/guiding.

6. You may possess only approved nontoxic shot shells for hunting while in the field (see § 32.2(k)) in quantities of 25 or less. The possession limit includes shells located in/on vehicles and other personal equipment. The field possession limit for shells does not apply to goose hunting after the closing of the duck season in January.

7. We prohibit hunting closer than 100 yards (90 m) to another hunter or hunting party.

8. You must remove decoys, blinds, boats, and all other equipment (see § 27.93 of this chapter) daily by 1 p.m.

9. Waterfowl hunters may enter the refuge at 4 a.m.

10. Boats with the owner's name and address permanently displayed or valid registration may be left on the refuge from March 1 through October 31. We prohibit the use of boats from 12 p.m. (midnight) to 4 a.m. during duck season.

11. Hunters may use and possess only biodegradable materials to mark trails.

12. We prohibit building or hunting from permanent blinds. We prohibit driving or screwing any metal object into a tree or hunting from a tree in which a metal object has been driven or screwed to support a hunter (see § 32.2(i)).

13. We prohibit cutting of holes or manipulation of vegetation (i.e., cutting bushes, mowing, weed-eating, herbicide use, etc.) and hunting from manipulated areas (see § 27.51 of this chapter).

14. We allow use of dogs for migratory game bird hunting.

15. We allow waterfowl hunting from refuge roads and levees.

16. Any hunter born after 1968 must carry a valid hunter education card. An adult at least age 21 must supervise hunters under age 16 who have a valid hunter education card and remain within sight and normal voice contact with the youth. Hunters under age 16 do not need to have a card if they are under the direct supervision (within arm's reach) of an adult (at least age 21) holder of a valid hunting license. An adult may supervise up to two youths for migratory bird and upland game hunting but may supervise only one youth for big game hunting. We will honor home State hunter education cards.

17. We prohibit target practice or nonhunting discharge of firearms (see § 27.42 of this chapter).

18. We allow vehicle use only on established roads and trails (see § 27.31 of this chapter). We limit vehicle access on the Mingo Creek unit to ATV use only, only on marked ATV trails, September 1 through February 28, and only to provide access for hunting beyond Parking Areas. Hunters may use conventional vehicles on the Farm Unit from March 1 through November 14 only. Hunters may only use ATVs from September 1 through February 28 and only to provide access for hunting beyond Parking Areas. We prohibit driving around a locked gate, barrier, or beyond a sign closing a road to vehicular traffic (see § 27.31 of this chapter).

19. We prohibit entry into or hunting in waterfowl sanctuaries from November 15 through February 28.

20. Hunters must adhere to all public use special conditions and regulations on the annual hunt brochure/permit.

21. We prohibit airboats, hovercraft, and personal watercraft (Jet Ski, etc.).

22. We prohibit the possession or use of alcoholic beverages while hunting (see § 32.2(j)).

B. Upland Game Hunting. We allow hunting of squirrel, rabbit, quail, raccoon, opossum, beaver, muskrat, nutria, armadillo, coyote, and feral hog on designated areas of the refuge in accordance with State regulations subject to the following special conditions:

1. Conditions A1, A5, A10 through A12, and A16 through A22 apply.

2. Hunters may use shotguns only with approved nontoxic shot (see § 32.2(k)) and rifles chambered for rimfire cartridges.

3. We allow squirrel hunting September 1 through February 28 on the Mingo Creek Unit and on the Farm Unit, except for season closure on the Farm Unit during the Quota Gun Deer Hunt. We prohibit dogs, except for the period of December 1 through February 28.

4. We allow rabbit hunting in accordance with the State season on the Mingo Creek Unit and on the Farm Unit, except for season closure on the Farm Unit during the Quota Gun Deer Hunt. We prohibit dogs, except for the period of December 1 through February 28.

5. We allow quail hunting in accordance with the State season except for season closure on the Farm Unit during the Quota Gun Deer Hunt. We allow dogs.

6. We allow hunting of raccoon and opossum with dogs on all refuge hunt units. We require dogs for hunting of raccoon/opossum at night. We list annual season dates in the refuge hunting brochure/permit. We prohibit field trials and organized training events.

7. We prohibit the use of horses and mules.

8. Hunters may take beaver, muskrat, nutria, armadillo, feral hog, and coyote during any refuge hunt with the device allowed for that hunt subject to State seasons.

9. We prohibit hunting from refuge roads except by waterfowl hunters.

10. We prohibit hunting from a vehicle.

11. We limit nighttime use to fishing, frogging, and/or raccoon/opossum hunting, and the angler or hunter must possess the appropriate tackle or gear.

C. Big Game Hunting. We allow hunting of deer and turkey on designated areas of the refuge in accordance with State regulations subject to the following conditions:

1. Conditions A1, A5, A10 through A12, A16 through A22, and B8 through B11 apply.

2. We divide the refuge into two hunting units: Farm Unit and Mingo Creek Unit.

3. The archery/crossbow hunting season for deer begins on the opening day of the State season and continues throughout the State season in the Mingo Creek Unit and Farm Unit except for the season closure on the Farm Unit during the Quota Gun Deer Hunt. We provide annual season dates and bag limits on the hunt brochure/permit (signature required).

4. Muzzleloader hunting season for deer will begin in October and continue for a period of up to 9 days in all hunting units with annual season dates and bag limits provided on the hunt brochure/permit.

5. The modern gun hunting season for deer will begin in November and continue for a period of up to 9 days on the Farm Unit with annual season dates and bag limits provided on the hunt brochure/permit. We close the Mingo Creek Unit.

6. The fall archery/crossbow hunting season for turkey will begin on the opening day of the State season and continue throughout the State season on the Mingo Creek Unit only.

7. We prohibit spring and fall gun hunting for turkey.

8. Immediately record the zone 002 on your hunting license and later at an official check station for all deer and turkey harvested on the refuge.

9. You may use only shotguns with rifled slugs, muzzleloaders, and legal pistols for modern gun deer hunting.

10. We allow only portable deer stands capable of being carried by a single individual. Hunters may erect stands 7 days prior to the refuge deer season and must remove them from the waterfowl sanctuaries prior to November 15, except for stands used by Quota Gun Deer Hunt permit holders (signature required), which must be removed by the last day of the Quota Gun Deer Hunt. Hunters must remove all stands on the remainder of the refuge within 7 days of the closure of archery season (see § 27.93 of this chapter). Hunters must permanently affix their name and address to their deer stands on the refuge.

11. We prohibit hunting from a vehicle or use of a vehicle as a deer stand.

12. We prohibit the use of dogs.

13. We prohibit the possession or use of buckshot for hunting on all refuge lands.

14. We prohibit hunting from mowed and/or graveled road right-of-ways.

15. Refuge lands are located in State-designated Flood Prone Region B, and we will close them to all deer hunting when the White River Gauge at Augusta reaches 31 feet (9.3 m), as reported by the National Weather Service at http://www.srh.noaa.gov/data/LZK/RVSLZK and reopen them when the same gauge reading falls below 30 feet (9.1 m) and the White River Gauge at Georgetown falls to, or below, 19 feet (5.7 m).

16. We allow only Quota Gun Deer Hunt permit holders on the Farm Unit during the Quota Gun Deer Hunt and only for the purposes of deer hunting. We close the refuge to all other entry and public use during the Quota Gun Deer Hunt.

17. We close waterfowl sanctuaries to all entry and hunting from November 15 to February 28 except for Quota Gun Deer Hunt permit holders who may hunt the sanctuary when the season overlaps with these dates.

D. Sport Fishing. We allow fishing and frogging in accordance with State regulations subject to the following conditions:

1. Conditions A10, A18 through A21, B11, and C16 apply.

2. We close waterfowl sanctuaries to all entry and fishing/frogging from November 15 to February 28. We also close the Farm Unit to all entry and fishing during the Quota Gun Deer Hunt.

3. We prohibit commercial fishing.

4. We prohibit the take or possession of turtles and/or mollusks (see § 27.21 of this chapter).

5. We prohibit mooring houseboats to the refuge bank on the Little Red River.

Big Lake National Wildlife Refuge

* * * * *

B. Upland Game Hunting. We allow hunting of squirrel, rabbit, raccoon, nutria, coyote, beaver, and opossum on designated areas of the refuge in accordance with State regulations subject to the following conditions:

1. We require refuge hunt permits. The permits (found on the front cover of the annual hunt brochure/permit—signature required) are nontransferable and anyone on refuge land in possession of hunting equipment must sign and carry the permit at all times.

2. We provide annual season dates for squirrel, rabbit, raccoon, and opossum hunting in the refuge hunting brochure/permit.

3. We allow take of nutria, beaver, and coyote during any refuge hunt with the device allowed for that hunt subject to State seasons.

4. Any hunter born after 1968 must carry a valid hunter education card. An adult age 21 or older must supervise and remain within sight and normal voice contact with hunters under age 16 who have a valid hunter education card. Hunters under age 16 do not need to have a card if they are under the direct supervision (within arm's reach) of an adult (age 21 or older) holder of a valid hunting license. An adult may supervise up to two youths for upland game hunting but may supervise only one youth for big game hunting. We will honor home State hunter education cards.

5. We prohibit target practice or any nonhunting discharge of firearms (see § 27.42 of this chapter).

6. You may take opossum when hunting raccoon.

7. We require dogs for night hunting of raccoon and opossum. We prohibit field trials and organized training events.

8. When hunting, you may only use shotguns with approved nontoxic shot (see § 32.2(k)) and rifles chambered for rimfire cartridges.

9. We prohibit boats from November 1 through February 28, except on that portion of the refuge open for public fishing with electric motors and Ditch 28.

10. We prohibit hunting from mowed and/or gravel road right-of-ways.

11. We prohibit ATVs (see § 27.31(f) of this chapter).

12. We prohibit horses and mules.

13. We limit nighttime use to fishing, frogging, and/or raccoon/opossum hunting, and the angler or hunter must possess the appropriate tackle or gear.

14. We prohibit driving around a locked gate, barrier, or beyond a sign closing a road to vehicular traffic (see § 27.31 of this chapter).

15. We prohibit the possession or use of alcoholic beverages while hunting (see § 32.2(j)).

16. You must adhere to all public use special conditions and regulations on the annual hunt brochure/permit.

C. Big Game Hunting. * * *

1. Conditions B1, B3 through B5, and B9 through B16 apply.

* * * * *

3. Hunters may use only bows or crossbows.

* * * * *

5. Hunters may possess or use only biodegradable materials to mark trails.

* * * * *

8. We allow only portable deer stands capable of being carried by a single individual. Hunters may erect stands 7 days prior to the refuge deer season and must remove them within 7 days of the closure of archery season (see § 27.93 of this chapter). Hunters must permanently affix their name and address to their deer stands on the refuge.

* * * * *

12. Hunters may enter the refuge no earlier than 4 a.m.

D. Sport Fishing. We allow fishing and frogging on designated areas of the refuge subject to the following conditions:

1. Conditions B9, B11 through B14, and B16 apply.

2. Anglers may launch boats only in designated areas.

3. We prohibit airboats, personal watercraft, Jet Skis, and hovercraft (see § 27.31 of this chapter).

4. We allow frogging from the beginning of the State frogging season through October 31.

5. We allow the take of largemouth bass in accordance with State regulations.

6. We prohibit the take or possession of turtles and/or mollusks (see § 27.21 of this chapter).

7. We require a Special Use Permit (FWS Form 3-1383) for all commercial fishing activities on the refuge.

Cache River National Wildlife Refuge

A. Migratory Game Bird Hunting. We allow hunting of duck, goose, coot, snipe, woodcock, and dove on designated areas of the refuge in accordance with State regulations subject to the following conditions:

1. We require refuge hunting permits. These permits (found on the front cover of the annual hunt brochure/permit—signature required) are nontransferable, and anyone on the refuge in possession of hunting equipment must sign and carry the permit at all times.

2. We allow hunting of duck, goose, coot, dove, and snipe daily until 12 p.m. (noon) throughout the State seasons, except for refuge-wide season closures during Quota Gun Deer Hunt and the exception provided in A3.

3. We allow hunting for goose from ½ hour before legal sunrise until ½ hour after legal sunset after the close of duck season in January for the remainder of the State goose season(s) and Snow, Blue, and Ross' Goose Conservation Order.

4. We allow hunting for woodcock daily throughout the State seasons except for season closures during the Quota Gun Deer Hunt.

5. We prohibit commercial hunting and/or guiding.

6. You may possess only approved nontoxic shot while hunting in the field (see § 32.2(k)).

7. You must remove decoys, blinds, boats, and all other equipment (see § 27.93 of this chapter) daily by 1 p.m.

8. Waterfowl hunters may enter the refuge at 4 a.m.

9. Boats with the owner's name and address permanently displayed or valid registration may be left on the refuge from March 1 through October 31. We prohibit boats on the refuge from 12 p.m. (midnight) to 4 a.m. during duck season.

10. Hunters may possess or use only biodegradable materials to mark trails.

11. We prohibit building or hunting from permanent blinds. We prohibit driving or screwing any metal object into a tree or hunting from a tree in which a metal object has been driven or screwed to support a hunter (see § 32.2(i)).

12. We prohibit cutting of holes or other manipulation of vegetation (e.g., cutting bushes, mowing, weed-eating, herbicide use, and other actions) or hunting from manipulated areas (see § 27.51 of this chapter).

13. We allow use of dogs for migratory game bird hunting.

14. We allow waterfowl hunting on flooded refuge roads.

15. Any hunter born after 1968 must carry a valid hunter education card. An adult at least age 21 must supervise and remain within sight and normal voice contact with hunters younger than age 16 who have a valid hunter education card. Hunters younger than age 16 do not need to have a card if they are under the direct supervision (within arm's reach) of a holder of a valid hunting license of at least age 21. An adult may supervise up to two youths for migratory bird and upland game hunting but may supervise only one youth for big game hunting. We will honor home State hunter education cards.

16. We prohibit target practice or any nonhunting discharge of firearms (see § 27.42 of this chapter).

17. We prohibit ATVs except from September 1 through February 28, on designated roads, trails, or established parking areas, and only to provide access for hunting. We prohibit driving around a locked gate, barrier, or beyond a sign closing a road to vehicular traffic (see § 27.31 of this chapter).

18. We prohibit entry into or hunting in waterfowl sanctuaries from November 15 through February 28.

19. You must adhere to all public use special conditions and regulations on the annual hunt brochure/permit.

20. We close all other hunts during the Quota Gun Deer Hunt. We allow only Quota Gun Deer Hunt permit (signature only required) holders to enter the refuge during this hunt and only for the purpose of deer hunting.

21. We prohibit airboats, hovercraft, and personal watercraft (Jet Ski, etc.) (see § 27.31 of this chapter).

B. Upland Game Hunting. We allow hunting of squirrel, rabbit, quail, raccoon, opossum, beaver, muskrat, nutria, armadillo, coyote, and feral hog on designated areas of the refuge in accordance with State regulations subject to the following conditions:

1. Conditions A1, A5, A9 through A11, and A15 through A21 apply.

2. We allow squirrel hunting September 1 through February 28 on all refuge hunt units except for refuge-wide season closure during the Quota Gun Deer Hunt. We prohibit dogs, except during the period December 1 through February 28.

3. Rabbit season corresponds with the State season on all refuge hunt units except for refuge-wide season closure during the Quota Gun Deer Hunt. We prohibit dogs except during the period December 1 through February 28.

4. Quail season corresponds with the State season on all refuge hunt units except for refuge-wide season closure during the Quota Gun Deer Hunt. We allow dogs.

5. We allow hunting of raccoon and opossum with dogs on all refuge hunt units. We require dogs for hunting of raccoon/opossum at night. We provide annual season dates in the refuge hunting brochure/permit. We prohibit field trials and organized training events.

6. We prohibit horses and mules.

7. You may take beaver, muskrat, nutria, armadillo, feral hog, and coyote during any refuge hunt with the device allowed for that hunt.

8. We prohibit hunting from mowed and/or graveled refuge roads except by waterfowl hunters during flooded conditions.

9. We prohibit hunting from a vehicle.

10. You may use only shotguns with approved nontoxic shot (see § 32.2(k)) and rifles chambered for rimfire cartridges when hunting.

11. We limit nighttime use to fishing, frogging, and/or raccoon/opossum hunting, and the angler or hunter must possess appropriate tackle or gear.

C. Big Game Hunting. We allow hunting of deer and turkey on designated areas of the refuge in accordance with State regulations subject to the following conditions:

1. Conditions A1, A5, A9 through A11, A15 through A21, B6 through B9, and B11 apply.

2. We divide the refuge into the following three hunting units: Unit I—refuge lands between Highway 79 and Interstate 40; Unit II—all refuge lands east of Highway 33 between Interstate 40 and Highway 18 at Grubbs, Arkansas; and Unit III—all refuge lands west of Highway 33, from Interstate 40 to Highway 64.

3. Archery/crossbow hunting season for deer begins on the opening day of the State season and continues throughout the State season in all refuge hunting units except for refuge-wide season closure during the Quota Gun Deer Hunt. We provide annual season dates and bag limits on the hunt brochure/permit.

4. Muzzleloader hunting season for deer will begin in October and will continue for a period of up to 9 days in all hunting units with annual season dates and bag limits provided on the hunt brochure/permit.

5. Modern gun deer hunting will begin in November and continue for a period of up to 11 days in all hunting units with annual season dates and bag limits provided on the hunt brochure/permit.

6. The fall archery/crossbow hunting season for turkey will begin on the opening day of the State season and continue throughout the State season in Hunt Units I, III, and those Unit II lands that are located within the State fall archery/crossbow turkey zone. We close Unit II lands outside the fall archery/crossbow turkey zone. We prohibit turkey hunting during the refuge-wide season closure during the Quota Gun Deer Hunt. We do not open for fall gun hunting for turkeys.

7. The spring gun hunt for turkey will begin on the opening day of the State season and continue throughout the State season in Hunt Units I and III. We close Unit II lands with the exception of those refuge lands included in the combined Black Swamp Wildlife Management Area/Cache River National Wildlife Refuge quota permit hunts administered by the State.

8. Immediately record the zone 095 on your hunting license and later at an official check station for all deer and turkey harvested on the refuge.

9. Hunters may only use shotguns with rifled slugs, muzzleloaders, or legal pistols for modern gun deer hunting on the Dixie Farm Unit Waterfowl Sanctuary, adjacent waterfowl hunt area, and the Plunkett Farm Unit Waterfowl Sanctuary.

10. We allow only portable deer stands capable of being carried by a single individual.

11. We prohibit use of a vehicle as a deer stand.

12. You must permanently affix the owner's name and address to all deer stands on the refuge.

13. Hunters may erect stands 7 days prior to the refuge deer season and must remove them from the waterfowl sanctuaries prior to November 15, and from the rest of the refuge within 7 days of the closure of archery season (see § 27.93 of this chapter).

14. We prohibit the use of dogs.

15. We prohibit the possession or use of buckshot for hunting on all refuge lands.

16. We prohibit hunting from mowed and/or graveled road right-of-ways.

17. We will close refuge lands located in State-designated Flood Prone Region B to all deer hunting when the White River gauge at Augusta reaches 31 feet (9.3 m), as reported by the National Weather Service at http://www.srh.noaa.gov/data/LZK/RVSLZK and reopen them when the same gauge reading falls below 30 feet (9.1 m) and the White River gauge at Georgetown falls to, or below, 19 feet (5.7 m).

18. We will close refuge lands located in State-designated Flood Prone Region C to all deer hunting when the Cache River gauge at Patterson exceeds 10 feet (3 m), as reported by the National Weather Service at http://www.srh.noaa.gov/data/LZK/RVSLZK and reopen them when the same gauge reading falls below 8.5 feet (2.6 m).

19. We will close refuge lands located in Flood Prone Region D to all deer and turkey hunting when the White River gauge at Clarendon reaches 28 feet (8.4 m), as reported by the National Weather Service at http://www.srh.noaa.gov/data/LZK/RVSLZK and reopen them when the same gauge reading falls to, or below, 27 feet (8.1 m).

D. Sport Fishing. We allow fishing and frogging on designated areas of the refuge in accordance with State regulations subject to the following conditions:

1. Conditions A9, A17, A19, A21, and B11 apply.

2. We close waterfowl sanctuaries to all entrance and fishing/frogging from November 15 to February 28. We prohibit refuge-wide entry and fishing during the Quota Gun Deer Hunt.

3. We require a Special Use Permit (FWS Form 3-1383) for all commercial fishing activities on the refuge.

4. We prohibit the take or possession of turtles and/or mollusks (see § 27.21 of this chapter).

5. We prohibit the mooring of houseboats to refuge property.

Felsenthal National Wildlife Refuge

A. Hunting of Migratory Game Birds. We allow hunting of duck, goose, and coot on designated areas of the refuge in accordance with State regulations subject to the following conditions:

1. We allow hunting of duck, goose, and coot during the State waterfowl season except during scheduled quota refuge Gun Deer Hunts.

2. Hunting of duck, goose, and coot ends at 12 p.m. (noon) each day.

3. We allow only portable blinds. You must remove all duck hunting equipment (portable blinds, boats, guns, and decoys) (see § 27.93 of this chapter) from the hunt area by 1:30 p.m. each day.

4. You may possess only approved nontoxic shells when hunting (see § 32.2(k)) in quantities of 25 or less each day during waterfowl season; hunters may not discharge more than 25 shells per day.

5. We close areas of the refuge posted with “Area Closed” signs and identify them on the refuge hunt brochure map as a waterfowl sanctuary. Waterfowl sanctuaries are closed to all public entry and public use during waterfowl hunting season.

6. No person will utilize the services of a guide, guide service, outfitter, club, organization, or other person who provides equipment, services, or assistance on Refuge System lands for compensation. Failure to comply with this provision subjects each hunter in the party to a fine if convicted of this violation.

7. Hunters must possess and carry a signed refuge hunt brochure permit while hunting. These hunt brochure permits are available at the refuge office, brochure dispensers at multiple locations throughout the refuge, and area businesses.

8. We prohibit possession and/or use of herbicides.

9. We prohibit marking trails with tape, ribbon, paint, or any other substance other than biodegradable paper flagging, reflective twist ties, or reflective tacks (see § 27.93 of this chapter).

10. We prohibit possession or use of alcoholic beverage(s) while hunting (see § 32.2(j)). We prohibit consumption or possession of opened container(s) of alcoholic beverage(s) in parking lots, on roadways, and in plain view in campgrounds.

11. All persons born after 1968 must possess a valid hunter education card in order to hunt.

12. All youth hunters age 15 and younger must remain within sight and normal voice contact of an adult age 21 or older, possessing a valid hunting license. One adult may supervise no more than two youth hunters.

13. We allow only all-terrain vehicles/utility-type vehicles (ATVs/UTVs) for hunting and fishing activities. We restrict ATVs/UTVs to designated times and designated trails (see § 27.31 of this chapter) marked with signs and paint. We identify these trails and the dates they are open for use in the refuge hunt brochure. We limit ATVs/UTVs to those having an engine displacement size not exceeding 700cc. We limit ATV/UTV tires to those having a centerline lug depth not exceeding 1 inch (2.5 cm). You may use horses on roads and ATV/UTV trails (when open to motor vehicle and ATV/UTV traffic respectively) as a mode of transportation for on-refuge, hunting and fishing activities.

14. We prohibit hunting within 150 feet (45 m) of roads and trails open to motor vehicle use (including ATV/UTV trails).

15. We prohibit target practice with any firearm, archery tackle, or crossbow or any nonhunting discharge of firearms (see § 27.42 of this chapter).

16. We allow camping only at designated primitive campground sites identified in the refuge hunt brochure, and we restrict camping to individuals involved in wildlife-dependent refuge activities. Campers may stay no more than 14 days during any 30 consecutive-day period in any campground and must occupy camps daily. We prohibit all disturbances, including use of generators, after 10 p.m. You must unload all hunting weapons (see § 27.42(b) of this chapter) within 100 yards (90 m) of a campground.

17. You may take beaver, nutria, feral hog, and coyote during any daytime refuge hunt with weapons and ammunition allowed for that hunt. There is no bag limit. You may not transport or possess live hog.

18. We prohibit blocking of gates, roadways, and boat ramps (see § 27.31(h) of this chapter).

19. We allow the use of retriever dogs.

20. We prohibit the use or possession of any electronic call or other electronic device used for producing or projecting vocal sounds of any wildlife species.

B. Upland Game Hunting. We allow hunting of quail, squirrel, rabbit, and furbearers (as defined by State law) on designated areas of the refuge in accordance with State regulations subject to the following conditions:

1. Conditions A4 through A18 and A20 apply.

2. We allow hunting for the species listed above on the refuge during State seasons for this zone through January 31. We list specific hunting season dates annually in the refuge hunt brochure. We close upland game hunting during refuge quota deer hunts. We annually publish dates for these quota deer hunts in the refuge hunt brochure.

3. We do not open for spring squirrel hunting season, summer/early fall raccoon hunting season, or spring bobcat hunting season.

4. We prohibit possession of lead ammunition except that you may use rimfire rifle lead ammunition no larger than .22 caliber for upland game hunting. We prohibit possession of shot larger than that legal for waterfowl hunting. During the deer and turkey hunts, hunters may use lead ammunition legal for taking deer and turkey. We prohibit buckshot for gun deer hunting.

5. You may use dogs for squirrel and rabbit hunting from the opening of furbearer (as defined by State law) hunting season through January 31. You may also use dogs for quail hunting and for raccoon/opossum hunting during open season on the refuge for these species. At other times, you must keep dogs and other pets on a leash or confined (see § 26.21(b) of this chapter).

C. Big Game Hunting. * * *

1. Conditions A6 through A11, A13 through A18, and A20 apply.

* * * * *

3. We close archery deer hunting during the quota gun deer hunts.

4. The refuge will conduct no more than two muzzleloader deer hunts and no more than four quota modern gun deer hunts.

5. We restrict hunt participants for quota hunts to those drawn for a quota permit (Big/Upland Game Hunt Application; FWS Form 3-2356). The permits are nontransferable and permit fees are nonrefundable. If conditions prevent the hunts from occurring, there will not be any refunds or permits carried over from year to year. Hunt dates and application procedures will be available at the refuge office in July.

6. The muzzleloader and modern gun deer hunt bag limit is two deer with no more than one buck on each hunt.

7. Hunters must check all harvested deer during quota hunts at refuge deer check stations on the same day of the kill. We identify the check station locations in the refuge hunt brochure. Carcasses of deer taken must remain intact (except you may field dress) until checked.

8. You may only use portable deer stands erected no earlier than 2 days before the opening of the State deer season and you must remove them no later than February 2 each year (see § 27.93 of this chapter).

9. We prohibit the use of deer decoy(s).

* * * * *

13. The refuge will conduct no more than three quota permit spring turkey gun hunts. Specific hunt dates and application procedures will be available at the refuge office in January. We restrict hunt participants to those selected for a quota permit, except that one nonhunting adult age 21 or older possessing a valid hunting license must accompany the youth hunter age 15 and younger.

14. An adult age 21 or older possessing a valid hunting license must accompany and be within sight and normal voice contact of hunters age 15 and younger. One adult may supervise no more than one youth hunter.

15. We prohibit leaving any tree stand, ground blind, boat, or game camera on the refuge without the owner's name and address clearly written in a conspicuous location.

D. Sport Fishing. We allow fishing, frogging, and crawfishing for personal use on designated areas of the refuge in accordance with State regulations subject to the following conditions:

1. Conditions A6, A8, A9, A13, A16, and A18 apply.

2. We prohibit fishing in the waterfowl sanctuary area during the waterfowl hunting season, with the exception of the main channel of the Ouachita and Saline Rivers and the borrow pits along Highway 82. We post the waterfowl sanctuary area with “Area Closed” signs and identify those areas in refuge hunt brochures.

3. We allow fishing only in areas accessible from the Oauchita and Saline Rivers and Eagle, Jones, and Pereogeethe Lakes during the refuge quota gun hunts.

4. You must reset trotlines when receding water levels expose them.

5. We prohibit consumption or possession of opened container(s) of alcoholic beverage(s) in parking lots, on roadways, and in plain view in campgrounds (see § 32.5(c)).

Holla Bend National Wildlife Refuge

* * * * *

B. Upland Game Hunting. * * *

* * * * *

6. We allow ATVs only for hunters with disabilities. We require a refuge ATV permit (Special Use Permit; FWS Form 3-1383) issued by the refuge manager.

* * * * *

11. We prohibit hunting within 150 feet (45 m) of roads open to motor vehicle use and nature trails.

* * * * *

13. We allow the use of nonmotorized boats during the refuge fishing/boating season (March 1 to October 31), but we prohibit hunters leaving boats on the refuge overnight (see § 27.93 of this chapter).

C. Big Game Hunting. * * *

1. Conditions B1 and B4 through B13 apply.

2. We allow archery/crossbow hunting for white-tailed deer. We provide annual season dates in the hunt brochure/permit (name, address, signature required).

* * * * *

D. Sport Fishing. * * *

1. Conditions B6, B7, and B9 apply.

* * * * *

Overflow National Wildlife Refuge

A. Migratory Game Bird Hunting. We allow hunting of duck, goose, and coot on designated areas of the refuge in accordance with State regulations subject to the following conditions:

1. We allow hunting of duck, goose, and coot during the State waterfowl season. We do not open during the September teal season.

* * * * *

3. We allow only portable blinds. Hunters must remove portable blinds, boats, and decoys from the hunt area by 1:30 p.m. each day (see § 27.93 of this chapter). Exception: Hunters may store boats in designated areas identified on refuge brochure.

* * * * *

5. We close areas of the refuge by posting “Area Closed” signs and identifying them on the refuge hunt brochure map as Sanctuary and closed to all public entry and public use. Exception: We open the area identified as North Sanctuary on refuge hunt brochure map to all authorized public use activities from 2 days prior to opening of deer archery season through October 31. We close the South Waterfowl Sanctuary from December 1 until the end of waterfowl season.

* * * * *

7. You must possess and carry a signed refuge hunt brochure permit while hunting. These hunt brochure permits are available at the refuge office, brochure dispensers at multiple locations throughout the refuge, and area businesses.

* * * * *

9. We prohibit marking trails with tape, ribbon, paint, or any other substance other than biodegradable paper flagging, reflective twist ties, or reflective tacks (see § 27.93 of this chapter).

10. We prohibit possession or use of alcoholic beverage(s) while hunting (see § 32.2(j)). We prohibit consumption or possession of opened container(s) of alcoholic beverage(s) in parking lots and roadways.

* * * * *

12. All youth hunters age 15 and younger must remain within sight and normal voice contact of an adult age 21 or older, possessing a valid hunting license. One adult may supervise no more than two youth hunters.

13. We allow only all-terrain vehicles/utility-type vehicles (ATVs/UTVs) for hunting activities. We restrict ATVs/UTVs to designated times and designated trails (see § 27.31 of this chapter) marked with signs and paint. We identify those trails and the dates they are open for use in the refuge hunt brochure. We limit ATVs/UTVs to those having an engine displacement size not exceeding 700cc. We limit ATV/UTV tires to those having a centerline lug depth not exceeding 1 inch (2.5 cm). You may use horses on roads and ATV/UTV trails (when open to motor vehicle and ATV/UTV traffic respectively) as a mode of transportation for on-refuge, hunting activities. You may use ATVs/UTVs on unmarked roads and levees in the North Sanctuary beginning 2 days prior to the opening of deer archery season through October 31.

14. We prohibit hunting within 150 feet (45 m) of roads and trails open to motor vehicle use (including ATV/UTV trails).

15. We prohibit target practice with any firearm, archery tackle, or crossbow or any nonhunting discharge of firearms (see § 27.42 of this chapter).

16. We prohibit blocking of gates, roadways, and boat ramps (see § 27.31(h) of this chapter).

17. You may take beaver, nutria, feral hog, and coyote during any daytime refuge hunt with weapons and ammunition legal for that hunt. There is no bag limit. We prohibit transportation or possession of live hog.

* * * * *

B. Upland Game Hunting. We allow hunting of quail, squirrel, rabbit, and furbearers (as defined by State law) on designated areas of the refuge in accordance with State regulations subject to the following conditions:

1. Conditions A4 through A17, and A19 apply.

* * * * *

3. We do not open for the spring squirrel hunting season, summer/fall raccoon hunting season, or the spring bobcat hunting season.

4. When upland game hunting, we prohibit possession of lead ammunition except that you may use rimfire rifle lead ammunition no larger than .22 caliber. We prohibit possession of shot larger than that legal for waterfowl hunting. During the deer and turkey hunts, we allow use of lead ammunition legal for taking deer and turkey. We prohibit buckshot for gun deer hunting.

5. You may use dogs for squirrel and rabbit hunting from December 1 through January 31. You may also use dogs for quail hunting and for raccoon/opossum hunting during open season on the refuge for these species. At other times, you must keep dogs and other pets on a leash or confined (see § 26.21(b) of this chapter).

C. Big Game Hunting. * * *

1. Conditions A5 through A11, A13 through A17, and A19 apply.

2. We allow muzzleloader deer hunting during the first State muzzleloader season for this zone (see State regulations for appropriate zone).

3. Bag limit for the muzzleloader deer hunt is two deer, with no more than one buck.

4. You may use only portable deer stands erected no earlier than 2 days before the opening of the State deer season, and you must remove them no later than February 2 each year (see § 27.93 of this chapter).

5. We prohibit the use of deer decoy(s).

* * * * *

8. We do not open for the fall turkey archery season or spring turkey gun season.

9. We do not open for the gun deer season or the second (and December) muzzleloader deer season.

10. An adult age 21 or older possessing a valid hunting license must accompany and be within sight or normal voice contact of hunters age 15 and younger. One adult may supervise no more than one youth hunter.

11. We prohibit leaving any tree stand, ground blind, boat, or game camera on the refuge without the owner's name and address clearly written in a conspicuous location.

* * * * *

Pond Creek National Wildlife Refuge

A. Migratory Game Bird Hunting. * * *

1. We allow hunting of migratory game birds during the State waterfowl seasons, except we close during scheduled quota refuge gun deer hunts.

* * * * *

3. We allow only portable blinds. You must remove portable blinds, boats, and decoys from the hunt area by 1:30 p.m. each day (see § 27.93 of this chapter).

* * * * *

5. You must possess and carry a signed refuge hunt brochure permit while hunting. These hunt brochure permits are available at the refuge office, brochure dispensers at multiple locations throughout the refuge, and area businesses.

* * * * *

7. We prohibit marking trails with tape, ribbon, paint, or any other substance other than biodegradable paper flagging, reflective twist ties, or reflective tacks (see § 27.93 of this chapter).

* * * * *

11. We allow only all-terrain vehicles/utility-type vehicles (ATVs/UTVs) for hunting and fishing activities. We restrict ATVs/UTVs to designated times and designated trails (see § 27.31 of this chapter) marked with signs and paint. We identify those trails and the dates they are open for use in the refuge hunt brochure. We limit ATVs/UTVs to those having an engine displacement size not exceeding 700cc and a total width not to exceed 63 inches (160.02 cm). We limit ATV/UTV tires to those having a centerline lug depth not exceeding 1 inch (2.5 cm). You may use horses on roads and ATV/UTV trails (when open to motor vehicle and ATV/UTV traffic respectively) as a mode of transportation for on-refuge, hunting and fishing activities.

12. We prohibit hunting within 150 feet (45 m) of roads and trails open to motor vehicle use (including ATV/UTV trails).

13. We prohibit target practice with any firearm, archery tackle, or crossbow or any nonhunting discharge of firearms (see § 27.42 of this chapter).

14. We allow camping only at designated primitive campground sites identified in the refuge hunt brochure. We restrict camping to the individuals involved in refuge wildlife-dependent activities. Campers may stay no more than 14 days during any consecutive 30-day period in a campground and must occupy the camps daily. We prohibit all disturbances, including use of generators, after 10 p.m. You must unload all hunting firearms and crossbows (see § 27.42(b) of this chapter) within 100 yards (90 m) of a campground.

15. You may take beaver, nutria, feral hog, and coyote during any daytime refuge hunt with weapons and ammunition allowed for that hunt. We prohibit the use of dogs to take these species. There is no bag limit. You may not transport or possess live hog.

16. We prohibit blocking of gates, roadways, and boat ramps (see § 27.31(h) of this chapter).

17. We allow the use of retriever dogs.

18. We prohibit the use or possession of any electronic call or other electronic device used for producing or projecting vocal sounds of any wildlife species.

* * * * *

B. Upland Game Hunting. We allow hunting of squirrel, rabbit, and furbearers (as defined by State law) on designated areas of the refuge in accordance with State regulations subject to the following conditions:

1. We allow hunting on the refuge during State seasons for this zone for the species listed above through January 31. We list specific hunting season dates annually in the refuge hunt brochure. We close upland game hunting during refuge quota deer hunts. We annually publish dates for these quota deer hunts in the refuge hunt brochure.

2. We do not open to spring squirrel hunting season, summer/early fall raccoon hunting season, or the spring bobcat hunting season.

3. Conditions A4 through A16, and A18 apply.

4. We prohibit possession of lead ammunition when hunting, except that you may use rimfire rifle lead ammunition no larger than .22 caliber for upland game hunting. We prohibit possession of shot larger than that legal for waterfowl hunting. During the deer and turkey hunts, we allow use of lead ammunition legal for taking deer and turkey. We prohibit buckshot for gun deer hunting.

5. You may use dogs for squirrel, rabbit, raccoon, and opossum hunting from the opening of furbearer (as defined by State law) hunting season through January 31. At other times you must keep dogs and other pets on a leash or confined (see § 26.21(b) of this chapter).

C. Big Game Hunting. * * *

* * * * *

2. Conditions A4 through A9, A11 through A16, and A18 apply.

* * * * *

4. We allow muzzleloader deer hunting during the early State muzzleloader season for this deer management zone. The bag limit for the refuge muzzleloader hunt is two deer, with no more than one buck.

5. The refuge will conduct no more than three quota gun deer hunts.

6. We restrict hunt participants for quota hunts to those drawn for a quota permit. These permits are nontransferable and permit fees are nonrefundable. If conditions prevent the hunts from taking place, there will be no refunds or permits carried over from year to year. Hunt dates and application procedures will be available at the refuge office in July.

7. The quota Gun Deer Hunt bag limit is two deer, with no more than one buck (one buck and one doe).

8. You must check all deer at the refuge deer check station on the same day of kill. You must keep carcasses of deer taken intact (you may field dress) until checked.

* * * * *

12. You may use only portable deer stands erected no sooner than 2 days before the opening of the State deer season, and you must remove them no later than February 2 each year (see § 27.93 of this chapter).

13. We prohibit the use of deer decoy(s).

14. The refuge will conduct no more than two quota permit spring turkey gun hunts. Specific hunt dates and application procedures will be available at the refuge office in January. We restrict hunt participants on these hunts to those selected for a quota permit, except that one nonhunting adult age 21 or older and possessing a valid hunting license must accompany a youth hunter.

15. An adult age 21 or older possessing a valid hunting license must accompany and be within sight and normal voice contact of hunters age 15 and younger. One adult may supervise no more than one youth hunter during big game hunts.

16. We prohibit leaving any tree stand, ground blind, boat, or game camera on the refuge without the owner's name and address clearly written in a conspicuous location.

* * * * *

Wapanocca National Wildlife Refuge

A. Migratory Game Bird Hunting. * * *

1. We require refuge hunting permits. The permits (found on the front cover of the annual hunt brochure/permit—signature required) are nontransferable and anyone on refuge land in possession of hunting equipment must sign and carry them at all times.

* * * * *

5. Hunters may enter the refuge at 4 a.m.

6. We prohibit ATVs.

7. Any hunter born after 1968 must carry a valid hunter education card. An adult age 21 or older must supervise hunters younger than age 16 who have a valid hunter education card and remain within sight and normal voice contact with the adult. Hunters younger than age 16 do not need to have a card if they are under the direct supervision (within arm's reach) of a holder of a valid hunting license of at least age 21. An adult may supervise up to two youths for migratory bird and upland game hunting but may supervise only one youth for big game hunting. We honor home State hunter education cards.

8. Hunters may possess or use only biodegradable materials to mark trails (see § 27.93 of this chapter).

9. We prohibit target practice or any nonhunting discharge of firearms (see § 27.42 of this chapter).

10. We prohibit driving around a locked gate, barrier, or beyond a sign closing a road to vehicular traffic (see § 27.31 of this chapter).

11. We prohibit the possession or use of alcoholic beverages while hunting (see § 32.2(j)).

B. Upland Game Hunting. We allow hunting of squirrel, rabbit, raccoon, nutria, beaver, coyote, feral hog, and opossum in accordance with State regulations subject to the following conditions:

1. Conditions A1 and A3 through A11 apply.

2. You may use only shotguns with approved nontoxic shot (see § 32.2(k)) and rifles chambered for rimfire cartridges when hunting.

3. We provide annual season dates for squirrel, rabbit, raccoon, and opossum hunting on the hunt brochure/permit. We allow dogs.

4. You may take nutria, beaver, feral hog, and coyote during any refuge hunt with the device allowed for that hunt, subject to State seasons, on these species.

5. We require dogs for night hunting of raccoon/opossum. We prohibit field trials and organized training events.

6. We prohibit horses and mules.

7. We limit nighttime use to raccoon/opossum hunting and the hunters must possess appropriate gear.

8. We close all other hunts during the Quota Gun Deer Hunt. We allow only Quota Gun Deer Hunt permit (signature only required) holders to enter the refuge during this hunt and only for the purpose of deer hunting.

C. Big Game Hunting. * * *

1. Conditions A1, A3 through A11, and B4 through B8 apply.

2. We prohibit hunting from mowed and/or graveled road right-of-ways.

* * * * *

7. We only allow portable deer stands capable of being carried by a single individual. Hunters may erect stands 7 days prior to the refuge deer season and must remove them from the waterfowl sanctuaries by December 1. Hunters must remove all stands on the remainder of the refuge within 7 days of the closure of archery season (see § 27.93 of this chapter). You must permanently affix the owner's name and address on stands left on the refuge.

8. We prohibit hunting from a vehicle or use of a vehicle as a deer stand.

9. We prohibit the possession or use of buckshot for hunting on all refuge lands.

D. Sport Fishing. * * *

1. Conditions A4, A6, A10, B6, and B7 apply. We allow fishing from March 15 through October 31 from ½ hour before legal sunrise to ½ hour after legal sunset.

* * * * *

5. We allow bank fishing.

6. We prohibit the take or possession of frogs, mollusks, and/or turtles (see § 27.21 of this chapter).

7. Anglers may launch boats only in designated areas.

8. Anglers must remove all boats daily from the refuge (see § 27.93 of this chapter). We prohibit airboats, personal watercraft, and hovercraft.

White River National Wildlife Refuge

A. Migratory Game Bird Hunting. We allow hunting of duck and coot on designated areas of the refuge in accordance with State regulations subject to the following conditions:

1. We require all refuge users to sign and possess a refuge user brochure/permit (signature required).

2. We allow duck hunting from legal shooting hours until 12 p.m. (noon).

3. We allow retriever dogs for migratory game bird hunting.

4. You must remove blinds, blind material, and decoys (see § 27.93 of this chapter) from the refuge by 1 p.m. each day.

5. You may take duck and coot during the State season in designated areas.

6. North Unit waterfowl season and youth waterfowl hunts are concurrent with State season dates.

7. We restrict the South Unit waterfowl season to the Jack's Bay hunt area as indicated in the refuge user brochure/permit. We open to hunting every Tuesday, Thursday, Saturday, and Sunday of the concurrent State season dates, including State youth waterfowl hunt dates.

8. Waterfowl hunters may enter and access the refuge no earlier than 4 a.m.

9. We prohibit boating December 1 through January 31 in the South Unit Waterfowl Hunt Area, except from 4 am to 1 pm on designated waterfowl hunt days.

10. We prohibit marking trails with materials other than biodegradable paper flagging or reflective tape/tacks (see § 27.93 of this chapter).

11. We prohibit use and/or possession of alcoholic beverages while hunting (see § 32.2(j)) or open alcohol containers on refuge roads, ATV trails, and parking areas.

12. We prohibit cutting of holes in or other manipulation of vegetation or hunting in such areas (see § 27.51 of this chapter).

13. We prohibit waterfowl hunting on Kansas Lake Area (indicated in refuge user brochure/permit).

14. We prohibit loaded hunting weapons in or on a vehicle, ATV, or boat while under power (see § 27.42(b) of this chapter). We define “loaded” as shells in the gun or ignition device on a muzzleloader.

15. We allow duck hunting on specific scattered tracts of land, in accordance with the North Unit regulations. Consult the refuge office for further information.

16. We only allow ATVs for wildlife-dependent hunting and fishing activities. We restrict ATVs to designated yellow-marked trails throughout the refuge, unless marked otherwise. We prohibit the use of ATVs after December 15 each year in designated South Unit areas as shown in refuge user brochure/permit. We define ATV as an off-road vehicle with factory specifications not to exceed the following: A maximum dry weight of 1,550 lbs (697.5 kg), tires having a centerline lug depth of one inch (2.5 cm) or less and a maximum tire pressure of 15 psi as indicated on the tire by the manufacturer. We allow only those vehicles originally designed by their manufacturer to be ATVs; we prohibit mini trucks or other modified off-road vehicles.

17. We require hunters born after 1968 to carry a valid hunter education card. We do not require hunters under age 16 to have a hunter education card while under direct supervision (within arms reach) of a holder of a valid hunting license and at least age 21. Youth hunters under age 16 must remain within sight and normal voice contact of an adult age 21 or older, possessing a valid hunting license. An adult may supervise only one youth for big game hunting but may supervise up to two youths for waterfowl and small game hunting.

18. We allow take of beaver, nutria, coyote, and feral hog incidental to any daytime refuge hunt with weapons authorized for that hunt. We prohibit take of beaver, nutria, and feral hog with the aid of dogs or after the hunter has taken the daily bag limit for that hunt.

19. No person, including but not limited to, a guide, guide service, outfitter, club, or other organization, will provide assistance, services, or equipment on the refuge to any other person for compensation unless such guide, guide service, outfitter, club, or organization has obtained a Special Use Permit (FWS Form 3-1383) from the refuge. For purposes of this regulation, we will consider any fees or services rendered to a person for lodging, meals, club membership, or similar services as compensation.

20. We prohibit hunting, taking, possessing, or attempting to take wildlife with a guide, guide service, outfitter, club, or organization providing assistance, service, or equipment that does not possess and carry the required refuge Special Use Permit (FWS Form 3-1383).

21. We allow camping only in designated sites and areas identified in the refuge user brochure/permit, and we restrict camping to individuals involved in wildlife-dependent activities. Campers may stay no more than 14 days during any 30 consecutive-day period in any campground site or area and must occupy camps daily. We prohibit all disturbances, including use of generators, after 10 p.m. You must unload all hunting weapons (see § 27.42(b) of this chapter) within 100 yards (90 m) of a campground.

22. We allow refuge users to leave ATVs and boats 16 feet (4.8 m) or less in length unattended overnight as long as the owner clearly displays their complete name and physical address.

23. We prohibit all access in the Demonstration and Dry Lake Waterfowl Rest Areas as indicated in the refuge brochure/permit.

24. We require a refuge Special Use Permit (FWS Form 3-1383) for all commercial use activities including, but not limited to, fishing, trapping, timber management, or collecting acorns.

25. We prohibit hovercraft, personal watercraft (e.g., jet skis, wetbike, etc.) and airboats.

26. You must adhere to all public use special conditions and regulations on the annual refuge user brochure/permit.

B. Upland Game Hunting. * * *

1. Conditions A1, A9, A10, A11, A12, A14, and A16 through A26 apply.

2. You may hunt rabbit and squirrel on the North Unit from opening day of the State squirrel season from September 1 until February 28.

3. We allow dogs for hunting of rabbit and squirrel December 15 through February 28 on the North Unit.

4. You may hunt rabbit and squirrel on the South Unit from September 1 until November 30.

* * * * *

7. We close all upland game hunts during quota Gun Deer Hunt and quota Muzzleloader Deer Hunt.

* * * * *

9. We allow furbearer (as defined by State law) hunting in accordance with season dates posted in the refuge user brochure/permit. We only allow furbearer hunting with rimfire weapons and shotguns.

10. We allow the use of dogs and horses for hunting furbearers from legal sunset to legal sunrise. All dogs and horses used for furbearer hunting must be tethered or penned from legal sunrise to legal sunset and any time not involved in actual hunting.

11. We allow upland game hunting on specific scattered tracts of land, in accordance with State-wide regulations.

C. Big Game Hunting. We allow the hunting of white-tailed deer and turkey on designated areas of the refuge in accordance with State regulations subject to the following conditions:

1. Conditions A1, A9, A10, A11, A12, A14, and A16 through A26 apply.

2. Archery deer and turkey seasons on the North Unit are from the beginning of the State archery season until the end of January except for refuge-wide season closure during quota muzzleloader and quota gun deer hunts. We provide annual season dates and bag limits in the refuge user brochure/permit.

3. Archery deer and turkey seasons on the South Unit are from the beginning of the State archery season until the end of December except for refuge-wide season closure during quota muzzleloader and quota gun deer hunts. We provide annual season dates and bag limits in the refuge user brochure/permit.

4. Muzzleloader season for deer will begin in October and will continue for a period of up to 3 days of quota hunting and 4 days of nonquota hunting in the North and/or South Units with annual season dates and bag limits provided in the annual refuge user brochure/permit.

5. Gun deer hunt will begin in November and will continue for a period of up to 8 days of quota hunting and 4 days of nonquota hunting in the North and/or South Units with annual season dates, bag limits, and areas provided in the annual refuge user brochure/permit.

6. We restrict hunt participants for quota hunts to those drawn for a quota permit. The permits are nontransferable and nonrefundable. Hunt dates and application procedures will be available at the refuge office in April.

7. We do not open for the bear season on all refuge-owned lands, including out-tracts and refuge lands in the Trusten Holder Wildlife Management Area.

8. If you harvest deer or turkey on the refuge, you must immediately record the zone number (Zone 660 South Unit and Zone 661 North Unit) on your hunting license and later check deer and/or turkey through State phone or on-line checking system.

9. We close the refuge to all nonquota hunting during refuge-wide quota muzzleloader and quota gun deer hunts.

10. We close refuge lands on the North Unit to all deer and turkey hunting when the White River gauge at St. Charles (station no. 53) reaches 23 feet (7 m) as reported by the following Web site: http://www.srh.noaa.gov/lzk/html/whitervr.htm. The season will reopen when the gauge reading reaches 21 feet (6 m) as reported by the same Web site.

11. We close refuge lands on the South Unit to all deer hunting and fall turkey hunting when the White River gauge reading at St. Charles (station no. 53) reaches 23 feet (7 m) and the gauge at Lock and Dam #1 (station no. 55) reaches 145 feet (msl) (43.5 m) simultaneously as reported by the following Web site: http://www.srh.noaa.gov/lzk/html/whitervr.htm. The season will reopen when the same gauge readings reach 21 feet (6 m) and 143 feet msl (mean sea level) (43 m), respectively.

12. We prohibit hunting with the aid of bait, salt, or ingestible attractant (see § 32.2(h)).

13. We prohibit the use of dogs and/or horses other than specified in the refuge user permit.

14. We prohibit all forms of organized deer drives.

15. We prohibit firearm hunting from or across roads, ATV trails, levees, and maintained utility rights-of-way for deer only.

16. We prohibit hunting from a tree into which a metal object has been driven (see § 32.2(i)).

17. You may only use portable deer stands (see § 27.93 of this chapter). You may erect stands up to 7 days before each hunt, but you must remove them within 7 days after each hunt. All unattended deer stands on the refuge must have the owner's complete name and physical address clearly displayed.

18. We prohibit target practice or any nonhunting discharge of firearms (see § 27.42 of this chapter).

19. We prohibit gun deer hunting on Kansas Lake Area and all other types of hunting after November 30.

20. We prohibit the possession and use of buckshot on the refuge.

D. Sport Fishing. We allow fishing, frogging, and crawfishing for personal use on designated areas of the refuge in accordance with State regulations subject to the following conditions:

1. Conditions A1, A9, A10, A11, A16, and A21 through A26 apply.

2. We allow fishing year-round in LaGrue, Essex, Prairie, Scrubgrass and Brooks Bayous, Big Island Chute, Moon and Belknap Lakes next to Arkansas Highway 1, Indian Bay, the Arkansas Post Canal and adjacent drainage ditches; those borrow ditches located adjacent to the west bank of that portion of the White River Levee north of the Graham Burke pumping station; and all refuge-owned North Unit and scattered tract waters. We open all other South Unit refuge waters to sport fishing from March 1 through November 30 unless posted otherwise.

3. We allow frogging on all refuge-owned waters open for sport fishing as follows: We allow frogging on the South Unit from the beginning of the State season through November 30; we allow frogging on the North Unit for the entire State season.

4. We require a Special Use Permit (FWS Form 3-1383) for all commercial fishing on the refuge in addition to compliance with State regulations governing commercial fishing.

5. We prohibit all commercial and recreational harvest of turtle on all property administered by White River National Wildlife Refuge.

6. We allow commercial fishing on all refuge waters from 12 p.m. (noon) September 30 through 12 p.m. (noon) November 30. However, when the White River exceeds 23.5 feet (7 m) at the St. Charles, Arkansas gauge or 146 feet msl (mean sea level) (43.8 m) at the tailwater gauge at Lock and Dam #1 on the Arkansas Post Canal, we allow commercial fishing on all refuge waters from 12 p.m. (noon) March 1 through 12:00 p.m. (noon) September 30.

7. We prohibit take or possession of any freshwater mussel, and we do not open to mussel shelling.

6. Amend § 32.24 California by revising paragraphs A.1., A.2., A.3., A.5. and the introductory text of paragraph D. of Modoc National Wildlife Refuge to read as follows:

§ 32.24 California.

* * * * *

Modoc National Wildlife Refuge

A. Migratory Game Bird Hunting. * * *

1. On the opening weekend of the hunting season, hunters must possess and carry a Waterfowl Lottery Application (FWS Form 3-2355) as their refuge permit. We will issue this permit through a random drawing to hunters with advanced reservations only. The Waterfowl Lottery Applications are available on the refuge website.

2. After the opening weekend of the hunting season, we allow hunting only on Tuesdays, Thursdays, and Saturdays. Hunters must check-in and out of the refuge by filling out the Migratory Bird Hunt Report (FWS Form 3-2361) and must possess and carry this report while on the refuge. Hunters must fill out the harvest information and turn in the form prior to exiting the hunting area.

3. In the designated spaced blind and assigned pond areas, you must remain within your assigned blind or pond.

* * * * *

5. While in the field, to take wildlife on the refuge, you may possess only nontoxic ammunition and shotshells in quantities of 25 or less.

* * * * *

D. Sport Fishing. We allow fishing (fish and crayfish) only on Dorris Reservoir in accordance with State regulations subject to the following conditions:

* * * * *

7. Amend § 32.28 Florida by:

a. Revising paragraph D.20. and adding paragraph D.21. of J. N. “Ding” Darling National Wildlife Refuge;

b. Revising paragraphs A.1., A.2., A.6., and A.7., adding paragraphs A.17. and A.18., revising paragraphs B., C.1., C.3., C.5., C.6., C.8., C.11. through C.14., C.19., and C.21. through C.25., and revising paragraph D.4. of Lower Suwannee National Wildlife Refuge;

c. Adding paragraphs A.15. and A.16., revising paragraphs D.7. and D.12., and adding paragraphs D.13. through D.16. of Merritt Island National Wildlife Refuge;

d. Revising paragraph A., the introductory text of paragraph B., paragraphs B.2. and B.3., removing paragraph B.4., redesignating paragraphs B.5. through B.10. as paragraphs B.4. through B.9., adding a new paragraph B.10., and revising paragraphs C., D.1., D.2., D.4., D.5., D.7., and D.12. of St. Marks National Wildlife Refuge; and

e. Revising paragraphs C.1., C.2., and C.8., removing paragraph C.9., redesignating paragraphs C.10. through C.22. as paragraphs C.9. through C.21., and revising paragraph D. of St. Vincent National Wildlife Refuge.

The revisions and additions read as follows:

§ 32.28 Florida.

* * * * *

J. N. “Ding” Darling National Wildlife Refuge

* * * * *

D. Sport Fishing. * * *

* * * * *

20. We close to public entry all refuge islands (including rookery islands) except for designated trails.

21. We prohibit the use of internal combustion engines within the Wulfert Flats Pole/Troll Zone. Combustion engines must be in a nonuse position (out of the water) while the vessel is within the Pole/Troll Zone.

* * * * *

Lower Suwannee National Wildlife Refuge

A. Migratory Game Bird Hunting. * * *

1. We require hunters to possess and carry a signed copy of the refuge annual hunt brochure for all hunts. The signed brochure is a permit to hunt on the refuge.

2. We designate open and closed refuge hunting areas on the map in the refuge hunt brochure which the hunter must possess and carry.

* * * * *

6. Persons possessing, transporting, or carrying firearms on national wildlife refuges must comply with all provisions of State and local law. Persons may only use (discharge) firearms in accordance with refuge regulations (see § 27.42 of this chapter and specific refuge regulations in § 32).

7. We prohibit hunting from or within 150 feet (45 m) of all refuge roads open to public vehicle travel.

* * * * *

17. We prohibit the dumping of game carcasses on the refuge.

18. We prohibit consumption of alcohol or possession of open alcohol containers while hunting (see § 32.2(j)).

B. Upland Game Hunting. We allow hunting of feral hog, gray squirrel, armadillo, opossum, rabbit, raccoon, coyote, and beaver on designated areas of the refuge in accordance with State regulations subject to the following conditions:

1. Conditions A1 through A18 apply.

2. We will print dates for the refuge upland game (small game) hunting season in the annual refuge hunt brochure. Contact the refuge office for specific dates.

3. You may use only .17, .22, and .22 magnum caliber rimfire rifle firearms (see § 27.42 of this chapter), bows, or shotguns with shot no larger than #4 birdshot when hunting.

4. We allow night hunting in accordance with State regulations for raccoon and opossum on Wednesday through Saturday nights from legal sunset until legal sunrise during the month of February.

C. Big Game Hunting. * * *

1. Conditions A1 through A18 apply.

* * * * *

3. We require quota hunt permits (issued through a random draw—name, address, phone number requested) for the limited deer gun hunt, limited hog hunt, and limited youth gun deer hunt. They cost $12.50 for the limited deer gun hunt and limited hog hunt. Instructions on how to apply are printed in the annual refuge hunt brochure.

* * * * *

5. During the refuge archery season, hunters may only use archery equipment in accordance with State archery regulations.

6. During the refuge muzzleloader season, hunters may only use muzzleloading firearms (see § 27.42 of this chapter) in accordance with State muzzleloader regulations.

* * * * *

8. You may leave temporary tree stands on the refuge starting on the last weekend of August, but you must remove them by the last day of the general gun hunting season (see § 27.93 of this chapter). You may also leave temporary tree stands on the refuge beginning the Saturday prior to the limited hog hunt, but you must remove them by the last day of the upland game season.

* * * * *

11. The refuge general gun season lasts 14 days during the Florida State Zone C General Gun Season. We will print dates in the annual refuge hunt brochure. Contact the refuge office for specific dates.

12. The refuge limited either-sex deer hunt coincides with the State's either-sex deer hunting season. We will print dates in the annual refuge hunt brochure. Contact the refuge office for specific dates.

13. The youth limited Gun Deer Hunt follows the refuge general gun season. We will print dates in the annual refuge hunt brochure. Contact the refuge office for specific dates.

14. The refuge limited hog hunt lasts 7 days. We will print dates in the annual refuge hunt brochure. Contact the refuge office for specific dates.

* * * * *

19. Hunters may take hog (no size or bag limit), and a maximum of two deer per day, during the limited deer gun hunt and limited youth gun deer hunt, except only one deer may be antlerless for each of the 2-day limited hunts.

* * * * *

21. Hunters must check all game harvested during all deer and hog hunts.

22. Hunters may take only bearded turkeys and only during the State Zone C youth turkey hunt and spring turkey season.

23. Shooting hours for spring turkey begin ½ hour before legal sunrise and end at 1 p.m.

24. We only allow shotguns with shot no larger than size 2 common shot or bows and arrows for spring turkey hunting.

25. We prohibit the use of crossbows during all refuge hunts except with a State-issued disabled persons crossbow permit.

D. Sport Fishing. * * *

* * * * *

4. We prohibit consumption of alcohol or possession of open alcohol containers.

Merritt Island National Wildlife Refuge

A. Migratory Game Bird Hunting. * * *

* * * * *

15. We prohibit boats in impoundments from November 1 through February 28 except in impoundments open to waterfowl hunting on days the refuge is open to hunting. We allow pre-hunt scouting in the impoundments open to waterfowl hunting after 1 p.m. on hunt days. We allow nonmotorized vessels access to the posted canoe trails in M Pond, Peacocks Pocket, and West Bio Lab on days not open to waterfowl hunting.

16. We require all guides to purchase, possess, and carry a Commercial Harvesting Permit (NPS Form 10-930).

* * * * *

D. Sport Fishing. * * *

* * * * *

7. We prohibit harvesting and possession of horseshoe crab, frog, turtle, snake, and/or other wildlife (see § 27.21 of this chapter).

* * * * *

12. We allow vessels drafting 12″ (30 cm) or less (measured while vessel is fully stopped) to be propelled only by poling, paddling, drifting, or electric trolling motors in the established Pole & Troll Zone(s), except in the posted running channels.

13. We prohibit kite surfing, kite boarding, wind surfing, sail boarding, and other similar nonwildlife-oriented recreational activities.

14. We require all guides to purchase, possess, and carry a Commercial Harvesting Permit (NPS Form 10-930).

15. We will remove abandoned or unchecked crab pots after 72 hours (see § 27.93 of this chapter).

16. We prohibit glass beverage containers.

* * * * *

St. Marks National Wildlife Refuge

A. Migratory Game Bird Hunting. We allow hunting of duck and coot on designated areas of the refuge in accordance with State regulations subject to the following conditions:

1. You must remove blinds daily (see § 27.93 of this chapter).

2. We allow retriever dogs to recover game.

3. We prohibit migratory game bird hunting in the Executive Closure Area on the refuge.

B. Upland Game Hunting. We allow hunting of grey squirrel, rabbit, raccoon, and feral hog on designated areas of the refuge in accordance with State regulations subject to the following conditions:

* * * * *

2. All visitors must wear 500 square inches (3,250 cm²) of fluorescent orange above the waistline while in a designated hunting unit during a refuge hunt.

3. You may use .22 caliber or smaller rim-fire rifles, shotguns, with nontoxic shot (#4 bird shot or smaller) (see § 32.2(k)), or muzzleloaders to harvest squirrel, rabbit, and raccoon. In addition, you may use shotgun slugs, buckshot, or archery equipment to take feral hog. We prohibit the use of other weapons.

* * * * *

10. We prohibit the use of flagging, paint, blazes, or reflective trail markers (see § 27.93 of this chapter).

C. Big Game Hunting. We allow hunting of white-tailed deer, feral hog, and turkey in accordance with State regulations subject to the following conditions:

1. We require refuge permits (hunters apply through State for license—fee charged). Permits are nontransferable. There is an additional fee for duplicate permits. Each hunter must possess and carry a signed permit when participating in a hunt. Prior to hunting each day, you must check-in at a hunt check station as specified in the refuge hunt brochure. You must check out upon completion if hunting each day.

2. Conditions B2 and B4 through B10 apply.

3. You may access the refuge hunt areas by vehicle for pre-hunt scouting 2 days prior to the hunt for which you are drawn (lottery administered by the State).

4. There is a two-deer limit per hunt as specified in condition C8 below, except in the youth hunt, where the limit is one deer per hunt as specified in condition C9 below. The limit for turkey is one per hunt. There is no limit on feral hog.

5. We prohibit the use of deer decoys.

6. There are two fall archery hunts: Hunters may harvest either-sex deer, feral hog, and either-sex turkey during the fall archery hunts. There will be a fall archery hunt on the Panacea and Wakulla Units.

7. There are two modern gun hunts. Hunters may harvest deer, feral hog, and bearded turkey. Modern guns must meet State requirements. We will hold one hunt on the Panacea Unit and one hunt on the Wakulla Unit. See condition C8 for game limits. Contact the refuge office for specific dates.

8. The bag limit for white-tailed deer is two deer per scheduled hunt period. We allow hunters to harvest two antlerless deer per scheduled hunt period. We define antlerless deer per State regulations, i.e., antlers less than 5 inches (12.5 cm), or hunters may harvest one antlerless deer and one antlered deer per hunt. Hunters must ensure that antlered deer have at least three points, 1 inch (2.5 cm) or greater in length on one antler before harvesting them. There is no limit on feral hogs.

9. There is one youth hunt for youth ages 10 to 15 on the St. Marks Unit in an area we will specify in the refuge hunt brochure. Hunters may harvest one deer of either sex or feral hog (no limit). An adult age 21 or older possessing a refuge permit must accompany each youth hunter, and each adult may accompany only one youth. Only the youth hunter may handle or discharge firearms. Contact the refuge office for specific dates.

10. There is one mobility-impaired hunt. Hunters may have an assistant accompany them. You may transfer permits issued to assistants. We limit those hunt teams to harvesting white-tailed deer and feral hog within the limits described in condition C8. Contact the refuge office for specific dates.

11. There is one spring gobbler turkey hunt. You may harvest one bearded turkey per hunt. You may only use shotguns or archery equipment to harvest turkey. Contact the refuge office for specific dates. We prohibit hunting after 1 p.m.

D. Sport Fishing. * * *

1. We prohibit taking blue crabs from impounded water on the St. Marks Unit.

2. We only allow fishing in refuge lakes, ponds, and impoundments from ½ hour before legal sunrise to ½ hour after legal sunset.

* * * * *

4. We prohibit use of boats with motors over 10 hp on any refuge lake or pond.

5. We allow use of hand-launched boats on impoundments on the St. Marks Unit from March 15 through October 15 each year. We prohibit launching of boats from trailers in the impoundments in the St. Marks Unit. We prohibit all gasoline-powered motors in the impoundments in the St. Marks Unit.

* * * * *

7. We prohibit use of cast nets or traps to take fish from any lake, pond, or impoundment on the refuge.

* * * * *

12. We prohibit air-thrust boats, personal watercraft, and commercial guides to launch from Wakulla Beach.

* * * * *

St. Vincent National Wildlife Refuge

* * * * *

C. Big Game Hunting. * * *

1. We require refuge permits (State license—fee charged). The permits are nontransferable, and the hunter must possess and carry them while hunting. Only signed permits are valid. We only allow people with a signed refuge hunt permit on the island during the hunt periods. Contact the refuge office for details on receiving a permit. We will charge fees for duplicate permits.

2. We restrict hunting to three periods: Sambar deer, raccoon, and feral hog (primitive weapons); white-tailed deer, raccoon, feral hog (archery); and white-tailed deer, raccoon, and feral hog (primitive weapons). Contact the refuge office for specific dates. Hunters may check-in and set up camp sites and stands on the day prior to the scheduled hunt. Hunters must leave the island and remove all equipment by the date and time specified in the brochure.

* * * * *

8. You may retrieve game from the closed areas only if accompanied by a refuge staff member.

* * * * *

D. Sport Fishing. We allow fishing on designated areas of the refuge in accordance with State regulations subject to the following conditions:

1. You may fish from ½ hour before legal sunrise to ½ hour after legal sunset year-round.

2. We allow boats with electric motors. You must remove all other motors from the boats and secure them to a designated motor rack with a lock and chain.

3. We prohibit the use of live minnows as bait.

4. We allow boats in refuge lakes from May 15 through September 30.

5. We allow the use of only rods and reels or poles and lines in the refuge lakes. Anglers must attend their fishing equipment at all times.

6. You may take only fish species and fish limits authorized by State regulations. We prohibit taking of frog and/or turtle.

* * * * *

8. Amend § 32.29 Georgia by:

a. Revising paragraphs C.1. and C.9., adding paragraph C.19., and revising paragraphs D.1. and D.5. of Blackbeard Island National Wildlife Refuge;

b. Revising paragraphs C.1., C.2., C.8., C.12., C.13., D.1., and D.2., and adding paragraph D.4. of Harris Neck National Wildlife Refuge;

c. Revising the introductory text of paragraph A., revising paragraphs A.1., A.3., B.1., and B.3., removing paragraph B.6., redesignating paragraphs B.7. and B.8. as paragraphs B.6. and B.7., and revising paragraphs C.1., C.5., C.6., C.9., C.10., C.11., and D.4. of Savannah National Wildlife Refuge; and

d. Revising paragraphs C.1., C.7., C.9., C.15., C.16., D.1., and D.2. of Wassaw National Wildlife Refuge.

The revisions and additions read as follows:

§ 32.29 Georgia.

* * * * *

Blackbeard Island National Wildlife Refuge

* * * * *

C. Big Game Hunting. * * *

1. Hunters must possess and carry a signed refuge hunting regulations brochure on their persons at all times. You may obtain information about the quota hunt drawings at the Savannah Coastal Refuges Complex headquarters.

* * * * *

9. We only allow bows. We prohibit crossbows (see § 27.43 of this chapter).

* * * * *

19. We prohibit mooring boats to the government dock except for loading and unloading purposes.

D. Sport Fishing. * * *

1. We allow freshwater fishing year-round from legal sunrise to legal sunset except during managed deer hunts.

* * * * *

5. We allow bank/beach saltwater fishing into estuarine waters only from legal sunrise to legal sunset except during managed hunts.

* * * * *

Harris Neck National Wildlife Refuge

* * * * *

C. Big Game Hunting. * * *

1. To participate in the refuge bow hunt, hunters must possess and carry a signed refuge hunting regulations brochure on their person at all times. To participate in the refuge gun hunt, hunters must submit the Quota Deer Hunt Application Form (FWS Form 3-2354). If drawn, hunters must submit a permit fee in order to receive the hunt permit. You may obtain information on hunt regulations brochures, quota hunt applications, and quota hunt drawings at the refuge office.

2. Each hunter may place one stand on the refuge during the week preceding each hunt, but you must remove stands by the end of each hunt (see § 27.93 of this chapter).

* * * * *

8. During the hunts, we will restrict vehicles to the auto tour route (see § 27.31 of this chapter) and allow two-way traffic.

* * * * *

12. During the gun hunt, we allow only shotguns (20 gauge or larger; slugs only) and bows. We prohibit crossbows (see § 27.43 of this chapter) for hunting.

13. We prohibit target practice (see § 27.42 of this chapter).

* * * * *

D. Sport Fishing. * * *

1. We allow saltwater fishing year-round in the estuarine waters adjacent to the refuge.

2. We allow bank fishing into estuarine waters only from legal sunrise to legal sunset except during managed hunts.

* * * * *

4. We prohibit freshwater fishing.

* * * * *

Savannah National Wildlife Refuge

A. Migratory Game Bird Hunting. We allow hunting of duck and coot on designated areas of the refuge north of Georgia Highway 25/South Carolina Highway 170 in accordance with State regulations subject to the following conditions:

1. You must possess and carry a signed refuge hunt regulations brochure at all times while hunting on the refuge. To participate in the youth waterfowl hunt, hunters must submit the Waterfowl Lottery Application (FWS Form 3-2355). If drawn, youth hunters must submit a permit fee in order to receive the hunt permit. You may obtain information on regulations brochures, quota hunt applications, and quota hunt drawings at the refuge headquarters.

* * * * *

3. We prohibit hunting within 100 yards (90 m) of GA Highway 25/SC Highway 170, and in or on Middle and Steamboat Rivers and Houstown Cut, and closer than 50 yards (45 m) from the shoreline of these waterways.

* * * * *

B. Upland Game Hunting. * * *

1. You must possess and carry a signed refuge hunt regulations brochure at all times while hunting on the refuge. Refuge hunt regulations brochures and other information are available at the refuge headquarters.

* * * * *

3. We prohibit hunting within 100 yards (90 m) of U.S. Highway 17, GA Highway 25/SC Highway 170, refuge facilities, railroad rights of way, and within areas marked as closed.

* * * * *

C. Big Game Hunting. * * *

1. You must possess and carry a signed refuge hunt regulations brochure at all times while hunting on the refuge. To participate in the gun hunt for wheelchair-dependent hunters, hunters must submit the Quota Deer Hunt Application (FWS Form 3-2354). If drawn, hunters must submit a permit fee in order to receive the hunt permit. You may obtain information on hunt regulations brochures, quota hunt applications, and quota hunt drawings at the refuge headquarters.

* * * * *

5. We allow only shotguns (20 gauge or larger; slugs only), muzzleleaders, and bows for deer and hog hunting throughout the designated hunt area during the November gun hunt and the March hog hunt.

6. You must remove hunt stands daily (see § 27.93 of this chapter).

* * * * *

9. Conditions B3, B6, A4, and A5 apply.

10. We allow turkey hunting during a special 16-day turkey hunt in April. Turkey hunters may only harvest three gobblers.

11. We allow shotguns with only #2 shot or smaller and bows for turkey hunting in accordance with State regulations. We prohibit crossbows (see § 27.43 of this chapter) and the use of slugs or buckshot during turkey hunts.

D. Sport Fishing. * * *

* * * * *

4. Anglers may bank fish year-round in the canals adjacent to the Laurel Hill Wildlife Drive.

* * * * *

Wassaw National Wildlife Refuge

* * * * *

C. Big Game Hunting. * * *

1. Hunters must carry a signed refuge hunting regulations brochure on their persons at all times. You may obtain hunt information and permits at the Savannah Coastal Refuges Complex headquarters.

* * * * *

7. We prohibit target practice (see § 27.42 of this chapter).

* * * * *

9. For hunting, we allow only shotguns (20 gauge or larger; slugs only), centerfire rifles of .22 caliber or larger, bows, and primitive weapons during the gun hunt. We prohibit crossbows (see § 27.43 of this chapter).

* * * * *

15. Hunters may check-in at the refuge dock no more than 1 day in advance of the opening day of the hunt.

16. Hunters must be off the island by 12 p.m. (noon) the day following the last day of the hunt.

* * * * *

D. Sport Fishing. * * *

1. We allow saltwater fishing year-round in the estuarine waters adjacent to the refuge.

2. We allow bank/beach fishing into estuarine waters only from legal sunrise to legal sunset except during managed hunts.

* * * * *

9. Amend § 32.32 Illinois by removing paragraph A.6., redesignating paragraphs A.7. and A.8. as paragraphs A.6. and A.7., revising newly redesignated paragraphs A.7.iv. and A.7.v., removing newly redesignated paragraph A.7.xi., and by further redesignating newly designated paragraph A.7.xii. as paragraph A.7.xi. of Cypress Creek National Wildlife Refuge to read as follows:

§ 32.32 Illinois.

* * * * *

Cypress Creek National Wildlife Refuge

A. Migratory Game Bird Hunting. * * *

* * * * *

7. * * *

* * * * *

iv. We allow hunting from ½ hour before legal sunrise until 3 p.m.

v. Hunters must exit the reserve by 4 p.m.

* * * * *

10. Amend § 32.33 Indiana by revising paragraphs B.1. and B.3., adding paragraph B.5., revising paragraphs C.2., C.3., C.4., and C.7., adding paragraph C.8., and revising paragraph D.1. of Muscatatuck National Wildlife Refuge.

The revisions and additions read as follows:

§ 32.33 Indiana.

* * * * *

Muscatatuck National Wildlife Refuge

* * * * *

B. Upland Game Hunting. * * *

1. We prohibit hunting and the discharge of a weapon within 100 yards (90 m) of any dwelling, private property line, or any other building that may be occupied by people, pets, or livestock.

* * * * *

3. We allow only shotguns for upland game hunting.

* * * * *

5. We require hunters to read the current refuge hunting brochure, sign it, and then carry it while hunting.

C. Big Game Hunting. * * *

* * * * *

2. You must possess and carry a State-issued refuge hunting permit to hunt deer during the State early archery and muzzleloader deer seasons.

3. We prohibit deer hunting during the State firearms season except in compliance with condition C2.

4. Our late archery season deer hunt is open from the end of the State muzzleloader season to the conclusion of the State late archery season.

* * * * *

7. We require successful deer and turkey hunters to report their harvest on the Big Game Harvest Report (FWS Form 3-2359) at a box at the entrance gate before leaving the refuge.

8. We allow only spring turkey hunting on the refuge, and hunters must possess a State-issued refuge hunting permit.

D. Sport Fishing. * * *

1. We allow the use of boats (hand- or foot-propelled only) on Stanfield Lake. We prohibit the use of electric or gasoline motors.

* * * * *

11. Amend § 32.35 Kansas by:

a. Removing paragraph C.2. and redesignating paragraphs C.3. through C.6. as paragraphs C.2. through C.5. of Flint Hills National Wildlife Refuge.

b. Revising paragraph A.8., removing paragraph C.3., redesignating paragraphs C.4. through C.10. as C.3. through C.9., and revising paragraph D.2. of Kirwin National Wildlife Refuge; and

c. Removing paragraphs C.4. and C.5. of Marais des Cygnes National Wildlife Refuge.

The revisions read as follows:

§ 32.35 Kansas.

* * * * *

Kirwin National Wildlife Refuge

A. Migratory Game Bird Hunting. * * *

* * * * *

8. We allow motorized vehicles only on designated roads, parking lots, and boat ramps (see § 27.31 of this chapter).

* * * * *

D. Sport Fishing. * * *

* * * * *

2. We allow motorized vehicles only on designated roads, parking lots, and boat ramps (see § 27.31 of this chapter). We prohibit motorized vehicles on the ice.

* * * * *

12. Amend § 32.36 Kentucky by revising the introductory text of paragraph A., revising paragraphs A.1., and A.9. through A.17., adding paragraphs A.18. through A.20., revising the introductory text of paragraph B., revising paragraphs B.1., B.2., and C.1., adding paragraph C.5., revising the introductory text of paragraph D., and adding paragraph D.2.viii. of Clarks River National Wildlife Refuge.

The revisions and additions read as follows:

§ 32.36 Kentucky.

* * * * *

Clarks River National Wildlife Refuge

A. Migratory Game Bird Hunting. We allow hunting of mourning dove, woodcock, common snipe, Canada and snow goose, coot, crow, and waterfowl listed in 50 CFR 10.13 under DUCKS on designated areas of the refuge in accordance with State regulations subject to the following conditions:

1. Except for raccoon, opossum, and bullfrog hunting, access to the refuge is from 2 hours before legal sunrise to 2 hours after legal sunset.

* * * * *

9. We prohibit discharge of firearms or carrying loaded firearms used for hunting on or within 200 feet (90 m) of any home, the abandoned railroad tracks, graveled roads, and hiking trails.

10. We prohibit possession or use of alcoholic beverages.

11. We prohibit the use of any electronic call or other electronic device used for producing or projecting vocal sounds of any wildlife species.

12. We allow use of trail cameras. Cameras may be used year-round. Cameras must have owner's name, address, and phone number clearly displayed.

13. An adult age 21 or older must supervise all youth hunters age 15 and younger. Youth hunters must remain in sight and normal voice contact with the adult. On small game hunts, the adult may supervise no more than two youths; on big game hunts, the adult may supervise no more than one youth.

14. All persons born after January 1, 1975, must possess a valid hunter education card while hunting.

15. We prohibit the use of centerfire weapons when hunting crow.

16. We allow dogs for waterfowl, small game, and fall turkey hunting. Hunters must control all dogs by leash or chain if they are not legally using them for hunting. Dog owners/handlers must have a collar on each dog with the owner's name, address, and telephone number.

17. Waterfowl hunters must cease hunting and pick up decoys and equipment (see §§ 27.93 and 27.94 of this chapter), unload firearms used for hunting (see § 27.42(b) of this chapter), by 12 p.m. (noon) daily during the State waterfowl season.

18. Waterfowl hunters must remove decoys, blinds, boats, and all other equipment (see § 27.93 of this chapter) and be out of the field daily by 2 p.m.

19. We close to all entry as posted the Sharpe-Elva Water Management Units from November 1 through March 31 with the exception of drawn permit holders (name/address/phone) and their guests.

20. We only allow waterfowl hunting on the Sharpe-Elva Water Management Units on specified days during the State waterfowl season. We only allow hunting by individuals in possession of a refuge draw permit and their guests. State regulations and the following conditions apply:

i. Application procedures and eligibility requirements are available from the refuge office.

ii. We allow permit holders and up to three guests to hunt their assigned zone and/or provided blind on the designated date. We prohibit guests on the Sharpe-Elva Water Management Units without the attendance of the permit holder.

iii. We prohibit selling, trading, or bartering of permits. This permit is nontransferable.

iv. You may place decoys out the first morning of the drawn hunt, and you must remove them at the close of the drawn hunt (see § 27.93 of this chapter).

v. We prohibit watercraft on the Sharpe-Elva Water Management Units, except for drawn permit holders to access their blinds and retrieve downed birds as needed.

B. Upland Game Hunting. We allow hunting of squirrel, rabbit, quail, raccoon, opossum, and coyote on designated areas of the refuge in accordance with State regulations subject to the following conditions:

1. Conditions A1 through A16 apply.

2. We close squirrel, rabbit, crow, woodcock, snipe, dove, and quail seasons during muzzleloader and modern gun deer hunts.

* * * * *

C. Big Game Hunting. * * *

1. Conditions A1 through A16 and B3 apply.

* * * * *

5. Ground blinds used for the purpose of hunting any species during the deer modern gun, muzzleloader, and youth firearms seasons must display solid, unbroken, hunter orange visible from all sides.

D. Sport Fishing. We allow fishing on designated areas of the refuge in accordance with State law subject to the following conditions:

* * * * *

2. * * *

* * * * *

viii. We prohibit the hunting or harvesting of frog.

* * * * *

13. Amend § 32.37 Louisiana by:

a. Revising paragraphs A.1., A.4., A.10., removing paragraph A.11., redesignating paragraphs A.12. through A.15. as paragraphs A.11. through A.14., revising newly redesignated paragraphs A.12. and A.14., adding new paragraphs A.15. and A.16., revising paragraphs B.1. and B.2., removing paragraph B.5., redesignating paragraph B.6. as paragraph B.5., revising paragraphs C.1., C.2., and C.7., removing paragraph C.8., redesignating paragraphs C.9. through C.12. as paragraphs C.8. through C.11., adding a new paragraph C.12., revising paragraph D.3., and adding paragraph D.7. of Bayou Cocodrie National Wildlife Refuge;

b. Revising paragraph D.6. and adding paragraphs D.9. and D.10. of Bayou Sauvage National Wildlife Refuge;

c. Revising the introductory text of paragraph A., revising paragraphs A.3., and A.8. through A.10., adding paragraphs A.13. through A.17., revising paragraphs B.3., B.4., B.6., and C.3. through C.9., adding paragraphs C.10. and C.11., and revising paragraphs D.4. and D.5. of Bayou Teche National Wildlife Refuge;

d. Revising paragraphs A.3., A.6., and A.7., adding paragraph A.8., revising paragraphs A.9., A.10., A.11., and A.12., adding paragraphs A.15. through A.17., revising paragraphs B.2., B.4., C.1., C.4., C.5., C.7., and C.8., adding paragraphs C.9. and C.10., and revising paragraphs D.6. and D.7. of Big Branch Marsh National Wildlife Refuge;

e. Revising paragraph A., revising the introductory text of paragraph B., revising paragraphs B.1., B.2., and B.4., revising the introductory text of paragraph C., and revising paragraphs C.1., C.5., and D.8. of Black Bayou Lake National Wildlife Refuge;

f. Revising paragraphs A.1., A.3., A.5. through A.7., A.10., and A.11., adding paragraphs A.12. through A.15., revising paragraphs B., C.1. through C.3., C.5., C.7., C.8., C.10., and D.2. through D.4., and adding paragraph D.7. of Bogue Chitto National Wildlife Refuge;

g. Revising paragraph D. of Breton National Wildlife Refuge;

h. Revising Cameron Prairie National Wildlife Refuge;

i. Revising Cat Island National Wildlife Refuge;

j. Revising Catahoula National Wildlife Refuge;

k. Revising paragraphs A., B.1., B.3., the introductory text of paragraph C., C.1., and C.6. through C.10., and removing paragraph C.11. of D'Arbonne National Wildlife Refuge;

l. Revising paragraphs A., B.4., C.1. through C.3., and C.5., adding paragraphs C.7. through C.9., and revising paragraph D.4. of Delta National Wildlife Refuge;

m. Revising Grand Cote National Wildlife Refuge;

n. Revising paragraphs A., C., D.1., D.10. through D.12., and adding paragraphs D.13. and D.14. of Lacassine National Wildlife Refuge;

o. Revising Lake Ophelia National Wildlife Refuge;

p. Revising Red River National Wildlife Refuge;

q. Revising Sabine National Wildlife Refuge;

r. Revising Tensas River National Wildlife Refuge; and

s. Revising the introductory text of paragraph A., revising paragraphs A.1. through A.4., and A.11., revising the introductory text of paragraph B., revising paragraphs B.2., B.3., C.1., and C.3., removing paragraph C.5., redesignating paragraphs C.6. through C.12. as paragraphs C.5. through C.11., revising newly redesignated paragraph C.8., revising the introductory text of paragraph D., revising paragraph D.4., and adding paragraphs D.7. and D.8. of Upper Ouachita National Wildlife Refuge.

The revisions and additions read as follows:

§ 32.37 Louisiana.

* * * * *

Bayou Cocodrie National Wildlife Refuge

A. Migratory Game Bird Hunting. * * *

1. We require a $15 Annual Public Use Permit (signature required) for all hunters and anglers age 16 and older. The user must sign and carry the permit.

* * * * *

4. Hunters must remove harvested waterfowl, temporary blinds, and decoys (see § 27.93 of this chapter) used for duck hunting by 1 p.m. daily.

* * * * *

10. Refuge users must check all game taken before leaving the refuge at one of the self-clearing check stations indicated on the map in the Refuge Public Use Brochure.

* * * * *

12. We allow all-terrain vehicles (ATVs) and utility vehicles as per State Wildlife Management Area (WMA) regulations and size specifications on designated trails (see § 27.31 of this chapter) from September 1 through the hunting season. An ATV is an off-road vehicle with factory specifications not to exceed the following: Weight 750 pounds (337.5 kg), length 85 inches (212.5 cm), and width 48 inches (120 cm). We restrict ATV tires to those no larger than 25 x 12 with a maximum 1 inch (2.5 cm) lug height and a maximum allowable tire pressure of 7 psi as indicated on the tire by the manufacturer.

* * * * *

14. You may possess only approved nontoxic shot while hunting on the refuge (see § 32.2(k)). This requirement only applies to the use of shotgun ammunition.

15. Each refuge user must obtain a daily use reporting card (one per person) and place it on the dashboard of their vehicle or in their boat where their personal information is readable and in plain view. Users must complete all the information requested and return the cards to the refuge kiosk/check stations upon departure from the refuge.

16. Refuge users may enter the refuge no earlier than 4 a.m. and must exit the refuge by 2 hours after legal sunset except that raccoon and opossum hunters during the month of February may use the refuge at night.

B. Upland Game Hunting. * * *

1. We allow squirrel and rabbit hunting within the State season. We will list specific refuge season dates annually in the Refuge Public Use Brochure.

2. Conditions A1, A3, and A7 through A16 apply.

* * * * *

C. Big Game Hunting. * * *

1. Conditions A1, A3, and A7 through A16 apply.

2. The bag limit is one deer (of either sex) per day. The State season limit and tagging regulations apply.

* * * * *

7. We allow deer hunting within the State season. We will list specific refuge season dates annually in the Refuge Public Use Brochure.

* * * * *

12. There is a $5 application fee per person for each lottery hunt application.

D. Sport Fishing. * * *

* * * * *

3. We prohibit commercial fishing.

* * * * *

7. We prohibit wire traps, slat traps, wire nets, hoop nets, trotlines, yo-yos, and jug lines on the refuge.

Bayou Sauvage National Wildlife Refuge

* * * * *

D. Sport Fishing. * * *

* * * * *

6. We prohibit air-thrust boats, aircraft, mud boats, and air-cooled propulsion engines on the refuge.

* * * * *

9. We prohibit motorized vehicles on all levees.

10. Persons possessing, transporting, or carrying firearms on national wildlife refuges must comply with all provisions of State and local law. Persons may only use (discharge) firearms in accordance with refuge regulations (§ 27.42 of this chapter and refuge-specific regulations in part 32).

Bayou Teche National Wildlife Refuge

A. Migratory Game Bird Hunting. We allow hunting of duck, goose, and coot on designated areas of the refuge in accordance with State regulations subject to the following conditions:

* * * * *

3. An adult at least age 21 must supervise youth hunters under age 16 during all hunts. One adult may supervise two youths during small game and migratory game bird hunts but may supervise only one youth during big game hunts. Youth must remain within normal voice contact of the adult who is supervising them. Parents or adult guardians are responsible for ensuring that hunters under age 16 do not engage in conduct that would constitute a violation of refuge regulations.

* * * * *

8. We prohibit possession or distribution of bait while in the field and hunting with the aid of bait, including any grain, salt, minerals, or any nonnaturally occurring food attractant on the refuge (see § 32.2(h)).

9. We allow hunting until 12 p.m. (noon). Hunters may only enter the refuge after 4 a.m.

10. We allow waterfowl hunting in Centerville, Garden City, Bayou Sale, North Bend East, and North Bend West Units during the State waterfowl season. We open no other units to migratory waterfowl hunting.

* * * * *

13. We prohibit horses and ATVs.

14. We prohibit the use of any type of material used as flagging or trail markers except bright eyes.

15. We prohibit target shooting on the refuge.

16. We prohibit any person or group to act as a hunting guide, outfitter, or in any other capacity that any other individual(s) pays or promises to pay directly or indirectly for services rendered to any other person or persons hunting on the refuge, regardless of whether such payment is for guiding, outfitting, lodging, or club membership.

17. Persons possessing, transporting, or carrying firearms on national wildlife refuges must comply with all provisions of State and local law. Persons may only use (discharge) firearms in accordance with refuge regulations (§ 27.42 and specific refuge regulations in part 32).

B. Upland Game Hunting. * * *

* * * * *

3. We allow hunters to enter the refuge after 4 a.m., but they must leave the refuge 1 hour after legal sunset.

4. We allow hunting 7 days per week beginning with the opening of the State season through the last day of the State waterfowl season in the West Zone in the following refuge units: Centerville, Garden City, Bayou Sale, North Bend—East, and North Bend—West Units. We open no other units to the hunting of upland game.

* * * * *

6. Conditions A1 through A3, A5 through A8, and A12 through A17 apply, except we allow the use of .17 and .22 caliber rimfire or smaller while hunting small game.

C. Big Game Hunting. * * *

* * * * *

3. We allow hunting in the Centerville, Garden City, Bayou Sale, North Bend—East, and North Bend—West. We do not open the Bayou Sale Unit for any big game firearm hunts.

4. We allow each hunter to possess only one deer per day, the deer may be a buck or a doe. State season limits apply.

5. You may take no other native or feral wildlife other than white-tailed deer while engaged in big game hunting (see § 27.21 of this chapter).

6. Hunters may use only portable deer stands. Hunters may erect deer stands one day before the deer archery season and must remove them from the refuge within 1 day after the season closes. Hunters may place only one deer stand on a refuge. Deer stands must have owner's name, address, and phone number clearly printed on the stand. Hunters must place stands in a nonhunting position when not in use (see § 27.93 of this chapter).

7. All hunters (including archery hunters) except waterfowl hunters must wear and display 400 square inches (2,600 cm²) of unbroken hunter orange as the outermost layer of clothing on the chest and back and a hunter-orange cap during deer gun seasons. Deer hunters hunting from concealed ground blinds must display a minimum of 400 square inches of hunter orange above or around their blinds which is visible from 360 degrees.

8. Conditions A1 through A3, A5 through A8, A13 through A17, B3, and B5 apply.

9. We prohibit the use of trail cameras.

10. We prohibit the use of deer decoys.

11. We prohibit dogs and driving deer.

D. Sport Fishing. * * *

* * * * *

4. The Franklin Unit canals (birdfoot canals) will be open for motorized boats between April 15 and August 31. This unit is open to nonmotorized boats all year.

5. Conditions A6, A13, A15, and A17 apply.

Big Branch Marsh National Wildlife Refuge

A. Migratory Game Bird Hunting. * * *

* * * * *

3. We allow only temporary blinds, and hunters must remove the blinds and decoys by 1 p.m. (see § 27.93 of this chapter).

* * * * *

6. We prohibit air-thrust boats, aircraft, motorized pirogues, mud boats, and air-cooled propulsion engines on the refuge.

7. An adult age 21 or older must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

8. We prohibit camping.

9. Persons possessing, transporting, or carrying firearms on national wildlife refuges must comply with all provisions of State and local law. Persons may only use (discharge) firearms in accordance with refuge regulations (§ 27.42 and specific refuge regulations in part 32).

10. We prohibit hunting within 150 feet (45 m) from the centerline of any road open to vehicle travel, Boy Scout Road, any maintained trails, or from any residence. We prohibit hunting in refuge-designated closed areas which we post on the refuge and identify in the refuge hunt permits (see § 27.31 of this chapter).

11. Hunters may possess only approved nontoxic shot while hunting on the refuge (see § 32.2(k)).

12. Hunters may not enter the refuge before 4 a.m. and must exit the refuge no later than 2 hours after legal sunset for that day.

* * * * *

15. We prohibit all-terrain vehicles.

16. We prohibit target shooting on the refuge.

17. We prohibit the use of any type of material used as flagging or trail markers except bright eyes.

B. Upland Game Hunting. * * *

* * * * *

2. You may only use dogs for hunting squirrel and rabbit after the close of the State archery deer season.

* * * * *

4. Conditions A5 through A10, A11 except nontoxic shot must be shot size 4 or smaller, and we allow .17 and .22 caliber rimfire rifles, and A12 through A17 apply.

C. Big Game Hunting. * * *

1. We are open only during the State season for archery hunting of deer.

* * * * *

4. You may take deer of either sex in accordance with State-approved archery equipment and regulations. The State season limits apply. Longbow, compound bow, and crossbow or any bow drawn, held, or released by mechanical means will be a legal means of take during the deer archery season.

5. Hunters may erect temporary deer stands 1 day prior to the start of deer archery season. Hunters must remove all deer stands within 1 day after the archery deer season closes. Hunters may place only one deer stand on a refuge. Deer stands must have the owner's name, address and phone number clearly printed on the stand. Hunters must place stands in a nonhunting position when not in use (see § 27.93 of this chapter).

* * * * *

7. We prohibit possession or distribution of bait while in the field and hunting with the aid of bait, including any grain, salt, minerals, or any nonnaturally occurring food attractant on the refuge (see § 32.2(h)).

8. Conditions A5 through A10 and A12 through A17 apply.

9. We prohibit the use of trail cameras.

10. We prohibit the use of deer decoys.

D. Sport Fishing. * * *

* * * * *

6. Conditions A6, A8, and A13 through A16 apply.

7. We prohibit the taking of turtle (see § 27.21 of this chapter).

Black Bayou Lake National Wildlife Refuge

A. Migratory Game Bird Hunting. We allow hunting of duck, goose, coot, and woodcock on designated areas of the refuge as indicated in the refuge brochure in accordance with State regulations subject to the following conditions:

1. You must possess and carry a signed refuge hunt permit (signed refuge brochure).

2. We allow waterfowl hunting until 12 p.m. (noon) during the State season, except we do not open during the special teal season and State youth waterfowl hunt.

3. We prohibit accessing the hunting area by boat from Black Bayou Lake.

4. You may enter the refuge no earlier than 4 a.m.

5. We prohibit hunting within 100 feet (45 m) of the maintained right-of-way of roads and from or across ATV trails (see § 27.31 of this chapter). We prohibit hunting within 50 feet (15 m), or trespassing on above-ground oil or gas production facilities.

6. We prohibit leaving boats, blinds, and decoys unattended.

7. We allow dogs to only locate, point, and retrieve when hunting for migratory game birds.

8. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

9. We prohibit any person or group to act as a hunting guide, outfitter, or in any other capacity that any other individual(s) pays or promises to pay directly or indirectly for services rendered to any other person or persons hunting on the refuge, regardless of whether such payment is for guiding, outfitting, lodging, or club membership.

10. We only allow ATVs on trails (see § 27.31 of this chapter) designated for their use and marked by signs. We do not open ATV trails March 1 through August 31. An all-terrain vehicle (ATV) is an off-road vehicle with factory specifications not to exceed the following: Weight 750 lbs. (337.5 kg), length 85 inches (212.5 cm), and width 48 inches (120 cm). We restrict ATV tires to those no larger than 25 inches x 12 inches (62.5 cm x 30 cm) with a maximum of 1 inch (2.5 cm) lug height and a maximum allowable tire pressure of 7 psi as indicated on the tire by the manufacturer.

B. Upland Game Hunting. We allow hunting of quail, squirrel, rabbit, raccoon, and opossum on designated areas as indicated in the refuge brochure and in accordance with State regulations subject to the following conditions:

1. Conditions A1, A3, A5, A8, and A9 apply.

2. We prohibit taking small game with firearms larger than .22 caliber rimfire, shotgun slugs, and buckshot.

* * * * *

4. We allow use of dogs to hunt squirrel and rabbit during January and February only.

* * * * *

C. Big Game Hunting. We allow hunting of white-tailed deer on designated areas of the refuge as indicated in the refuge brochure in accordance with State regulations subject to the following conditions:

1. Conditions A1, A3, A5, A8, A9, A10, and B7 apply.

* * * * *

5. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

* * * * *

D. Sport Fishing. * * *

* * * * *

8. We prohibit crossing the boat lane booms.

Bogue Chitto National Wildlife Refuge

A. Migratory Game Bird Hunting. * * *

1. We allow hunting from 30 minutes before legal sunrise until 12 p.m. (noon), including the State special teal season and State youth waterfowl hunt. You must remove blinds and decoys by 1 p.m. (see § 27.93 of this chapter). We do not open the refuge to goose hunting for that part of the season that extends beyond the regular duck season.

* * * * *

3. We allow public hunting refuge-wide during the open State season for listed migratory game bird species.

* * * * *

5. We require possession of a signed refuge hunt permit (signed refuge brochure) while hunting.

6. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

7. We prohibit hunting within 150 feet (45 m) from the centerline of any public road, refuge road, designated or maintained trail, building, residence, designated public facility, or from or across aboveground oil or gas or electric facilities.

* * * * *

10. We prohibit horses and ATVs.

11. You may only possess approved nontoxic shot while hunting on the refuge (see § 32.2(k)).

12. We prohibit the use of any type of material used as flagging or trail markers, except bright eyes.

13. Persons possessing, transporting, or carrying firearms on national wildlife refuges must comply with all provisions of State and local law. Persons may only use (discharge) firearms in accordance with refuge regulations (see § 27.42 and specific refuge regulations in part 32).

14. We prohibit possession or distribution of bait while in the field and hunting with the aid of bait, including any grain, salt, minerals, or any nonnaturally occurring food attractant on the refuge (see § 32.2(h)).

15. We prohibit target shooting on the refuge.

B. Upland Game Hunting. We allow hunting of squirrel, rabbit, raccoon, and opossum on designated areas of the refuge in accordance with State regulations subject to the following conditions:

1. You may use dogs for rabbit and squirrel from November 1 to the end of the State season except during the refuge gun and primitive firearm season.

2. You may use dogs for raccoon and opossum from January 1 through the last day of February.

3. We will close the refuge to hunting (except waterfowl) and camping when the Pearl River reaches 15.5 feet (4.65 m) on the Pearl River Gauge at Pearl River, Louisiana.

4. We prohibit the take of feral hog during any upland game hunts.

5. All hunters (including archery hunters and small game hunters) except waterfowl hunters must wear and display 400 square inches (2,600 cm²) of unbroken hunter orange as the outermost layer of clothing on the chest and back and a hunter-orange cap during deer gun seasons. We require hunters participating in dog season for squirrels and rabbits to wear a hunter-orange cap. All other hunters including archers (while on the ground), except waterfowl hunters, also must wear a hunter-orange cap during the dog season for squirrels and rabbits. Deer hunters hunting from concealed ground blinds must display a minimum of 400 square inches of hunter orange above or around their blinds which is visible from 360 degrees.

6. We prohibit the use of trail cameras.

7. Conditions A5 through A15 apply, except that you may use .17- and .22-caliber rifles, and the nontoxic shot in your possession must be size 4 or smaller.

C. Big Game Hunting. * * *

1. Conditions A5 through A10, A12 through A15, B3, B5, and B6 apply.

2. You may use only portable deer stands. You may erect deer stands one day before the deer archery season and remove them from the refuge within 1 day after this season closes. Hunters may place only one deer stand on a refuge. Deer stands must have owner's name, address, and phone number clearly printed on the stand. Hunters must place stands in a nonhunting position when not in use (see § 27.93 of this chapter).

3. We allow archery deer and hog hunting during the open State deer archery season. You may take deer of either sex in accordance with State-approved archery equipment and regulations. The State season limits apply. Longbow, compound bow, and crossbow or any bow drawn, held, or released by mechanical means will be a legal means of take during the deer archery season.

* * * * *

5. We list specific dates for primitive weapons big game hunts in the refuge hunt brochure. Legal primitive firearms used for hunting for primitive firearms season include:

i. Rifles, .44 caliber minimum, all of which must load exclusively from the muzzle or cap and ball cylinder; use of black powder or approved substitute only; use of ball or bullet projectile only, including saboted bullets, including muzzleloaders known as “in line” muzzleloaders; and

ii. Single shot, breech-loading rifles, .38 caliber or larger of a kind or type manufactured prior to 1900; and replicas, reproductions, or reintroductions of that type of rifle having an exposed hammer that use metallic cartridges loaded with black powder or modern smokeless powder. Hunters may fit all of the above with magnified scopes.

* * * * *

7. We prohibit using shot larger than No. 2 while hunting during turkey season.

8. You may take hog as incidental game while participating in the refuge archery, primitive weapon, and general gun deer hunts only. We list specific dates for the special hog hunts in January and February in the refuge hunt brochure. During the special hog hunts you must use trained hog-hunting dogs to aid in the take of hog. During the special hog hunts you may take hog from ½ hour before legal sunrise to ½ hour after legal sunset. The only firearms allowed to take hogs during this special hog dog season are pistol or rifle with ammunition not larger than .22 caliber rimfire or shotgun with nontoxic shot after it has been caught by dogs. A8 applies during special hog hunts.

* * * * *

10. We prohibit the use of deer and turkey gobbler decoys.

D. Sport Fishing. * * *

* * * * *

2. Conditions A8 and A10 apply.

3. We close the fishing ponds at the Pearl River Turnaround to fishing and boating during the months of April, May, and June.

4. When open, we allow boats in the fishing ponds at the Pearl River Turnaround that do not have gasoline-powered engines attached. Anglers must hand launch these boats into the ponds.

* * * * *

7. We prohibit all commercial finfishing and shellfishing.

Breton National Wildlife Refuge

* * * * *

D. Sport Fishing. We allow sport finfishing and shellfishing on designated areas of the refuge in accordance with State regulations subject to the following conditions:

1. Crabbers must tend crabbing equipment at all times.

2. Anglers may not use trotlines, slat traps, or nets.

3. We prohibit camping.

4. We will post as closed to all entry portions of the refuge during migratory bird nesting seasons to reduce disturbance to colonies of brown pelicans and other shore birds.

Cameron Prairie National Wildlife Refuge

A. Migratory Game Bird Hunting. We allow hunting of goose, duck, coot, gallinule, snipe, and dove on designated areas of the refuge in accordance with State regulations subject to the following conditions:

1. The refuge will be open on selected days for migratory game bird hunting as identified in the refuge hunt permit (signed brochure) and regulations brochure.

2. We prohibit entrance to the waterfowl hunting area earlier than 4 a.m. Shooting hours for waterfowl hunts ends at 12 p.m. (noon) each day. Hunters must leave the refuge no later than 1 hour after legal sunset.

3. We require every hunter to possess and carry a valid, signed refuge hunt permit and regulations brochure.

4. Every hunter must complete and turn in a Migratory Bird Hunt Report (FWS Form 3-2361) available from a self-clearing check station after each hunt.

5. We prohibit hunting within 50 yards (45 m) of any public road, refuge road, trail, building, resident, or designated public facility.

6. We prohibit all persons or groups from acting as guides, outfitters, or in any other capacity in which any individual(s) pays or promises to pay directly or indirectly for service rendered to any person or persons hunting on the refuge, regardless of whether such payment is for guiding, outfitting, lodging, or club membership.

7. We prohibit overnight camping on the refuge.

8. We allow dogs when migratory bird hunting for the purpose of locating, pointing, and retrieving only.

9. We prohibit the use or possession of alcoholic beverages while hunting (see § 32.2(j)).

10. Hunters must remove all hunting-related equipment (see § 27.93 of this chapter) from the refuge immediately following each day's hunt.

11. Persons possessing, transporting, or carrying firearms on national wildlife refuges must comply with all provisions of State and local law. Persons may only use (discharge) firearms in accordance with refuge regulations (see § 27.42 and specific refuge regulations in part 32 of this chapter).

12. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

B. Upland Game Hunting. [Reserved]

C. Big Game Hunting. We allow hunting of white-tailed deer on designated areas of the refuge in accordance with State regulations subject to the following conditions:

1. The refuge will be open for hunting on selected days as identified in the refuge hunt permit (signed brochure) and regulations brochure.

2. Conditions A3, A5 through A7, and A9 through A12 apply.

3. Each hunter must complete and turn in a Big Game Harvest Report (FWS Form 3-2359), available from a self-clearing check station, after each hunt.

4. We prohibit entrance to the hunting area earlier than 4 a.m. Hunters must leave the refuge no later than 1 hour after legal sunset.

D. Sport Fishing. We allow fishing, boating, crabbing, and cast netting on designated areas of the refuge in accordance with State regulations subject to the following conditions:

1. We allow fishing with a rod and reel or a pole and line. We prohibit possession of any other type of fishing gear, including limb lines, gill nets, jug lines, yo-yos, or trotlines.

2. We allow recreational fishing, crabbing, or cast netting in the East Cove Unit year-round from legal sunrise to legal sunset, except during the Louisiana west zone waterfowl season or when the Grand Bayou Boat Bay is closed.

3. We prohibit fishing, crabbing, or cast netting from or trespassing on refuge water control structures at any time.

4. On the East Cove Unit, we prohibit walking, wading, or climbing in or on the marsh, levees, or structures.

5. We allow sport fishing, crabbing, and cast netting in the Gibbstown Unit's Outfall Canal from March 15 through October 15.

6. We allow only nonpowered boats in the Bank Fishing Road waterways.

7. We allow only recreational crabbing with cotton hand lines or drop nets up to 24 inches (60 cm) outside diameter. We prohibit using floats on crab lines.

8. Anglers must attend all lines, nets, and bait and remove same from the refuge when through fishing (see § 27.93 of this chapter).

9. The daily limit of crabs is 5 dozen (60) per boat or vehicle, regardless of the number of people thereon.

10. Cast net size is in accordance with State regulations.

11. The daily shrimp limit during the Louisiana inshore shrimp season is 5 gallons (19 L) of heads-on shrimp per day, per vehicle or boat.

12. We allow cast netting for bait on both the East Cove Unit and the Gibbstown Unit in accordance with State regulations when the units are open for public fishing only. Anglers must empty cast nets directly into the container from the net. The daily bait shrimp limit is one gallon (3.8 L) per day, per boat, outside the Louisiana inshore shrimp season.

13. Shrimp must remain in your actual custody while on the refuge.

14. We prohibit ATVs, air-thrust boats, and personal motorized watercraft (jet skis) in any refuge area (see § 27.31(f) of this chapter).

15. We allow operation of outboard motors in refuge canals, bayous, and lakes. We allow only trolling motors in the marsh.

16. We prohibit all persons or groups from acting as guide, outfitter, or an any capacity in which any other individual(s) pay or promise to pay directly or indirectly for service rendered to any other person or persons fishing on the refuge, regardless of whether such payment is for guiding, outfitting, lodging, or club membership, unless authorized by a refuge Special Use Permit (FWS Form 3-1383).

17. We prohibit the taking of turtle (see § 27.21 of this chapter).

18. We prohibit the commercialization (i.e., selling) of plants and wildlife unless authorized.

Cat Island National Wildlife Refuge

A. Migratory Game Bird Hunting. We allow hunting of duck, goose, coot, and woodcock on designated areas of the refuge as shown on the refuge hunt brochure map in accordance with State regulations subject to the following conditions:

1. We require a $15 Annual Public Use Permit (signature only required) for all hunters and anglers age 16 and older. The refuge user must sign and carry this permit at all times while on the refuge.

2. Refuge users may enter the refuge no earlier than 4 a.m. and must exit the refuge by 2 hours after legal sunset.

3. You may possess only approved nontoxic shot while hunting on the refuge (see § 32.2(k)).

4. You must use designated parking areas to participate in any refuge public use activity.

5. Youth hunters under age 17 must successfully complete a State-approved hunter education course. While hunting each youth must possess and carry a card or certificate of completion. Each youth hunter must remain within sight and normal voice contact of an adult age 21 or older. Each adult must possess and carry a refuge permit (Public Use Permit/signature only required) and may supervise no more than two youth hunters during waterfowl/upland game hunting.

6. We allow take of beaver, feral hog, nutria, raccoon, and coyote incidental to any refuge hunt with weapons legal for that hunt until you take the daily bag limit of game.

7. Refuge users must check all game taken leaving the refuge at one of the self-clearing check stations indicated on the map in the Refuge Public Use Brochure.

8. We allow all-terrain vehicles (ATVs) and utility-type vehicle (UTVs) as per State WMA regulations and size specifications on designated trails (see § 27.31 of this chapter) from September 15 through the hunting season. An ATV is an off-road vehicle with factory specifications not to exceed the following: Weight 750 pounds (337.5 kg), length 85 inches (212.5 cm), and width 48 inches (120 cm). We restrict ATV tires to those no larger than 25 inches x 12 inches (62.5 cm x 30 cm) with a maximum 1 inch (2.5 cm) lug height and a maximum allowable tire pressure of 7 psi as indicated on the tire by the manufacturer.

9. We prohibit hunting within 150 feet (45 m) of any public road, refuge road, trail or ATV trail, building, residence, or designated public facility.

10. We prohibit the possession or use of any type of trail-marking material.

11. We prohibit horses or mules.

12. We allow parking only in designated parking areas.

13. We prohibit camping or overnight parking on the refuge.

14. We prohibit air-thrust boats on the refuge.

15. We prohibit all other hunting during refuge lottery deer hunts.

16. We allow waterfowl hunting on Tuesdays, Thursdays, Saturdays, and Sundays until 12 p.m. (noon) during the designated State duck season.

17. Hunters must remove harvested waterfowl, temporary blinds, and decoys (see § 27.93 of this chapter) used for duck hunting by 1 p.m. daily.

18. We allow dogs to only locate, point, and retrieve when hunting for migratory game birds.

19. We prohibit accessing refuge property by boat from the Mississippi River.

20. We prohibit trapping.

21. We prohibit the possession of saws, saw blades, or machetes.

22. We prohibit possession of alcohol while hunting (see § 32.2(j)).

23. We prohibit all commercial activities (including, but not limited to, guiding).

B. Upland Game Hunting. We allow hunting of squirrel and rabbit on designated areas of the refuge as shown on the refuge hunt brochure map in accordance with State regulations subject to the following conditions:

1. Conditions A1 through A15, A19 through A23 apply.

2. While upland game hunting, we prohibit the possession of firearms larger than .22 caliber rimfire, shotgun slugs, and buckshot (see § 27.42 of this chapter).

3. We allow the use of squirrel and rabbit dogs from the day after the close of the State-designated Deer Rifle Season. We allow up to two dogs per hunting party for squirrel hunting.

4. We require the owner's name and phone number on the collars of all dogs.

5. We prohibit possession or distribution of bait or hunting with the aid of bait, including any grain, salt, minerals, or other feed or nonnaturally occurring attractant on the refuge (see § 32.2(h)).

C. Big Game Hunting. We allow hunting of white-tailed deer on designated areas of the refuge as shown on the refuge hunt brochure map in accordance with State regulations subject to the following conditions:

1. Condition B1 applies.

2. We allow archery-only deer hunting on the refuge during the State archery deer season.

3. There is a $5 application fee per person for each lottery hunt application (name/address/telephone number only required).

4. Hunters may not leave stands on the refuge until the opening day of archery season. Hunters must remove all stands by the end of the last day of the archery season. Hunters must clearly mark all stands used on the refuge with the name, address, and phone number of the owner. Hunters must use only portable deer stands, remove them from trees daily, and place freestanding stands in a nonhunting position daily (see § 27.93 of this chapter).

5. We prohibit the use of dogs to trail wounded game.

6. You may only take one deer of either sex per day during the deer season. State season limits apply.

7. We require a minimum of 400 square inches (2,600 cm²) of unbroken-hunter orange as the outermost layer of clothing on the chest and back, and in addition we require a hat or cap of unbroken-hunter orange.

8. We prohibit driving or screwing nails, spikes, or other metal objects into trees or hunting from any tree into which such an object has been driven (see § 32.2(i)).

9. We allow “still hunting” only. We prohibit man drives or use of dogs.

10. We prohibit use of climbing spurs.

D. Sport Fishing. We allow fishing on designated areas of the refuge as shown on the refuge hunting and fishing brochure map in accordance with State regulations subject to the following conditions:

1. We prohibit commercial fishing or commercial crawfishing.

2. Conditions A1, A2, A4, A7, A8 (on the open portions of Wood Duck ATV trail for wildlife-dependent activities throughout the year), A11 through A14, A19, A20, and A23 apply.

3. We prohibit slat traps or hoop nets on the refuge.

4. We prohibit possession of cleaned or processed fish on the refuge.

5. We allow recreational crawfishing on the refuge subject to specific dates (see refuge brochure for details). The harvest limit is 50 pounds (22.5 kg) per permit per day.

6. You must attend all crawfish traps and nets at all times and may not leave them on the refuge overnight. We allow up to and not to exceed 20 traps per angler on the refuge.

7. We prohibit harvest of frog or turtle on the refuge (see § 27.21 of this chapter).

8. We prohibit boat launching by trailer from all refuge roads and parking lots.

Catahoula National Wildlife Refuge

A. Migratory Game Bird Hunting. We allow hunting of duck, goose, and coot only on designated areas of the Bushley Bayou Unit in accordance with State hunting regulations subject to the following conditions:

1. We allow migratory hunting of duck, goose, and coot on Tuesdays, Thursdays, Saturdays, and Sundays from ½ hour before legal sunrise until 12 p.m. (noon) during the State season.

2. We prohibit migratory game bird hunting during deer-gun and primitive firearms hunts.

3. We allow the use of dogs only to locate, point, and retrieve game when hunting migratory game birds.

4. We allow the use of shotguns only for hunting migratory birds.

5. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

6. Hunters must check-in and check out in accordance with refuge-specific terms (see refuge hunting brochure for details).

7. We require hunters age 16 and older to purchase and carry a signed special refuge recreational activity permit (name/address/phone only).

8. Hunters may enter the refuge no earlier than 4 a.m. and must exit no later than 2 hours after legal sunset for that day. Waterfowl hunting must cease by 12 p.m. (noon), and hunters must remove all decoys, blinds and boats from the hunting area by 1 p.m.

9. We prohibit hunting or the discharge of firearms within 150 feet (45 m) from the centerline of roads and maintained trails.

10. We prohibit parking, walking, or hunting within 150 feet (45 m) of any active oil and gas facility or equipment.

11. We prohibit the use of mules or horses.

12. We prohibit the use or possession of saws, saw blades, or machetes.

13. We allow the use of nonmotorized boats or boats with motors of 10 horsepower or less on refuge lakes and waters as designated. We prohibit the use of air-thrust boats, water-thrust boats, or personal watercraft.

14. Refuge users must enter and exit the refuge only at designated parking areas on the refuge. We prohibit accessing adjacent lands from the refuge parking areas or any other part of the refuge.

15. We prohibit the use or possession of any type of material used as flagging or trail markers except bright eyes or reflective tape.

16. We prohibit camping or parking overnight on the refuge.

17. We restrict use of all-terrain vehicles (ATVs) to designated trails. We allow ATVs only for hunting and fishing and other wildlife-related activities. ATVs will not exceed 25 miles per hour (mph) when operated on the refuge. ATVs used on the refuge will not exceed the following: Weight 750 pounds (337.5 kg), length 85 inches (212.5 cm), width 48 inches (120 cm). We restrict ATV tires to those no larger than 25 inches x 12 inches (62.5 cm x 30 cm) with a maximum one inch (2.5 cm) lug height and maximum allowable tire pressure of 7 pounds per square inch (psi) as indicated on the tire by the manufacturer.

18. We allow the incidental take of feral hog, raccoon, beaver, nutria, and coyote while hunting with firearms or archery equipment authorized for that hunt.

19. We prohibit the possession or use of remote cameras.

B. Upland Game Hunting. We allow hunting of squirrel and rabbit on designated areas of the refuge in accordance with State regulations subject to the following conditions:

1. Conditions A5 through A19 apply.

2. At the Headquarters Unit, we only allow squirrel and rabbit hunting from the first day of the State season until October 31.

3. At the Bushley Unit, we allow squirrel and rabbit hunting in accordance with the State season.

4. We prohibit squirrel and rabbit hunting during deer-gun and primitive firearms hunts.

5. At the Bushley Unit, we allow the use of dogs to hunt squirrels and rabbits only after the last primitive firearms season for deer on the refuge. Hunters must place their names and phone numbers on the collars of all their dogs.

6. We require hunters participating in the dog season for rabbits to wear a hunter-orange cap.

7. We allow the use of shotguns with nontoxic shot and rifles .22 magnum or smaller when hunting. We prohibit possession of toxic shot when hunting.

C. Big Game Hunting. We allow hunting of white-tailed deer and feral hog on designated areas of the refuge in accordance with State regulations subject to the following conditions:

1. Conditions A5 through A19 apply.

2. At the Headquarters Unit, we allow archery hunting of deer and feral hog during the State archery season except the area south of the French Fork of the Little River, which we close during deer-gun hunt in that area.

3. We allow deer-gun hunting on the area south of the French Fork of the Little River for 2 days in December with these dates being set annually.

4. At the Bushley Unit, we allow archery hunting for deer and feral hog during the State archery season except we close during deer-gun hunt and primitive firearms hunts.

5. We allow hunting of deer with primitive firearms during the first segment of the State season for area 1, weekdays only (Monday through Friday) and the third weekend after Thanksgiving Day.

6. We allow the use of portable deer stands. Hunters may place deer stands on the refuge 1 day before the deer archery season and must remove them from the refuge within 1 day after this season closes. Hunters may place only one stand on the refuge. Deer stands must have the owner's name, address, and phone number clearly printed on the stand. Hunters must place stands in a nonhunting position when not in use (see § 27.93 of this chapter).

7. We prohibit the possession of buckshot when hunting.

8. All hunters (including archery and small game hunters), except waterfowl hunters on refuges, must wear and display 400 square inches (2,600 cm²) of hunter orange and a hunter-orange cap during the deer-gun and primitive firearms seasons. Deer hunters hunting from concealed ground blinds must display a minimum of 400 square inches of hunter orange above or around their blinds which is visible from 360 degrees.

9. You may take only one deer per day during any refuge hunt. The State season limits apply.

10. We prohibit the use of organized drives for taking or attempting to take game or the use of pursuit dogs.

11. We prohibit the use of dogs to trail wounded deer.

12. At the Headquarters Unit, we close hunting during high water conditions, elevation 42 feet (12.6 m) or above as measured at the Corp of Engineers center of the gauge on Catahoula Lake. On the Bushley Unit, we close hunts when the gauge measures elevation 44 feet (13.2 m) or above.

D. Sport Fishing. We allow fishing on designated areas of the refuge in accordance with State regulations subject to the following conditions:

1. Conditions A10 through A17 apply.

2. We require anglers age 16 and older to possess and carry a signed special refuge recreational activity permit (name/address/phone only).

3. Anglers may enter the refuge no earlier than 4 a.m. and must exit no later than 2 hours after legal sunset for that day.

4. At the Headquarters Unit, we allow year-round fishing on Cowpen Bayou and the Highway 28 borrow pits. We allow fishing on Duck Lake, its tail-waters Muddy Bayou, Willow Lake, and the Highway 84 borrow pits from March 1 through October 31. We allow only rod and reel or pole and line fishing. We prohibit snagging.

5. At the Bushley Bayou Unit, we allow fishing year-round. We allow trotlines, but anglers must tend them at least once every 24 hours and reset them when receding water levels expose them. Anglers must attach lines with a length of cotton line that extends into the water. We allow the use of yo-yos, but you must attend and only use them from 1 hour before legal sunrise until ½ hour after legal sunset. We allow the use of only recreational gear.

6. At the headquarters unit, we allow the launching of only trailered boats at designated boat ramps. Anglers may launch small hand-carried boats from the bank in other areas. We prohibit dragging of boats or driving onto road shoulders to launch boats.

7. We allow fishing from 1 hour before legal sunrise to ½ hour after legal sunset.

8. We prohibit bank fishing on Bushley Creek and fishing in Black Lake, Dempsey Lake, Long Lake, Rhinehart Lake, and Round Lake during deer-gun and primitive firearms hunts.

9. We prohibit fishing in Black Lake, Dempsey Lake, Long Lake, Round Lake, and Rhinehart Lake during waterfowl hunts.

10. We prohibit taking or possessing snake, frog, turtle, salamander, and mollusk by any means (see § 27.21 of this chapter).

D'Arbonne National Wildlife Refuge

A. Migratory Game Bird Hunting. We allow hunting of duck, goose, coot, and woodcock on designated areas of the refuge as indicated in the refuge brochure in accordance with State regulations subject to the following conditions:

1. Hunters must possess and carry a signed refuge permit (signed refuge brochure).

2. We allow migratory game bird hunting on designated areas as indicated in the refuge brochure.

3. We allow waterfowl hunting until 12 p.m. (noon) during the State season except when closed during the special teal season and State youth waterfowl hunt.

4. Hunters may enter the refuge no earlier than 4 a.m.

5. We prohibit hunting within 100 feet (30 m) of the maintained rights of way of roads (see § 27.31 of this chapter), and from above-ground oil or gas or electrical transmission facilities.

6. We prohibit leaving boats, blinds, and decoys unattended.

7. We allow dogs to only locate, point, and retrieve when hunting for migratory game birds.

8. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

9. We prohibit any person or group to act as a hunting guide, outfitter, or in any other capacity that any other individual(s) pays or promises to pay directly or indirectly for services rendered to any other person or persons hunting on the refuge, regardless of whether such payment is for guiding, outfitting, lodging, or club membership.

B. Upland Game Hunting. * * *

1. Conditions A1, A5, A8, and A9 apply.

* * * * *

3. We prohibit taking small game with firearms larger than .22 caliber rimfire, shotgun slugs, and buckshot.

* * * * *

C. Big Game Hunting. We allow hunting of white-tailed deer on designated areas of the refuge as indicated in the refuge brochure in accordance with State regulations subject to the following conditions:

1. Conditions A1, A5, A9, and B7 apply.

* * * * *

6. We prohibit leaving deer stands, blinds, and other equipment unattended.

7. Deer hunters must wear hunter orange as per State deer hunting regulations on Wildlife Management areas.

8. We prohibit hunters placing or hunting from stands on pine trees with white-painted bands or rings.

9. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

10. We prohibit possession or distribution of bait or hunting with the aid of bait, including any grain, salt, minerals, or other feed or any nonnaturally occurring attractant on the refuge (see § 32.2(h)).

* * * * *

Delta National Wildlife Refuge

A. Migratory Game Bird Hunting. We allow hunting of duck, goose, and coot on designated areas of the refuge in accordance with State regulations subject to the following conditions:

1. We allow waterfowl hunting on Wednesdays, Thursdays, Saturdays, and Sundays from ½ hour before legal sunrise until 12 p.m. (noon), including the State special teal season, State youth waterfowl season, and State light goose special conservation season.

2. We only allow temporary blinds. You must remove both blinds and decoys (see § 27.93 of this chapter) by 1 p.m.

3. We allow dogs to only locate, point, and retrieve when hunting for migratory game birds.

4. You may possess only approved nontoxic shot while hunting on the refuge (see § 32.2(k)).

5. Hunters must possess and carry a valid refuge hunt permit (signed brochure).

6. We allow hunting only on those portions of the refuge that lie northwest of Main Pass and south of Raphael Pass.

7. Persons possessing, transporting, or carrying firearms on national wildlife refuges must comply with all provisions of State and local law. Persons may only use (discharge) firearms in accordance with refuge regulations (§ 27.42 of this chapter and specific refuge regulations part 32).

8. We prohibit air-thrust boats, mud boats, aircraft, and air-cooled propulsion engines on the refuge.

9. We close all refuge lands between Raphael Pass and Main Pass to all entry during the State waterfowl hunting season.

10. We prohibit discharge of firearms (see § 27.42 of this chapter) within 250 yards (225 m) of buildings or worksites, such as oil or gas production facilities.

11. An adult at least age 21 must supervise youth hunters under age 16 during all hunts. An adult may supervise two youths during small game and migratory bird hunts but may supervise only one youth during big game hunts. Youth must remain within normal voice contact of the adult who is supervising them. Parents or adult guardians are responsible for ensuring that hunters under age 16 do not engage in conduct that would constitute a violation of refuge regulations.

12. We prohibit any person or group to act as a hunting guide, outfitter, or in any other capacity that any other individual(s) pays or promises to pay directly or indirectly for services rendered to any other person or persons hunting on the refuge, regardless of whether such payment is for guiding, outfitting, lodging, or club membership.

13. We open the refuge from ½ hour before legal sunrise to ½ hour after legal sunset with the exception that hunters may enter the refuge earlier, but not before 4 a.m.

14. We prohibit camping.

15. We prohibit target shooting on the refuge.

16. We prohibit the use of any type of material used as flagging or trail markers, except bright eyes.

B. Upland Game Hunting. * * *

* * * * *

4. Conditions A4 through A16 apply.

C. Big Game Hunting. * * *

1. Conditions A5 through A16 apply with the following exception to condition A11: Each adult may only supervise one youth hunter.

2. We allow archery deer hunting, bucks only, October 1 through 15. We allow either-sex archery deer hunting October 16 through 31 and from the day after the close of the State duck season through the end of the State deer archery season.

3. Hunters may use only portable deer stands (see § 27.93 of this chapter). Hunters may erect deer stands 1 day before the deer archery season and must remove them from the refuge within 1 day after the season closes. Hunters may place only one deer stand on a refuge. Deer stands must have the owner's name, address and phone number clearly printed on the stand. Hunters must place stands in a nonhunting position when not in use.

* * * * *

5. You may take hog only with archery equipment during the archery deer season.

* * * * *

7. Longbow, compound bow, and crossbow or any bow drawn, held, or released by mechanical means will be a legal means of take during the deer archery season.

8. We prohibit the use of trail cameras.

9. We prohibit the use of deer decoys.

D. Sport Fishing. * * *

* * * * *

4. Conditions A7, A8, A9, A14, and A15 apply.

* * * * *

Grand Cote National Wildlife Refuge

A. Migratory Game Bird Hunting. We allow hunting of duck, goose, coot, and woodcock on designated areas of the refuge as depicted on the refuge hunting brochure map in accordance with State regulations subject to the following conditions:

1. We allow waterfowl (duck, goose, coot) hunting on Wednesdays and Saturdays from ½ hour before legal sunrise until 12 p.m. (noon) during the State season.

2. We prohibit teal hunting during the State September season.

3. There will be lottery-spaced-blind-waterfowl hunts on designated sections of the refuge during the regular State waterfowl season subject to refuge-specific dates, terms, and selection process (see refuge hunting brochure for details).

4. We allow the use of shotguns only utilizing approved nontoxic shot for hunting migratory game birds.

5. We allow the use of dogs only to locate, point, and retrieve game when hunting migratory game birds.

6. Hunters may enter the refuge no earlier than 4 a.m. and must exit no later than 2 hours after legal sunset for that day. Waterfowl hunting must cease by 12 p.m. (noon), and hunters must remove all decoys, blinds, and boats from the hunt area by 1 p.m.

7. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

8. We allow the incidental take of raccoon, feral hog, beaver, nutria, and coyote using only approved nontoxic shot while hunting migratory game birds.

9. We require hunters age 16 and older to purchase and carry a signed refuge special recreational activity permit (name/address/phone number only).

10. We prohibit hunting or the discharge of firearms within 150 feet (3.7 m) from the centerline of roads and maintained trails.

11. Hunters must check-in and check out in accordance with refuge-specific terms (see refuge hunting brochure for details).

12. We prohibit possession or distribution of bait while in the field, hunting with the aid of bait, including any grain, salt, minerals, or any nonnaturally occurring food attractant on the refuge (see § 32.2(h)).

13. We prohibit camping or overnight parking on the refuge.

14. Refuge users must enter and exit the refuge only at designated parking areas occurring on the refuge. We prohibit accessing adjacent lands from refuge parking areas or any other part of the refuge.

15. We restrict the use of all-terrain vehicles (ATVs) to designated trails. We allow ATVs only for hunting, fishing, and other wildlife-related activities. ATVs will not exceed 25 mph when driven on the refuge. ATVs used on refuges will not exceed the following: Weight-750 lbs. (337.5 kg), length-85 inches (2.12 m), and width-48 inches (120 cm). We restrict ATV tires to those no larger than 25 inches (62.5 cm) x 12 inches (30 cm) with a maximum 1-inch (2.5 cm) lug height and a maximum allowable tire pressure of 7 p.s.i. as indicated on the tire by the manufacturer.

16. We allow only electric-powered or nonmotorized boats.

17. We prohibit the use of horses or mules.

18. We prohibit the use or possession of any type of material used as flagging or trail markers, except for bright eyes or reflective tape.

19. We prohibit the use or possession of saws, saw blades, or machetes.

20. We prohibit the use or possession of remote cameras.

B. Upland Game Hunting. We allow hunting of rabbit on designated areas of the refuge as depicted on the refuge hunting brochure map in accordance with State regulations subject to the following conditions:

1. Conditions A9 through A20 apply.

2. We only allow the use of shotguns and rifles that are .22 magnum caliber rimfire or less for upland game hunting. Hunters may use only approved nontoxic shot in shotguns. We prohibit possession of toxic shot (see § 32.2(k)) for hunting.

3. We allow incidental take of raccoon, feral hog, beaver, nutria, and coyote with firearms that are authorized for use during upland game hunting.

4. We allow the use of rabbit dogs only after the close of the State deer rifle season. Dog owners must place their name and phone number on the collars of all their dogs.

5. We require hunters participating in the special dog season for rabbits to wear a hunter-orange cap.

C. Big Game Hunting. We allow hunting of white-tailed deer on designated areas of the refuge as depicted on the refuge hunting brochure map in accordance with State regulations subject to the following conditions:

1. Conditions A9 through A20 apply.

2. We allow archery hunting in special designated areas (see refuge hunting brochure map) during the State archery deer season subject to refuge closures resulting from high water conditions.

3. You may only harvest one buck or doe per day during the refuge archery season. Deer harvested on the refuge count towards the State bag limit.

4. We allow incidental take of raccoon, feral hog, beaver, nutria, and coyote while deer hunting with weapons authorized for use.

5. You may use only portable deer stands (see § 27.93 of this chapter). Hunters must place deer stands on the refuge 1 day before the deer archery season and must remove them from the refuge within 1 day after the season closes. Hunters may place only one deer stand on the refuge and deer stands must have the owner's name, address, and phone number clearly printed on the stand. Hunters must be place the stand in a nonhunting position and at ground level when not in use.

6. Deer hunters hunting from concealed ground blinds must display a minimum of 400 square inches (2,600 cm²) of hunter orange above or around their blinds which is visible from 360 degrees.

7. We prohibit the use of deer decoys.

8. We prohibit the use of dogs to trail wounded deer.

9. We prohibit organized drives for taking or attempting to take game or the use of pursuit dogs.

D. Sport Fishing. We allow fishing in designated areas as depicted in the refuge hunting brochure in accordance with State regulations subject to the following conditions:

1. Conditions A13 through A19 apply.

2. We allow bank fishing in Coulee Des Grues only along Little California Road from legal sunrise to legal sunset.

3. Anglers may enter the refuge no earlier than 4 a.m. and must exit no later than 2 hours after legal sunset for that day.

4. We require anglers age 16 and older to purchase and carry a signed refuge special recreational activity permit.

5. We prohibit the use of gear or equipment other than hook and line to catch fish.

6. We prohibit the possession of cleaned or processed fish on the refuge.

7. We prohibit the harvest of frog, turtle, snake, or mollusk (see § 27.21 of this chapter).

8. We prohibit crawfishing.

Lacassine National Wildlife Refuge

A. Migratory Game Bird Hunting. We allow hunting of goose, duck, gallinule, and coot on designated areas of the refuge in accordance with State regulations subject to the following conditions:

1. The refuge will be open on selected days for migratory game bird hunting as identified in the refuge hunt permit and regulations brochure.

2. We require every hunter to possess and carry a valid signed refuge hunt permit (signed brochure) and regulations brochure.

3. We prohibit entrance to the hunting area earlier than 4 a.m. Shooting hours end at 12 p.m. (noon) each day. Hunters must remove all decoys and blinds from the hunting area by 1 p.m. Hunters must leave the refuge no later than 1 hour after legal sunset.

4. Each hunter must complete and turn in a Migratory Bird Hunt Report (FWS Form 3-2361), available from a self-clearing check station, after each hunt.

5. Persons possessing, transporting, or carrying firearms on national wildlife refuges must comply with all provisions of State and local law. Persons may only use (discharge) firearms in accordance with refuge regulations (see § 27.42 of this chapter and specific refuge regulations in part 32).

6. We prohibit all mechanized equipment including motorized boats within the designated wilderness area.

7. We prohibit all boat motors, including trolling motors, within refuge marshes. We prohibit air-thrust boats and ATVs on the refuge (see § 27.31(f) of this chapter), unless otherwise permitted.

8. We prohibit hunting within 50 yards (45 m) of refuge canals; waterways; public roads; buildings; above-ground oil, gas, or electrical transmission facilities; or designated public facilities. Hunting parties must remain a distance of no less than 150 yards (135 m) away from another hunter.

9. You must remove all hunting-related equipment (see § 27.93 of this chapter) from the refuge immediately following each day's hunt.

10. We prohibit overnight camping on the refuge.

11. We prohibit the use or possession of alcoholic beverages while hunting (see § 32.2(j)).

12. We allow the use of dogs when migratory bird hunting only for the purpose of locating, pointing, and retrieving.

13. We prohibit all persons or groups from acting as guides, outfitters, or in any other capacity in which any individual(s) pay or promise to pay directly or indirectly for service rendered to any person or persons hunting on the refuge, regardless of whether such payment is for guiding, outfitting, lodging, or club membership.

14. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

* * * * *

C. Big Game Hunting. We allow hunting for white-tailed deer on designated areas of the refuge in accordance with State regulations subject to the following conditions:

1. The refuge will be open for hunting white-tailed deer on selected days as identified in the refuge hunt permit (signed brochure) and regulations brochure.

2. Conditions A2, and A5 through A14 apply.

3. We prohibit entrance to the hunting area earlier than 4 a.m. Hunters must leave no later than 1 hour after legal sunset.

4. We prohibit hunting in the headquarters area along Nature Road and along the Lacassine Pool Wildlife Drive (see refuge map).

5. We allow boats of all motor types and of 40 hp or less in Lacassine Pool.

6. We prohibit boats in Lacassine Pool and Unit D from October 16 through March 14. We prohibit boats in Units A and C.

7. We prohibit possession or distribution of bait or hunting with the aid of bait, including any grain, salt, minerals, or other feed or any nonnaturally occurring attractant on the refuge (see § 32.2(h)).

8. Each hunter must complete and turn in a Big Game Harvest Report (FWS Form 3-2359), available from a self-clearing check station, after each hunt.

D. Sport Fishing. * * *

1. Conditions A6, A7, A10, C5, and C6 apply.

* * * * *

10. We prohibit all boat motors, including trolling motors, in refuge marshes outside Lacassine Pool. We prohibit air-thrust boats and ATVs on the refuge (see § 27.31(f) of this chapter), unless otherwise allowed.

11. We prohibit all mechanized equipment, including motorized boats, within the designated wilderness area.

12. We allow fishing only with rod and reel or pole and line in refuge waters.

13. Anglers can travel the refuge by boat from 1 hour before legal sunrise until 1 hour after legal sunset in order to access fishing areas. We prohibit fishing activities before legal sunrise and after legal sunset.

14. We prohibit the taking of any turtle species (see § 27.21 of this chapter).

Lake Ophelia National Wildlife Refuge

A. Migratory Game Bird Hunting. We allow hunting of duck, goose, coot, and woodcock on designated areas of the refuge as depicted on the refuge hunting brochure map in accordance with State regulations subject to the following conditions:

1. We allow waterfowl (duck, goose, coot) hunting on Tuesdays, Thursdays, and Saturdays from ½ hour before legal sunrise until 12 p.m. (noon) during the Statewide duck season.

2. We allow the use of shotguns only utilizing approved nontoxic shot for hunting migratory game birds.

3. We allow the use of dogs only to locate, point, and retrieve game when hunting for migratory birds.

4. Hunters may enter the refuge no earlier than 4 a.m. and must exit no later than 2 hours after legal sunset for that day. Waterfowl hunting must cease by 12 p.m. (noon), and hunters must remove all decoys, blinds, and boats from the hunt area by 1 p.m.

5. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

6. We prohibit migratory game bird hunting during refuge deer primitive firearm hunts.

7. We allow the incidental take of raccoon, feral hog, beaver, nutria, and coyote using only nontoxic shot while hunting migratory game birds.

8. We restrict the use of all-terrain vehicles (ATVs) to designated trails. We allow ATVs only for hunting, fishing, and other wildlife-related activities. ATVs will not exceed 25 mph when driven on the refuge. ATVs used on refuges will not exceed the following: Weight 750 lbs. (337.5 kg), length 85 inches (2.12 m), and width 48 inches (120 cm). We restrict ATV tires to those no larger than 25 inches (62.5 cm) x 12 inches (30 cm) with a maximum 1-inch (2.5 cm) lug height and a maximum allowable tire pressure of 7 psi as indicated on the tire by the manufacturer.

9. We restrict the special all-terrain vehicle trails for physically challenged persons to ATV physically challenged permittees. Individuals that qualify must obtain a Special Use Permit (FWS Form 3-1383) from the refuge office to use these trails.

10. We require hunters age 16 and older to purchase and carry a signed refuge special recreational activity permit (name/address/phone number only).

11. We prohibit hunting or the discharge of firearms within 150 feet (45 m) from the centerline of roads and maintained trails.

12. Hunters must check-in and check out in accordance with refuge-specific terms (see refuge hunting brochure for details).

13. We prohibit possession or distribution of bait while in the field, hunting with the aid of bait, including any grain, salt, minerals, or any nonnaturally occurring food attractant on the refuge (see § 32.2(h)).

14. We allow watercraft with motors up to 36 hp in Possum Bayou (north of boat ramp), Palmetto Bayou, Duck Lake, Westcut Lake, Point Basse, and Nicholas Lake.

15. We allow electric-powered or nonmotorized boats in Doomes Lake, Lake Long, Possum Bayou (south of boat ramp), and Lake Ophelia.

16. We prohibit camping or overnight parking on the refuge.

17. Refuge users must enter and exit the refuge only at designated parking areas occurring on the refuge. We prohibit accessing adjacent lands from refuge parking areas or any other part of the refuge.

18. We prohibit the use of horses or mules.

19. We prohibit the use or possession of any type of material used as flagging or trail markers, except for bright eyes or reflective tape.

20. We prohibit the use or possession of saws, saw blades, or machetes.

21. We prohibit the use or possession of remote cameras.

B. Upland Game Hunting. We allow hunting of squirrel and rabbit on designated areas of the refuge as depicted on the refuge hunting brochure map in accordance with State regulations subject to the following conditions:

1. Conditions A5 and A8 through A21 apply.

2. Hunters may enter the refuge no earlier than 4 a.m. and must exit no later than 2 hours after legal sunset for that day.

3. We only allow the use of shotguns and rifles that are .22 magnum caliber rimfire or less for upland game hunting. We allow only nontoxic shot in shotguns and prohibit possession of toxic shot when hunting.

4. We allow incidental take of raccoon, feral hog, beaver, nutria, and coyote with firearms authorized for use during upland game hunting.

5. We prohibit upland game hunting during refuge deer primitive firearm hunts.

6. We allow the use of squirrel and rabbit dogs only after the close of the State deer rifle season. Dog owners must place their name and phone number on the collars of all their dogs.

7. We require hunters participating in the special dog season for rabbits to wear a hunter-orange cap.

C. Big Game Hunting. We allow hunting of white-tailed deer and turkey on designated areas of the refuge as depicted on the refuge hunting brochure map in accordance with State regulations subject to the following conditions:

1. Conditions A5 and A9 through A21 apply.

2. Hunters may enter the refuge no earlier than 4 a.m. and must exit no later than 2 hours after legal sunset for that day.

3. We restrict the use of all-terrain vehicles (ATVs) to designated trails from the first Saturday in September until the last day of refuge turkey season. We allow ATVs only for hunting, fishing, and other wildlife-related activities. ATVs will not exceed 25 mph when driven on the refuge. ATVs used on refuges will not exceed the following: Weight 750 lbs. (337.5 kg), length 85 inches (2.12 m), and width 48 inches (120 cm). We restrict ATV tires to those no larger than 25 inches (62.5 cm) x 12 inches (30 cm) with a maximum 1-inch (2.5 cm) lug height and a maximum allowable tire pressure of 7 psi as indicated on the tire by the manufacturer.

4. You may harvest only one buck or doe per day during the refuge archery season. You may harvest only one buck or doe during each of the primitive firearm lottery deer hunts. Deer harvested on the refuge count towards the State bag limit.

5. We allow incidental take of raccoon, feral hog, beaver, nutria, and coyote while deer hunting with weapons authorized for use.

6. You may use only portable deer stands. Hunters may place deer stands on the refuge 1 day before the deer archery season and must remove them from the refuge within 1 day after the season closes. Hunters may place only one deer stand on the refuge, and deer stands must have the owner's name, address, and phone number clearly printed on the stand. Hunters must place stands in a nonhunting position and at ground level when not in use.

7. All deer gun hunters must wear and display 400 square inches (2,600 cm²) of hunter orange and a hunter-orange cap during the deer gun seasons and lottery deer hunts. Deer hunters hunting from concealed ground blinds must display a minimum of 400 square inches of hunter orange above or around their blinds which is visible from 360 degrees.

8. There will be lottery deer primitive firearm hunts subject to refuge-specific dates, terms, and selection process, as outlined in the refuge hunting brochure. Applicants may not apply for more than one hunt. There is a $5 nonrefundable application fee per person for each hunt application.

9. We allow youth deer hunting in the closed area of the refuge during lottery youth deer gun hunts subject to the refuge-specific dates, terms, and selection process outlined in the refuge hunting brochure. Youths selected in prior years may not apply.

10. We prohibit all other hunting during refuge deer primitive firearm hunts as described in the refuge hunting brochure.

11. We prohibit the use of deer or turkey gobbler decoys.

12. We allow turkey hunting only during the first 16 days of the State season until 12 p.m. (noon). We prohibit incidental hunting of hog. We allow the use and possession of lead shot for turkey hunting (see § 32.2(k)).

13. We prohibit the use of dogs to trail wounded deer.

14. We prohibit organized drives for taking or attempting to take game or the use of pursuit dogs.

D. Sport Fishing. We allow fishing in designated areas as depicted in the refuge hunting brochure in accordance with State regulations subject to the following conditions:

1. Conditions A14 through A21 and C3 apply.

2. We require anglers age 16 and older to purchase and carry a signed refuge special recreational activity permit (name/address/phone number only).

3. Anglers may enter the refuge no earlier than 4 a.m. and must exit no later than 2 hours after legal sunset for that day.

4. We allow fishing from legal sunrise to legal sunset.

5. We allow the use of ATVs on the designated trails to the Duck and Westcut Lake boat ramps from March 1 through October 15.

6. We allow sport fishing in Duck Lake, Westcut Lake, Lake Long, and in the immediate vicinity of the Lake Agnes drainage culverts on the Red River during March 1 through October 15 from legal sunrise to legal sunset.

7. We prohibit the use of gear or equipment other than hook and line to catch fish.

8. We prohibit the possession of cleaned or processed fish on the refuge.

9. We prohibit the harvest of frog, turtle, snake, or mollusk (see § 27.21 of this chapter).

10. We prohibit crawfishing.

* * * * *

Red River National Wildlife Refuge

A. Migratory Game Bird Hunting. We allow hunting of duck, goose, coot, woodcock, and dove on designated areas of the refuge as indicated in the refuge brochure in accordance with State regulations subject to the following conditions:

1. Hunters must possess and carry a signed refuge permit (signed refuge brochure).

2. We allow waterfowl and woodcock hunting on designated areas as indicated in the refuge brochure until 12 p.m. (noon) during the State season.

3. We allow dove hunting only during the first 3 days of the State season on all refuge lands as indicated in the refuge brochure.

4. Hunters may enter the refuge no earlier than 4 a.m.

5. We prohibit hunting within 150 feet (45 m) of any public road, refuge road, trail, or ATV trail, residence, building, aboveground oil or gas or electrical transmission facilities, or designated public facility.

6. We prohibit leaving boats, blinds, and decoys unattended.

7. We allow dogs only to locate, point, and retrieve when hunting for migratory game birds.

8. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

9. We prohibit any person or group to act as a hunting guide, outfitter, or in any other capacity that any other individual(s) pays or promises to pay directly or indirectly for services rendered to any other person or persons hunting on the refuge, regardless of whether such payment is for guiding, outfitting, lodging, or club membership.

10. Hunters may use only approved nontoxic shot shotgun ammunition for hunting on the refuge (see § 32.2(k)).

11. We prohibit the possession or distribution of bait or hunting with the aid of bait, including any grain, salt, mineral or other feed or nonnaturally occurring attractant on the refuge (see § 32.2(h)).

B. Upland Game Hunting. We allow hunting of quail, squirrel, rabbit, raccoon, and opossum on designated areas of the refuge as indicated in the refuge brochure in accordance with State regulations subject to the following conditions:

1. Conditions A1, A5, and A8 through A11 apply.

2. We allow hunting on all refuge lands on designated areas as indicated in the refuge brochure.

3. We prohibit the use of firearms (see § 27.42 of this chapter) larger than .22 caliber rimfire, shotgun slugs, and buckshot while hunting on the refuge.

4. We allow hunting of raccoon and opossum during the daylight hours of rabbit and squirrel season. We allow night hunting during December and January, and you may use dogs for night hunting. We prohibit selling of raccoon and opossum taken on the refuge for human consumption.

5. We allow use of dogs to hunt squirrel and rabbit after December 31.

6. If you want to use horses and mules to hunt raccoon and opossum at night, you must first obtain a Special Use Permit (FWS Form 3-1383) at the refuge office.

7. Hunters may enter the refuge no earlier than 4 a.m. and must exit the refuge no later than 1 hour after legal shooting hours.

C. Big Game Hunting. We allow hunting of white-tailed deer on designated areas of the refuge as indicated in the refuge brochure in accordance with State regulations subject to the following conditions:

1. Conditions A1, A5, A8 through A11, and B7 apply.

2. We allow only archery hunting.

3. We allow deer hunting on all refuge lands on designated areas as indicated in the refuge brochure.

4. The daily bag limit is one deer of either sex. The State season limit applies.

5. We allow use of portable deer stands as indicated in the refuge brochure.

6. We allow hog hunting during all open refuge hunts with weapons legal for the ongoing hunt.

7. We allow turkey hunting on the days noted in the brochure.

D. Sport Fishing. We allow fishing on designated areas of the refuge as indicated in the refuge brochure in accordance with State regulations subject to the following conditions:

1. We prohibit leaving boats and other personal property on the refuge unattended.

2. We allow use of only electric trolling motors on all refuge waters.

3. You must tend trotlines daily. You must attach ends of trotlines by a length of cotton line that extends into the water.

4. We prohibit commercial fishing. Recreational fishing using commercial gear (slat traps, etc.) requires a special refuge permit that you must possess and carry available at the refuge office.

5. We prohibit the taking of alligator snapping turtle (see § 27.21 of this chapter).

Sabine National Wildlife Refuge

A. Migratory Game Bird Hunting. We allow hunting of goose, duck, gallinule, and coot on designated areas of the refuge in accordance with State regulations subject to the following conditions:

1. We will open the refuge on selected days for migratory game bird hunting as identified in the refuge hunt permit and regulations brochure.

2. We require all hunters to possess and carry a valid signed refuge hunt permit (signed brochure) and regulations brochure.

3. We prohibit entrance to the hunting area earlier than 4 a.m. Shooting hours end at 12 p.m. (noon) each day. Hunters must remove all decoys and blinds from the hunting area by 1 p.m. and must leave the refuge no later than 1 hour after legal sunset.

4. Each hunter must complete and turn in a Migratory Bird Hunt Report (FWS Form 3-2361) from a self-clearing check station after each hunt.

5. You may access the hunt areas by boat using the boat launches at the West Cove Public Use Area or by access through Burton Canal. You may access hunt areas by vehicle from Vastar Road or designated turnouts within the refuge public hunt area along State Highway 27 (see § 27.31 of this chapter) unless otherwise posted.

6. We allow hand launching of small boats along Vastar Road (no trailers allowed).

7. We allow operation of outboard motors in designated refuge canals only. We allow trolling motors within the refuge marshes.

8. We prohibit air-thrust boats, personal motorized watercraft (e.g., Jet Skis), and ATVs on the refuge (see § 27.31(f) of this chapter) unless otherwise posted.

9. We allow only portable blinds and those made of native vegetation. Hunters must remove portable blinds, decoys, spent shells, and all other personal equipment (see §§ 27.93 and 27.94 of this chapter) after each day's hunt.

10. We prohibit hunting within 50 yards (45 m) of refuge canals; waterways; public roads; buildings; above-ground oil, gas, or electrical transmission facilities; or designated public facilities. Hunting parties must maintain a distance of no less than 150 yards (135 m) away from another hunter.

11. We prohibit all persons or groups from acting as guides, outfitters, or in any other capacity in which any other individual(s) pay or promise to pay directly or indirectly for service rendered to any other person or persons hunting on the refuge, regardless of whether such payment is for guiding, outfitting, lodging, or club membership.

12. We allow dogs when migratory bird hunting only for the purpose of locating, pointing and retrieving.

13. Persons possessing, transporting, or carrying firearms on national wildlife refuges must comply with all provisions of State and local law. Persons may only use (discharge) firearms in accordance with refuge regulations (see § 27.42 and specific refuge regulations in part 32).

14. We prohibit the use or possession of alcoholic beverages while hunting (see § 32.2(j)).

15. We prohibit overnight camping on the refuge.

16. An adult at least age 21 must supervise youth hunters under age 16 during all hunts. One adult may supervise two youths during small game and migratory bird hunts. Youth must remain within normal voice contact of the adult who is supervising them. Parents or adult guardians are responsible for ensuring that hunters under age 16 do not engage in conduct that would constitute a violation of refuge regulations.

B. Upland Game Hunting. [Reserved]

C. Big Game Hunting. [Reserved]

D. Sport Fishing. We allow fishing, crabbing, and cast netting in designated areas of the refuge in accordance with State regulations subject to the following conditions:

1. Bank and wharf access for fishing are available year-round at the Public Use Areas along State Highway 27. Anglers may access the refuge for fishing by boat only during the March 15 to October 15 open period. You may launch boats at designated boat ramps only.

2. We allow fishing with a rod and reel, pole and line, or jug and line. We prohibit possession of any other type of fishing gear, including limb lines, gill nets, or trot lines. Jug line limit is up to 10 per boat, and you must attend them at all times. The angler must mark all jugs with their fishing license number (State requirement) and remove the jugs (see § 27.93 of this chapter) from the refuge daily.

3. We allow hand launching of nonmotorized boats into Units 1A and 1B from Blue Crab Recreation Area for recreational paddling year-round. We prohibit fishing October 16 through March 14.

4. We allow operation of outboard motors in designated refuge canals and Management Unit 3 (40 hp maximum in Unit 3). We allow use of trolling motors within the refuge marshes.

5. Conditions A8, A11 (fishing guide), and A15 apply.

6. Anglers can travel the refuge by boat from 1 hour before legal sunrise until 1 hour after legal sunset in order to access fishing areas. We prohibit fishing activities, however, before legal sunrise and after legal sunset.

7. Crabbing: We allow recreational crabbing in designated areas of the refuge subject to the following conditions:

i. We allow only recreational crabbing with cotton hand lines or drop nets up to 24 inches (60 cm) outside diameter. We prohibit using floats on crab lines.

ii. Anglers must remove all hand lines, drop nets, and bait (see § 27.93 of this chapter) from the refuge upon leaving.

iii. We allow a daily limit of 5 dozen (60) crabs per vehicle or boat.

8. Cast Netting: We allow recreational cast netting in designated areas of the refuge subject to the following conditions:

i. We allow recreational cast netting from 12 p.m. (noon) to legal sunset during the Louisiana Inshore Shrimp Season.

ii. Anglers must empty cast nets directly into container from net. Anglers must immediately return all incidental take (by catch) to the water before continuing to cast net.

iii. The daily shrimp limit during the Louisiana Inshore shrimp season is 5 gallons (19 L) of heads-on shrimp per day, per vehicle or boat.

iv. The daily bait shrimp limit is one gallon (3.8 L) per day, per boat, outside the Louisiana inshore shrimp season, and before 12 p.m. (noon) during the Louisiana inshore shrimp season.

v. Shrimp must remain in your actual custody while on the refuge.

vi. We allow cast netting from the banks and wharves at designated refuge recreation areas or sites along Hwy. 27 that provide developed safe access and that we do not post and sign as closed areas.

vii. We prohibit cast netting at or around any recreation area and boat launch not designated as open for cast netting.

viii. We allow cast netting throughout the refuge except where posted and signed as closed.

ix. We prohibit reserving a place or saving as space for yourself or others by any means to include placing unattended equipment in designated cast-netting areas.

x. We prohibit swimming and/or wading in the refuge canals and waterways.

9. We prohibit the taking of turtle (see § 27.21 of this chapter).

Tensas River National Wildlife Refuge

A. Migratory Game Bird Hunting. We allow hunting of duck, coot, woodcock, and snipe on designated areas of the refuge in accordance with State regulations subject to the following conditions:

1. We allow hunting of duck and coot on Tuesdays, Thursdays, Saturdays, and Sundays until 12 p.m. (noon) during the State season. We prohibit migratory bird hunting during refuge gun hunts for deer.

2. We allow refuge hunters to enter the refuge no earlier than 4 a.m., and they must leave no later than 2 hours after legal sunset unless they are participating in the refuge nighttime raccoon hunt.

3. In areas posted “Area Closed” or “No Waterfowl Hunting Zone,” we prohibit hunting of migratory birds at any time. The Public Use Regulations brochure will be available at the refuge headquarters no later than August.

4. We allow shotguns equipped with a single-piece magazine plug that allows the gun to hold no more than two shells in the magazine and one in the chamber. We prohibit target practicing or shooting to unload modern firearms on the refuge at any time. Shotgun hunters must possess only an approved nontoxic shot when hunting migratory birds (see § 32.2(k)). Persons possessing, transporting, or carrying firearms on national wildlife refuges must comply with all provisions of State and local law. Persons may only use (discharge) firearms in accordance with refuge regulations (see § 27.42 and specific refuge regulations in part 32).

5. We prohibit permanent or pit blinds on the refuge. You must remove all blind materials and decoys by 1 p.m. daily.

6. We allow nonmotorized boats, electric motors, and boats with motors 10 hp or less in refuge lakes, streams, and bayous. Boaters must follow State boating regulations, including those for navigation lights. We prohibit boat storage on the refuge. Hunters/anglers must remove boats daily (see § 27.93 of this chapter).

7. We prohibit possession or distribution of bait while in the field and hunting with the aid of bait, including any grain, salt, minerals, or any nonnaturally occurring food attractant while on the refuge at any time (see § 32.2(h)).

8. We allow all-terrain vehicle (ATV) travel on designated trails for access typically from September 15 to the last day of the refuge squirrel season. We open designated trails from 4 a.m. to no later than 2 hours after legal sunset unless otherwise specified. We define an ATV as an off-road vehicle (not legal for highway use) with factory specifications not to exceed the following: Weight 750 pounds (337.5 kg), length 85 inches (212.5 cm), and width 48 inches (120 cm). We restrict ATV tires to those no larger than 25 inches (62.5 cm) x 12 inches (30 cm) with a 1-inch (2.5 cm) lug height and maximum allowable tire pressure of 7 psi. We require a permanently affixed refuge ATV permit that hunters may obtain from the refuge headquarters, typically in July. Hunters/anglers using the refuge physically challenged all-terrain trails must possess the State's Physically Challenged Program Hunter Permit or be age 60 or older. Additional physically challenged access information will be available at the refuge headquarters.

9. While visiting the refuge, we prohibit: use of artificial light to locate wildlife (see § 27.73 of this chapter), littering (see § 27.94 of this chapter), fires (see § 27.95 of this chapter), trapping, man-drives for game, use or possession of alcoholic beverages while hunting (see §§ 32.2(j) and 27.81 of this chapter), flagging, engineers tape, paint, unleashed pets (see § 26.21(b) of this chapter), and parking/blocking trail and gate entrances (see § 27.31(h) of this chapter). We also prohibit hunting or shooting within 150 feet (45 m) of a designated public road, maintained road, trail, fire breaks, dwellings, and above-ground oil and gas production facilities. We define a maintained road or trail as one which has been mowed, disked, or plowed.

10. We prohibit field dressing of game within 150 feet (45 m) of parking areas, maintained roads, and trails.

11. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute violation of refuge regulations.

B. Upland Game Hunting. We allow hunting of raccoon, squirrel, and rabbit on designated areas of the refuge in accordance with State regulations subject to the following conditions:

1. We allow nighttime raccoon hunting beginning typically the fourth Saturday in December and typically ending the fourth Sunday in January. We allow raccoon hunters to hunt from legal sunset to legal sunrise with the aid of dogs, horses, mules, and use of lights. We allow such use of lights on the refuge only at the point of kill. We prohibit all other use of lights for hunting on the refuge. Hunt dates will be available at refuge headquarters typically in July. We prohibit ATVs during the raccoon hunt. Hunters must attempt to take treed raccoons.

2. We allow squirrel and rabbit hunting with and without dogs. We will allow hunting without dogs from the beginning of the State season to a date typically ending the day before the refuge deer primitive firearms hunt. We do not require hunters to wear hunter orange during the squirrel and rabbit season without dogs. Squirrel and rabbit hunting with or without dogs will begin typically the second Monday in December and will conclude January 31. We require a minimum of a solid-hunter-orange cap during the squirrel season with or without dogs. We allow no more than three dogs per hunting party.

3. We close squirrel and rabbit hunting during the following gun hunts for deer: refuge-wide youth hunt, primitive firearms hunt, and modern firearms hunt.

4. In areas posted “Area Closed” and “No Hunting Zone,” we prohibit upland game hunting at any time.

5. When hunting we allow .22 caliber and smaller rimfire weapons and shotguns equipped with a single-piece magazine plug that allows the shotgun to hold no more than two shells in the magazine and one in the chamber. We prohibit target practicing or shooting to unload modern firearms on the refuge at any time. Shotgun hunters must possess only an approved nontoxic shot when hunting upland game (see § 32.2(k)). Persons possessing, transporting, or carrying firearms on national wildlife refuges must comply with all provisions of State and local law. Persons may only use (discharge) firearms in accordance with refuge regulations (see § 27.42 and specific refuge regulations in part 32).

6. Conditions A2, A6, A7, A8, A9, A10, and A11 apply.

C. Big Game Hunting. We allow hunting of white-tailed deer and turkey on designated areas of refuges in accordance with State regulations subject to the following conditions:

1. Deer archery season will begin the first Saturday in November and will conclude on January 31. We prohibit archery hunting during the following refuge-wide deer hunts: youth gun hunt and modern firearms hunts. We prohibit possession of pods, drug-tipped arrows, or other chemical substances.

2. The deer primitive firearms season will occur between November 1 and January 31. Legal primitive firearms for primitive season include:

i. Rifles, .44 caliber minimum, all of which must load exclusively from the muzzle or cap and ball cylinder; use of black powder or approved substitute only; use of ball or bullet projectile only, including saboted bullets, including muzzleloaders known as “in line” muzzleloaders; and

ii. Single-shot, breech-loading rifles, .38 caliber or larger of a kind or type manufactured prior to 1900 and relics, reproductions, or reintroductions of that type of rifle having an exposed hammer that use metallic cartridges loaded with black powder or modern smokeless powder.

3. During the deer primitive firearms season, hunters may fit any legal primitive firearms with magnified scopes. We will allow hunters using primitive weapons described as muzzleloader (including in-line) (see 2.i.) to hunt reforested areas. We will prohibit hunters using primitive weapons described in 2.ii. to hunt in reforested areas.

4. We will conduct two quota-modern-firearms hunts for deer typically in the months of November and/or December. Hunt dates and permit application (Quota Deer Hunt Application FWS Form 3-2354) procedures will be available at refuge headquarters no later than August. We restrict hunters using a primitive firearm during this hunt access to areas where we allow modern firearms. We prohibit hunting and/or shooting into or across any reforested area during the quota hunt for deer. We require a quota hunt permit for these hunts.

5. We will conduct guided quota youth deer hunts and guided quota deer hunts for the wheelchair-bound in the Greenlea Bend area typically in December and January. Hunt dates and permit application procedures will be available at the refuge headquarters typically in July. For this specific hunt, we consider youth to be ages 8 through 15.

6. We will conduct a refuge-wide youth deer hunt. Hunt dates will be available at refuge headquarters typically in July. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute violation of refuge regulations.

7. Hunters may take only one deer (one buck or one doe) per day during refuge deer hunts except during guided youth and wheelchair-bound hunts where the limit will be one antlerless and one antlered deer per day.

8. We allow turkey hunting the first 16 days of the State turkey season. We will conduct a youth turkey hunt the Saturday and Sunday before the regular State turkey season. Hunters may harvest two bearded turkeys per season. We allow the use and possession of lead shot while turkey hunting on the refuge (see § 32.2(k)). We allow use of nonmotorized bicycles on designated all-terrain vehicle trails. Although you may hunt turkey without displaying a solid-hunter-orange cap or vest during your turkey hunt, we do recommend its use.

9. Conditions A2, A6, A7, A8, A9, and A10 apply.

10. In areas posted “Area Closed” or “No Hunting Zone,” we prohibit big game hunting at any time. We close “Closed Areas” (designated on the Public Use Regulations brochure map) to all hunts. We prohibit shooting into or across any closed area with a gun or archery equipment.

11. We prohibit any hunter from using climbing spikes or to hunt from a tree that contains screw-in steps, nails, screw-in umbrellas, or any metal objects that could damage trees (see § 32.2(i)).

12. We allow muzzleloader hunters to discharge their primitive firearms at the end of each hunt safely into the ground at least 150 feet (135 m) from any designated public road, maintained road, trail, fire break, dwelling, or above-ground oil and gas production facility. We define a maintained road or trail as one that has been mowed, disked, or plowed, or one that is free of trees.

13. We prohibit deer hunters leaving deer stands unattended before the opening day of the refuge archery season. Hunters must remove stands by the end of the last day of the refuge archery season (see § 27.93 of this chapter). Hunters must clearly mark stands left unattended on the refuge with the name and address of the stand owner. Hunters must remove portable stands from trees daily and place freestanding stands in a nonhunting position when unattended.

14. We require deer hunters using primitive firearms or modern firearms to display a solid-hunter-orange cap on their head and a solid-hunter-orange vest over their outermost garment covering their chest and back. Hunters must display the solid-hunter-orange items the entire time while in the field.

15. We require primitive firearms and modern firearms hunters using ground blinds to display outside of the blind 400 square inches (2,600 cm²) of hunter orange, which is visible from all sides of the blind. Hunters must wear orange vests and hats as their outermost garments while inside the blind.

16. We allow hunting with slugs, rifle, or pistol ammunition larger than .22 caliber rimfire only during the quota hunts for deer. We prohibit use of buckshot when hunting. Persons possessing, transporting, or carrying firearms on national wildlife refuges must comply with all provisions of State and local law. Persons may only use (discharge) firearms in accordance with refuge regulations (see § 27.42 and specific refuge regulations in § 32).

17. We require that hunters tag all deer and turkey per State tagging requirements.

D. Sport Fishing. We allow fishing on designated areas of the refuge in accordance with State regulations subject to the following conditions:

1. We allow anglers to enter the refuge no earlier than 4 a.m., and they must depart no later than 2 hours after legal sunset.

2. In areas open to fishing, State creel limits and regulations apply.

3. We prohibit the taking of turtle (see § 27.21 of this chapter).

4. Conditions A6, A7, and A9 apply.

5. We prohibit fish cleaning within 150 feet (45 m) of parking areas, maintained roads, and trails.

Upper Ouachita National Wildlife Refuge

A. Migratory Game Bird Hunting. We allow hunting of waterfowl (duck, goose, coot, gallinule, rail, snipe), woodcock, and dove on designated areas of the refuge as indicated in the refuge brochure in accordance with State regulations subject to the following conditions:

1. Hunters must possess and carry a signed refuge permit (signed refuge brochure).

2. We allow waterfowl hunting on designated areas as indicated in the refuge brochure.

3. We allow woodcock hunting on designated areas as indicated in the refuge brochure.

4. We allow dove hunting during the first 3 days of the State season on designated areas as indicated in the refuge brochure.

* * * * *

11. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

* * * * *

B. Upland Game Hunting. We allow hunting of quail, squirrel, rabbit, raccoon, beaver, coyote, and opossum on designated areas of the refuge as indicated in the refuge brochure in accordance with State regulations subject to the following conditions:

* * * * *

2. We allow hunting in designated areas only.

3. We prohibit taking small game with firearms larger than .22 caliber rimfire, shotgun slugs, and buckshot.

* * * * *

C. Big Game Hunting. * * *

1. Conditions A1, A8, A9, A11, A12 (to hunt big game), and B7 apply.

* * * * *

3. We allow deer and feral hog hunting on designated area as indicated in the refuge brochure.

* * * * *

8. An adult at least age 21 must supervise youth hunters age 16 and under during all hunts. One adult may supervise two youths during small game and migratory bird hunts but only one youth during big game hunts. Youth must remain within normal voice contact of the adult who is supervising them. Parents or adult guardians are responsible for ensuring that hunters under age 16 do not engage in conduct that would constitute a violation of refuge regulations.

* * * * *

D. Sport Fishing. We allow fishing on designated areas of the refuge as indicated in the refuge brochure in accordance with State regulations subject to the following conditions:

* * * * *

4. You must tend trotlines and yo-yos daily. You must attach ends of trotlines by a length of cotton line that extends into the water.

* * * * *

7. We prohibit launching boats from areas other than designated boat launches within the Mollicy unit.

8. We prohibit the possession of juglines, limblines, and snag hooks.

14. Amend § 32.39 Maryland by:

a. Revising Blackwater National Wildlife Refuge;

b. Revising paragraphs C. and D. of Eastern Neck National Wildlife Refuge; and

c. Revising paragraphs A.9. through A.12., B., C.1., C.2., C.4. through C.6., C.8., C.9., C.13. through C.15., and D. of Patuxent Research Refuge to read as follows:

§ 32.39 Maryland.

* * * * *

Blackwater National Wildlife Refuge

A. Migratory Game Bird Hunting. We allow hunting of goose and duck on designated areas of the refuge in accordance with State regulations subject to the following conditions:

1. We require you to submit a Waterfowl Lottery Application (FWS Form 3-2355) to be selected to hunt waterfowl. If you are selected, we require you to then obtain a permit (name/address/signature required). Hunting brochures containing hunting application procedures, seasons, bag limits, methods of hunting, maps depicting areas open to hunting, and the terms and conditions under which we issue hunting permits are available at the refuge administration office and on the refuge's Web site.

2. We require you to abide by the terms and conditions of the refuge permit and brochure. Hunters may have their permits revoked if they are found to be in violation of § 32.2 or other Federal and State laws.

3. We allow only hunters possessing a permit issued by the refuge to hunt during designated days.

4. Except in accordance with condition A5, we require hunters to possess a valid Maryland hunting license and all required stamps, a valid government-issued photo identification, and a valid hunting permit issued by the refuge at all times while on refuge property.

5. We require hunters accompanying a permit holder as part of a hunt party to possess a valid Maryland hunting license and all required stamps, and a valid government-issued photo identification at all times while on refuge property.

6. You must remove all hunting blind materials and decoys (see § 27.93 of this chapter) at the end of each hunting day.

7. We allow hunters to access hunting areas only by boat, unless otherwise authorized by the refuge manager.

8. We prohibit the use of all-terrain vehicles (ATVs) or amphibious vehicles of any type.

9. We prohibit the use of air boats on the refuge.

10. We encourage hunters to use trained dogs to retrieve game on designated waterfowl hunt days at designated blind areas. We require that hunters confine dogs not engaged in retrieving waterfowl to a vehicle, boat, kennel, blind area, or other container.

11. We require all hunters to remain within 50 yards (55 m) of the designated hunt site while hunting.

B. Upland Game Hunting. [Reserved]

C. Big Game Hunting. We allow the hunting of white-tailed and sika deer and turkey on designated areas of the refuge in accordance with State regulations subject to the following conditions:

1. We require you to submit a Big/Upland Game Hunt Application (FWS Form 3-2356) and/or a Quota Deer Hunt Application (FWS Form 3-2354) to be selected to hunt on the refuge. If you are selected, we require you to then obtain a permit (name/address/signature required). Hunting brochures containing hunting application procedures, seasons, bag limits, methods of hunting, maps depicting areas open to hunting, and the terms and conditions under which we issue hunting permits are available at the refuge administration office and on the refuge's Web Site.

2. We allow only hunters possessing a permit issued by the refuge to hunt/scout during designated days.

3. We require hunters to possess a valid Maryland hunting license and all required stamps, a valid government-issued photo identification, and a valid hunting permit issued by the refuge at all times while on refuge property.

4. We require hunters to notify a refuge representative if they need to enter a closed area to retrieve game.

5. We prohibit the use of rimfire or centerfire rifles and handguns for hunting.

6. We prohibit the use of boats, ATVs, motorized off-road vehicles, and amphibious vehicles to access the refuge unless authorized by the refuge manager for use by disabled hunters.

7. We require hunters participating during muzzleloader and shotgun hunts to wear a minimum of 400 square inches (2,600 cm²) of solid-colored-daylight-fluorescent-orange clothing on their head, chest, and back. We require hunters to wear an orange hat at all times.

8. We require the use of a temporary tree stand that elevates you a minimum of 8 feet (240 cm) above the ground for hunting in designated areas.

9. We prohibit screw-in steps, spikes, or other objects that may damage trees (see § 32.2(i)).

10. We prohibit hunting from a permanently constructed tree stand or blind.

11. We require you to remove all stands and blinds within 24 hours of legal sunset of the final hunting day of the season. We are not responsible for damage, theft, or use of the stand by other hunters (see § 27.93 of this chapter).

12. We prohibit organized deer drives, unless otherwise authorized by the refuge manager.

13. Hunters may use marking devices, including flagging or tape, but they must remove them within 24 hours of legal sunset of the final hunting day of the season (see § 27.93 of this chapter).

14. We require all disabled hunters to provide certification of their disability.

15. Disabled persons may have an assistant during the hunt on designated areas of the refuge. Persons assisting disabled hunters must be at least age 18 and obey all refuge, State, and Federal laws and regulations. Persons assisting disabled hunters must not be afield with a hunting firearm, bow, or other hunting device.

16. Hunters may use bicycles to access hunt areas on designated hunt/scout days. We prohibit hunters taking bicycles off of designated roads and trails while on refuge lands.

17. We require that you abide by the terms and conditions of the refuge permit and brochure. Hunters may have their permits revoked if we find them to be in violation of § 32.2 or other Federal and State laws.

D. Sport Fishing. We allow fishing and crabbing on designated areas of the refuge in accordance with State regulations subject to the following conditions:

1. We allow fishing and crabbing only from April 1 through September 30 during daylight hours in refuge waters, unless otherwise authorized by the refuge manager.

2. We allow fishing and crabbing from boats and from the Key Wallace roadway (bridge) across the Little Blackwater River, unless otherwise authorized by the refuge manager.

3. We require you to possess a valid Maryland sport fishing license, all required stamps, and a valid, government-issued photo identification while fishing on the refuge. We do not require a refuge permit to fish on the refuge.

4. We require anglers to attend all fish and crab lines.

5. We prohibit boat launching from refuge lands except for canoes/kayaks at the canoe/kayak ramp located near the Blackwater River Bridge on Route 335.

6. We prohibit the use of airboats on refuge waters.

Eastern Neck National Wildlife Refuge

* * * * *

C. Big Game Hunting. We allow hunting of white-tailed deer and turkey on designated areas of the refuge in accordance with State hunting regulations subject to the following conditions:

1. We require hunters to submit a Big Game Hunt Application (FWS Form 3-2356) to be selected to hunt on the refuge. We require you to obtain a permit (name/address/signature required). Hunting brochures containing hunting application procedures, seasons, bag limits, methods of hunting, maps depicting areas open to hunting, and the terms and conditions under which we issue hunting permits are available at the refuge administration office and on the refuge's Web site.

2. We allow only hunters possessing a permit issued by the refuge to hunt/scout during designated days.

3. We require hunters to possess a valid Maryland hunting license and all required stamps, a valid government-issued photo identification, and a valid hunting permit issued by the refuge at all times while on refuge property.

4. We require hunters to notify a refuge representative if they need to enter a closed area to retrieve game.

5. We prohibit the use of rimfire or centerfire rifles and handguns for hunting.

6. We prohibit the use of boats, ATVs, motorized off-road vehicles, and amphibious vehicles to access the refuge, unless authorized by the refuge manager for use by disabled hunters.

7. We require a minimum of 400 square inches (2,600 cm²) of solid-colored-daylight-fluorescent-orange clothing to be worn on the head, chest, and back of all hunters participating during muzzleloader and shotgun hunts. We require you to wear an orange hat at all times.

8. We prohibit screw-in steps, spikes, or other objects that may damage trees (see § 32.2(i)).

9. We prohibit hunting from a permanently constructed tree stand or blind.

10. We require you to remove all stands and blinds within 24 hours of legal sunset of the final hunting day of the season. We are not responsible for damage, theft, or use of the stand by other hunters (see § 27.93 of this chapter).

11. We allow use of marking devices, including flagging or tape, but hunters must remove them within 24 hours of legal sunset of the final hunting day of the season (see § 27.93 of this chapter). We prohibit paint or any other permanent marker to mark trails.

12. We require all disabled hunters to provide certification of their disability.

13. Disabled persons may have an assistant during the hunt on designated areas of the refuge. Persons assisting disabled hunters must be at least age 18 and obey all refuge, State, and Federal laws and regulations. Persons assisting disabled hunters must not be afield with a hunting firearm, bow, or other hunting device.

14. We require that you abide by the terms and conditions of the refuge permit and brochure. Hunters may have their permits revoked if we find them to be in violation of § 32.2 or other Federal and State laws.

15. We allow parking only in designated parking areas.

16. We prohibit hunting in the No Hunting Zones.

D. Sport Fishing. We allow fishing and crabbing in designated areas of the refuge in accordance with State regulations subject to the following conditions:

1. We allow fishing and crabbing from Eastern Neck Island bridge and from the boardwalk adjacent to that bridge.

2. We allow fishing and crabbing at the Ingleside Recreation Area only from April 1 through September 30 during daylight hours.

3. We allow fishing from the Boxes Point and Duck Inn Trails only during daylight hours.

4. We require you to possess a valid Maryland sport fishing license and all required stamps and a valid government-issued photo identification while fishing on the refuge. We do not require a refuge permit to fish on the refuge.

Patuxent Research Refuge

A. Migratory Game Bird Hunting. * * *

* * * * *

9. We prohibit hunting on or across any road (paved, gravel, dirt, opened, and/or closed), within 50 yards (45 m) of a road (paved, gravel, dirt, opened and/or closed), within 150 yards (135 m) of any building or shed, and within 25 yards (22.5 m) from any designated “No Hunting” or “Safety Zone” areas, except:

i. You may hunt only from the road 50 yards (135 m) beyond the gate at Blue Heron Pond.

ii. You may hunt from the road 50 yards (135 m) beyond the barricade at Wood Duck Pond.

iii. You may hunt from any refuge permanent photo/hunt blind.

iv. You may hunt from the roadside, at designated areas, if you possess a Maryland State “Hunt from a Vehicle Permit.”

v. You may hunt waterfowl from the roadside at the five designated hunting blind sites at Lake Allen.

vi. You may hunt waterfowl from the roadside in the designated posted portion, 77 yards (69 m), of Wildlife Loop at Bailey Marsh.

10. You must wear fluorescent orange in accordance with State regulations subject to the additional following conditions:

i. Your fluorescent orange must be visible 360 degrees while carrying-in and carrying-out equipment (e.g., portable blinds).

ii. “Jump shooters” must wear at least a solid-colored, fluorescent-hunter-orange cap while hunting. If you stop and stand, you may remove it.

11. We allow the taking of only Canada goose during the early and late resident Canada goose seasons. Resident Canada goose hunters may hunt on Range 1 and Lake Allen in Area “D” during the early resident season Monday through Thursday, from ½ hour before legal sunrise to 12 p.m. (noon). We will open areas D, E, F, and G Monday through Thursday from ½ hour before legal sunrise until 8 a.m. On Fridays and Saturdays, we will open Areas D, E, F, and G all day.

12. We prohibit goose, duck, and dove hunting during the early deer muzzleloader season, youth deer firearms hunts, and deer firearms seasons. However, Blue Heron Pond, Lake Allen, and Area Z will remain open for ducks during the early muzzleloader season and for Junior Duck hunters during the Junior Waterfowl hunt day. Hunters may harvest these species during the late muzzleloader season.

* * * * *

B. Upland Game Hunting. We allow hunting of turkey, gray squirrel, eastern cottontail rabbit, and woodchuck on the North Tract and turkey on the Central Tract in accordance with State regulations subject to the following conditions:

1. Conditions A1 through A9 apply.

2. Hunters may possess only approved nontoxic shot while in the field (see § 32.2(k)).

3. We prohibit hunting of upland game during the deer muzzleloader and firearms seasons, including the youth deer firearms hunts.

4. Hunters must wear fluorescent orange in accordance with State regulations.

5. We restrict spring turkey hunters to shotguns loaded with #4, #5, or #6 nontoxic shot, crossbows, or vertical bows.

6. We select turkey hunters by a computerized lottery for youth, disabled, mobility impaired, and general public hunts. We require documentation for disabled and mobility-impaired hunters.

7. We require turkey hunters to show proof they have attended a turkey clinic sponsored by the National Turkey Federation.

8. We require turkey hunters to pattern their weapons prior to hunting. Contact refuge headquarters for more information.

9. We prohibit the use of dogs to hunt upland game.

C. Big Game Hunting. * * *

1. Conditions A1 through A9 apply.

2. Prior to issuing hunting permit, we require you to pass a yearly proficiency test with each weapon used. See A1 for issuing information.

* * * * *

4. We require hunters to secure longbows, recurve bows, compound bows, and crossbows, with weapons inaccessible, and/or cased, with no arrows nocked, while inside the vehicle.

5. We prohibit possession or use of buckshot for hunting.

6. You must wear fluorescent orange in accordance with State regulations subject to the additional following conditions:

i. Your fluorescent orange must be visible 360 degrees while carrying-in and carrying-out equipment (e.g., portable tree stands).

ii. We require bow hunters to wear 250 square inches (1,625 cm²) of solid-fluorescent orange when walking from their vehicle to their hunting location and while tracking.

iii. We require bow hunters hunting during the North Tract youth deer firearms hunts to wear 250 square inches of solid-fluorescent orange.

* * * * *

8. All deer harvested will have a jaw extracted at the hunter check station before leaving the refuge.

9. We allow the use of portable tree stands with full-body safety harnesses on the refuge. Hunters must use portable tree stands and at minimum of 10 feet (3 m) off the ground at Schafer Farm, Central Tract, and South Tract. Hunters must remove all tree stands when not in use (see § 27.93 of this chapter). We will make limited accommodations for disabled hunters for Central Tract lottery hunts. We allow ground blinds only at North Tract.

* * * * *

13. North Tract: We allow shotgun, muzzleloader, and bow hunting in accordance with the following regulations: Conditions C1 through C12 apply.

14. Central Tract:

i. Headquarters/MR Lottery Hunt: We allow only shotgun and bow hunting in accordance with the following regulations:

a. Conditions C1, C2, and C4 through C12 apply.

b. We select Central Tract shotgun and bow hunters by a computerized lottery. We will assign you a specific hunting location.

ii. Schafer Farm Hunt: We allow bow hunting only in accordance with the following regulations: Conditions C1, C2, and C4 through C12 apply.

15. South Tract: We allow shotgun, muzzleloader, and bow hunting in accordance with the following regulations:

i. Conditions C1 through C12 apply.

ii. You must access South Tract hunting areas A, B, and C off Springfield Road through the Old Beltsville Airport; and South Tract hunting area D from MD Rt. 197 through Gate #4. You must park in designated parking areas.

iii. We prohibit driving or parking along the entrance and exit roads to and from the National Wildlife Visitor Center, and parking in the visitor center parking lot when checked in to hunt any area.

D. Sport Fishing. We allow sport fishing in accordance with State hook and line fishing regulations subject to the following conditions:

1. We require all anglers, age 16 and older, to obtain a free Fishing Application (FWS Form 3-2358) as well as a Maryland State fishing license, which they must carry with them at all times while fishing.

2. We require anglers age 17 or younger to have a parent or guardian cosign to receive a fishing permit.

3. An adult age 21 or older possessing a fishing permit must accompany anglers age 17 or younger. They must maintain visual contact with each other within a 50-yard (45-m) distance.

4. We publish the Refuge Fishing Regulations, which include the daily and yearly creel limits and fishing dates, in early January. We provide a copy of the regulations with your free refuge fishing permit, and we require you to know the specific fishing regulations.

5. Anglers must carry a copy of their refuge fishing permit and their Maryland State fishing license in the field.

6. Anglers must display a fishing pass (received once they fill out the Fishing Application) in their vehicle windshield.

7. We prohibit the use and/or possession of lead sinkers.

8. We prohibit the use or possession of alcoholic beverages (see § 27.81 of this chapter).

9. We prohibit the following activities: Swimming, sunbathing, littering, camping, campfires, picnicking, and disturbance to or removal of vegetation or wildlife (see § 27.51 of this chapter).

10. We require anglers to keep all pets on a leash no longer than 10 feet (3 m) (see § 26.21(b) of this chapter). We prohibit pets from being in any refuge waterways.

11. Anglers may take three youths, age 15 or younger, to fish under the adult's permit and in the presence and control of the adult. They must maintain visual contact with each other within a 50-yard (45-m) distance.

12. Organized groups need a Fishing Application (FWS Form 3-2358). The group leader must carry a copy of the application/pass and stay with the group at all times while fishing.

13. We allow the use of earthworms as the only source of live bait. We prohibit bloodworms, fish, or other animals or parts of animals to be used as bait.

14. We prohibit harvesting bait on the refuge.

15. Anglers must attend all fishing lines.

16. Anglers may take the following species: Chain pickerel, catfish, golden shiner, eel, and sunfish (includes bluegill, black crappie, warmouth, and pumpkinseed). Maryland State daily harvest limits apply unless otherwise noted.

i. All bluegill taken must be 6 inches (15 cm) or larger.

ii. We allow take of one chain pickerel per day.

iii. Anglers must release all bass that they catch.

17. We prohibit fishing from all bridges except the downstream side of Bailey Bridge.

18. North Tract: We allow sport fishing in accordance with the following regulations:

i. Conditions D1 through D17 apply.\

ii. We allow sport fishing year-round at Lake Allen, Rieve's Pond, New Marsh, Cattail Pond, and Little Patuxent River (downstream only from Bailey's Bridge) except Mondays through Saturdays from September 1 through January 31 during the hunting season. We also reserve the right to close Lake Allen at any time.

iii. We allow wading, for fishing purposes only, downstream from Bailey Bridge on the Little Patuxent River. We prohibit wading in all other bodies of water.

iv. We prohibit the use of any type of watercraft.

19. South Tract: We allow sport fishing in accordance with the following regulations:

i. Conditions D1 through D16 apply.

ii. Anglers must park their vehicles in the parking lot located behind Refuge Gate #8 off MD Rt. 197. Anglers may not access Cash Lake from the National Wildlife Visitor Center.

iii. We allow sport fishing at the pier and designated shorelines at Cash Lake. See Refuge Fishing Regulations for areas opened to fishing. We post other areas with, “No fishing beyond this point” signs.

iv. Anglers may fish from mid-June until mid-October, as posted.

v. We allow fishing between the hours of 6 a.m. and 8 p.m. June through August and between 7 a.m. and 6:30 p.m. in September and October.

vi. We prohibit the use of the public trails near Cash Lake after 4:30 p.m.

vii. Anglers may use watercraft for fishing in accordance with Maryland State boating laws subject to the additional following conditions:

a. You may use car-top boats that are 14 feet (4.2m) or less, canoes, kayaks, and inflatable boats.

b. You may use only electric motors that are 4 hp or less.

c. We prohibit sailboats.

d. Maryland State law requires personal flotation devices in boats.

viii. We prohibit boat trailers except by individuals possessing a refuge handicapped permit.

15. Amend § 32.41 Michigan by:

a. Revising paragraph C. of Harbor Island National Wildlife Refuge;

b. Adding Michigan Wetland Management District in alphabetical order; and

c. Revising paragraph A., adding paragraph B.3., and revising paragraphs C., and D. of Seney National Wildlife Refuge.

The revisions and additions read as follows:

§ 32.41 Michigan.

* * * * *

Harbor Island National Wildlife Refuge

* * * * *

C. Big Game Hunting. We allow hunting of white-tailed deer and black bear in accordance with State regulations.

* * * * *

Michigan Wetland Management District

A. Migratory Game Bird Hunting. We allow hunting of migratory game birds throughout the district in accordance with State regulations subject to the following conditions:

1. We prohibit the use of motorized boats, motorized vehicles, ATVs, horses, and bicycles except in designated parking areas.

2. Hunters must remove boats, decoys, blinds, and blind materials at the end of each day.

3. We allow the use of hunting dogs, provided the dog is under the immediate control of the hunter at all times during the State-approved hunting season.

4. We prohibit camping.

B. Upland Game Hunting. We allow hunting of upland game in accordance with State regulations subject to the following conditions: Conditions A1, A3, and A4 apply.

C. Big Game Hunting. We allow the hunting of big game throughout the district in accordance with State regulations subject to the following conditions: Conditions A1 and A4 apply.

D. Sport Fishing. We allow fishing throughout the district in accordance with State regulations subject to the following conditions: Conditions A1 and A4 apply.

Seney National Wildlife Refuge

A. Migratory Game Bird Hunting. We allow hunting of woodcock and snipe on designated areas of the refuge in accordance with State regulations subject to the following conditions:

1. Shotgun hunters may possess only approved nontoxic shot while in the field (see § 32.2(k)).

2. We prohibit the use of ATVs and snowmobiles.

3. We prohibit baiting and the possession of bait while on the refuge (see § 32.2(h)).

4. We allow the use of hunting dogs, provided the dog is under the immediate control of the hunter at all times during the State-approved hunting season (see § 26.21(b) of this chapter).

B. Upland Game Hunting. * * *

* * * * *

3. Conditions A1 through A4 apply.

C. Big Game Hunting. We allow the hunting of deer and bear on designated areas of the refuge in accordance with State regulations subject to the following conditions:

1. Conditions A2 and A3 apply.

2. We prohibit the use of dogs while deer or bear hunting.

D. Sport Fishing. We allow fishing on designated areas of the refuge subject to the following conditions:

1. We prohibit the use of fishing weights or lures containing lead.

2. We allow ice fishing from January 1 through the end of February.

3. Anglers must remove ice fishing shelters and all other personal property from the refuge each day (see § 27.93 of this chapter).

4. Condition A2 applies.

5. We allow fishing on designated refuge pools and the Creighton, Driggs, and Manistique Rivers from May 15 through September 30.

6. We prohibit boats and flotation devices on the refuge pools.

7. We prohibit motorized boats on the Creighton and Driggs Rivers.

8. We allow fishing only during daylight hours.

* * * * *

16. Amend § 32.42 Minnesota by:

a. Revising the introductory text of paragraph A., revising paragraph B., and revising the introductory text of paragraphs C. and D. of Fergus Falls Wetland Management District; and

b. Revising the introductory text of paragraph A., revising paragraphs A.1., A.3., and A.6., removing paragraph A.7., revising paragraphs B. and C.1. through C.3., removing paragraph C.4., redesignating paragraphs C.5. through C.7. as paragraphs C.4. through C.6., and revising newly redesignated paragraph C.6. of Minnesota Valley National Wildlife Refuge.

The revisions read as follows:

§ 32.42 Minnesota.

* * * * *

Fergus Falls Wetland Management District

A. Migratory Game Bird Hunting. We allow hunting of migratory game birds throughout the district (except that we allow no hunting on the Townsend, Mavis, and Gilmore Waterfowl Production Areas [WPA] and the building and administrative area of Knollwood WPA in Otter Tail County, and Larson WPA in Douglas County) in accordance with State regulations subject to the following conditions:

* * * * *

B. Upland Game Hunting. We allow upland game hunting throughout the district (except that we prohibit hunting on the Townsend, Mavis, and Gilmore Waterfowl Production Areas [WPA] and the building and administrative area of Knollwood WPA in Otter Tail County, and Larson WPA in Douglas County) in accordance with State regulations subject to the following conditions: Conditions A3 and A6 apply.

C. Big Game Hunting. We allow big game hunting throughout the district (except that we prohibit hunting on the Townsend, Mavis, and Gilmore Waterfowl Production Areas [WPA] and the building and administrative area of Knollwood WPA in Otter Tail County, and Larson WPA in Douglas County) in accordance with State regulations subject to the following conditions:

* * * * *

D. Sport Fishing. We allow sport fishing throughout the district (except that we prohibit fishing on the Townsend, Mavis, and Gilmore Waterfowl Production Areas [WPA] and the building and administrative area of Knollwood WPA in Otter Tail County, and Larson WPA in Douglas County) in accordance with State regulations subject to the following conditions:

* * * * *

Minnesota Valley National Wildlife Refuge

A. Migratory Game Bird Hunting. We allow the hunting of goose, duck, merganser, moorhen, coot, rail, woodcock, common snipe, and mourning dove on designated areas of the refuge in accordance with State regulations subject to the following conditions:

1. We require refuge-specific authorization for special hunts.

* * * * *

3. We prohibit hunting on, from, across, or within 100 feet (30 m) of any service road, parking area, or designated trail.

* * * * *

6. We prohibit entry into the refuge earlier than 2 hours before legal shooting time and require hunters to leave the refuge no later than 1 hour after legal shooting time.

B. Upland Game Hunting. We allow hunting of ruffed grouse, gray partridge, ring-necked pheasant, gray and fox squirrel, snowshoe hare, cottontail rabbit, jackrabbit, and wild turkey on designated areas of the refuge in accordance with State regulations subject to the following conditions:

1. Conditions A1 and A3 through A6 apply.

2. Hunters may use only shotguns and bows and arrows.

3. When hunting we prohibit the use of single projectile ammunition.

4. We allow turkey hunters to use shot containing lead.

C. Big Game Hunting. * * *

1. Conditions A1, A3, and A6 apply.

2. Hunters must remove all personal property, which include portable stands, climbing sticks, decoys, and blinds, brought onto the refuge each day (see § 27.93 of this chapter).

3. We prohibit the use of handguns for hunting.

* * * * *

6. Condition A6 applies.

* * * * *

17. Amend § 32.43 Mississippi by:

a. Adding paragraph B.8., revising the introductory text of paragraph C., and revising paragraphs C.1., C.3., C.5., and C.8. of Hillside National Wildlife Refuge;

b. Adding paragraph B.15., revising the introductory text of paragraph C., and revising paragraphs C.1., C.3., C.5., and C.8. of Holt Collier National Wildlife Refuge;

c. Adding paragraph B.7., revising the introductory text of paragraph C., and revising paragraphs C.1., C.4., and C.6. of Mathews Brake National Wildlife Refuge;

d. Removing paragraph B.5., redesignating paragraphs B.6. and B.7. as paragraphs B.5. and B.6., adding new paragraph B.7., revising the introductory text of paragraph C., and revising paragraphs C.1., C.3., C.8., and D.2. of Morgan Brake National Wildlife Refuge;

e. Revising paragraphs A.1., A.5., A.8., B.4., B.10., C.2., and C.3., and adding paragraphs C.9. and D.9. of Noxubee National Wildlife Refuge;

f. Adding paragraph B.8., revising the introductory text of paragraph C., and revising paragraphs C.1., C.5., C.7., and C.10. of Panther Swamp National Wildlife Refuge;

g. Revising St. Catherine Creek National Wildlife Refuge; and

h. Revising paragraph A.8., adding paragraph B.9., revising paragraph C.1., removing paragraph C.3., redesignating paragraphs C.4. through C.13. as paragraphs C.3. through C.12., and revising newly redesignated paragraphs C.6. and C.9. of Yazoo National Wildlife Refuge.

The revisions and additions read as follows:

§ 32.43 Mississippi.

* * * * *

Hillside National Wildlife Refuge

* * * * *

B. Upland Game Hunting. * * *

* * * * *

8. We prohibit hunting over or the placement of bait (see § 32.2(h)). Baiting means the direct or indirect placing, exposing, depositing, or scattering of any salt, grain, powder, liquid or other feed substance to attract game.

C. Big Game Hunting. We allow hunting of white-tailed deer, turkey, and feral hog on designated areas of the refuge in accordance with State regulations subject to the following conditions:

1. Conditions A1 through A10, B5, and B8 apply.

* * * * *

3. We prohibit organized drives for deer and feral hog.

* * * * *

5. We prohibit hunting or shooting into a 100-foot (30-m) zone along either side of pipelines, power line rights-of-way, designated roads, trails, or around parking lots (see refuge brochure map). We consider you to be hunting if you occupy a stand or a blind, have a loaded hunting firearm, or have an arrow nocked in a bow.

* * * * *

8. During designated muzzleloader hunts, we allow archery equipment and muzzleloaders loaded with a single ball. While hunting, we prohibit breech-loading firearms of any type.

* * * * *

Holt Collier National Wildlife Refuge

* * * * *

B. Upland Game Hunting. * * *

* * * * *

15. We prohibit hunting over or the placement of bait (see § 32.2(h)). Baiting means the direct or indirect placing, exposing, depositing, or scattering of any salt, grain, powder, liquid, or other feed substance to attract game.

C. Big Game Hunting. We allow hunting of white-tailed deer and feral hog on designated areas of the refuge in accordance with State regulations subject to the following conditions:

1. Conditions B1 through B7, B9, and B13 through B15 apply.

* * * * *

3. We prohibit organized drives for deer and feral hog.

* * * * *

5. We prohibit hunting or shooting into a 100-foot (30-m) zone along either side of pipelines, power line rights-of-way, designated roads, trails, or around parking lots (see refuge brochure map). We consider it hunting if you occupy a stand or blind, have a loaded hunting firearm, or have an arrow nocked in a bow.

* * * * *

8. During designated muzzleloader hunts, we allow archery equipment and muzzleloaders loaded with a single ball. While hunting, we prohibit breech-loading firearms of any type.

* * * * *

Mathews Brake National Wildlife Refuge

* * * * *

B. Upland Game Hunting. * * *

* * * * *

7. We prohibit hunting over or the placement of bait (see § 32.2(h)). Baiting means the direct or indirect placing, exposing, depositing, or scattering of any salt, grain, powder, liquid, or other feed substance to attract game.

C. Big Game Hunting. We allow hunting of white-tailed deer and feral hog on designated areas of the refuge in accordance with State regulations subject to the following conditions:

1. Conditions A1 through A9, A15, and B5 through B7 apply.

* * * * *

4. We prohibit organized drives for deer and feral hog.

* * * * *

6. We prohibit hunting or shooting into a 100-foot (30-m) zone along either side of pipelines, power line rights-of-way, designated roads, trails, or around parking lots (see refuge brochure map). We consider it hunting if you occupy a stand or blind, have a loaded hunting firearm, or have an arrow nocked in a bow.

* * * * *

Morgan Brake National Wildlife Refuge

* * * * *

B. Upland Game Hunting. * * *

* * * * *

7. We prohibit hunting over or the placement of bait (see § 32.2(h)). Baiting means the direct or indirect placing, exposing, depositing, or scattering of any salt, grain, powder, liquid or other feed substance to attract game.

C. Big Game Hunting. We allow hunting of white-tailed deer and feral hog on designated areas of the refuge in accordance with State regulations subject to the following conditions:

1. Conditions A1 through A7, A9, A10, and B5 through B7 apply.

* * * * *

3. We prohibit organized drives for deer and feral hog.

* * * * *

8. During designated muzzleloader hunts, we allow archery equipment and muzzleloaders loaded with a single ball. While hunting, we prohibit breech-loading firearms of any type.

* * * * *

D. Sport Fishing. * * *

* * * * *

2. From November 16 to February 28, we allow fishing in refuge waters north of Providence Road except Providence Ponds, which we close from the first day of waterfowl season until March 1.

* * * * *

Noxubee National Wildlife Refuge

A. Migratory Game Bird Hunting. * * *

1. We require waterfowl hunters to sign and carry the refuge brochure signifying that they have read and understood the rules of the hunt. The brochure must be in the hunter's possession at all times while hunting on the refuge. We also conduct a waterfowl drawing. There is a $15 fee per submission (one submission per individual), and we ask prospective hunters to submit their name and address for the drawing. We will send letters to those hunters selected and deposit those hunters' money orders or checks. The drawn name will be on a list and checked off at the refuge the morning of the hunt. We allow only two companions to accompany each selected hunter. If an individual is not drawn, we will return the $15 entry fee to the unsuccessful applicant.

* * * * *

5. All youth hunters age 15 and younger must remain within sight and normal voice contact of an adult age 21 or older. One adult may supervise not more than two youth hunters.

* * * * *

8. Handguns must be in compliance with State regulations.

* * * * *

B. Upland Game Hunting. * * *

* * * * *

4. The refuge allows the use of dogs for hunting rabbit and squirrel. We allow use of dogs for rabbit hunting only after January 1. We allow dogs for squirrel hunting between December 16 and December 23 and after January 1.

* * * * *

10. We require hunters to sign and carry the refuge brochure signifying they have read and understood the rules of the hunt. This brochure must be in the hunter's possession at all times while hunting on the refuge.

* * * * *

C. Big Game Hunting. * * *

* * * * *

2. We identify hunts and hunt dates in the refuge brochure/permit, which is available at the refuge headquarters.

3. We require hunters to sign and carry the refuge brochure signifying they have read and understood the rules of the hunt. This brochure must be in the hunter's possession at all times while hunting on the refuge. We also charge a $15 fee to hunt white-tailed deer. Hunters must provide their name either by mail or in person at the refuge, and we will issue a numbered permit containing tags. The hunter must sign each tag and must attach one tag to game at the time of harvest.

* * * * *

9. We prohibit hanging and/or cleaning deer within the refuge's picnic area, boat ramp, parking lots, and other public use areas.

D. Sport Fishing. * * *

* * * * *

9. We require anglers to obtain a refuge fishing permit brochure. The angler must sign this permit and have it in their possession at all times while fishing on the refuge.

Panther Swamp National Wildlife Refuge

* * * * *

B. Upland Game Hunting. * * *

* * * * *

8. We prohibit hunting over or the placement of bait (see § 32.2(h)). Baiting means the direct or indirect placing, exposing, depositing, or scattering of any salt, grain, powder, liquid, or other feed substance to attract game.

C. Big Game Hunting. We allow hunting of white-tailed deer, turkey, and feral hog on designated areas of the refuge in accordance with State regulations subject to the following conditions:

1. Conditions A1 through A7, A9, A10, and B6 through B8 apply.

* * * * *

5. We prohibit organized drives for deer or feral hog.

* * * * *

7. We prohibit hunting or shooting into a 100-foot (30-m) zone along either side of pipelines, power line rights-of-way, designated roads, trails, or around parking lots (see refuge brochure map). We consider it hunting if you occupy a stand or blind, have a loaded hunting firearm, or have an arrow nocked in a bow.

* * * * *

10. During designated muzzleloader hunts, we allow archery equipment and muzzleloaders loaded with a single ball. While hunting, we prohibit breech-loading firearms of any type.

* * * * *

St. Catherine Creek National Wildlife Refuge

A. Migratory Game Bird Hunting. We allow hunting of duck, goose, and coot during the State season in accordance with State regulations subject to the following conditions:

1. We allow hunting in Butler Lake, Salt Lake, and Gillard Lake from ½ hour before legal sunrise until 12 p.m. (noon) on Tuesdays, Thursdays, Saturdays, and Sundays.

2. If you are a hunter age 16 or older, you must possess and carry a valid, signed refuge Public Use Permit (only signature required) certifying that you understand and will comply with all regulations.

3. The refuge will close for hunting when flooding restricts safe access.

4. We restrict access to Butler Lake for waterfowl hunting only to Butler Lake Road.

5. Hunters must remove harvested waterfowl, temporary blinds and decoys (see § 27.93 of this chapter) used for duck hunting by 1 p.m. daily.

6. You may possess only approved nontoxic shot while hunting on the refuge (§ 32.2(k)).

7. You must use portable blinds.

8. Refuge users may enter the refuge no earlier than 4 a.m. and must exit the refuge by 2 hours after legal sunset.

9. All persons in all underway boats must wear U.S. Coast Guard-approved personal flotation devices.

10. You must hand-launch boats except at designated boat ramps, where you may trailer-launch them.

11. We allow all-terrain vehicles (ATVs) and utility-type vehicles (UTVs) as per State WMA regulations and size specifications on designated trails (see § 27.31 of this chapter) from September 15 through the hunting season. An ATV is an off-road vehicle with factory specifications not to exceed the following: Weight 750 pounds (337.5 kg), length 85 inches (212.5 cm), and width 48 inches (120 cm). We restrict ATV tires to those no larger than 25 inches (62.5 cm) x 12 inches (30 cm) with a maximum 1 inch (2.5 cm) lug height and a maximum allowable tire pressure of 7 psi as indicated on the tire by the manufacturer.

12. Hunters must be age 16 or older to operate an ATV on the refuge.

13. State bag limits apply.

14. We prohibit the following acts: Possession of alcohol while hunting (see § 32.2(j)); entering the refuge from private property; hunters entering the refuge from public waterways; overnight parking; parking or hunting within 150 feet (45 m) of any petroleum facility or equipment, or refuge residences and buildings; parking by hunters in refuge headquarters parking lot; and use of handguns for hunting on the refuge.

B. Upland Game Hunting. We allow hunting of squirrel, rabbit, raccoon, opossum, and woodcock in designated areas of the refuge in accordance with State regulations subject to the following conditions:

1. We only allow shotguns, .22 caliber rimfire rifles or smaller, and muzzleloading rifles under .38 caliber shooting patched round balls, except for raccoon hunting (see condition 3iv below). We prohibit the possession of .22 caliber magnum rifles, slugs, buckshot, or rifle ammunition larger than .22 rimfire.

2. You must wear a hunter-orange hat and upper garment when hunting in open fields or reforested areas.

3. We allow raccoon hunting only during the month of February from legal sunset to legal sunrise with the following conditions:

i. We require dogs.

ii. We prohibit hunting along/from Carthage-Linwood Road.

iii. We prohibit the use of boats and ATVs.

iv. You may use only .22 caliber rimfire rifles for hunting.

4. You may take beaver, nutria, coyote, and hog incidental to the hunt.

5. Conditions A2 and A6 through A14 apply.

6. We prohibit the following acts: Target practice; marking trails with tape, paper, paint, or any other artificial means; and riding horses or mules.

C. Big Game Hunting. We allow deer and lottery youth turkey hunting in accordance with State regulations subject to the following conditions:

1. We allow only still hunting.

2. Hunters may take only one deer per day. State regulations apply.

3. We require hunters to wear a minimum of 400 square inches (2,600 cm ²) of unbroken hunter orange as the outermost layer of clothing on the chest and back, and in addition, we require a hat or cap of unbroken hunter orange. You must wear the solid-hunter-orange items while in the field.

4. Youth hunters age 15 and under must possess and carry a hunter safety course card or certificate. Each youth hunter must remain within sight and normal voice contact of an adult age 21 or older.

5. We must receive all applications for the limited youth lottery draw turkey hunt by February 28 of each year.

6. Youth (ages 10 to 15) gun deer and waterfowl hunts will coincide with designated State youth hunts each year. Youth deer hunters may use any weapon deemed legal by the State except for buckshot, which we prohibit.

7. We prohibit insertion of metal objects into trees or hunting from trees that contain inserted metal objects (see § 32.2(i)).

8. We prohibit the use or possession of climbing spurs.

9. You must dismantle blinds and tripods, and you must remove stands from the tree each day. You must remove all stands, blinds, and tripods (see § 27.93 of this chapter) from the refuge before February 7 of each year.

10. You must check all deer harvested on the refuge at one of the three self-clearing, mandatory deer check stations.

11. State season bag limits apply.

12. Conditions A2, A6 through A14, B4, and B6 apply.

D. Sport Fishing. We allow fishing during daylight hours only from February 1 until the day prior to the State firearms season opening each year in accordance with State regulations subject to the following conditions:

1. We require a Public Use Permit (only signature required) for all anglers between ages 16 and 65.

2. We prohibit the use of ATVs (see § 27.31(f) of this chapter).

3. On the Sibley Unit, we prohibit motorized boats north of the Ring Levee. Anglers may hand-launch boats in Swamp Lake during nonflood conditions.

4. An adult age 21 or older must supervise youth age 15 and younger who may fish in the Kid's Pond. We prohibit adults from fishing in this pond.

5. We allow bow fishing. Bow anglers must abide by State law.

6. We allow nighttime bow fishing on the refuge but only through a Special Use Permit (FWS Form 3-1383) issued by the refuge manager.

7. We prohibit the following acts: Crawfishing and commercial fishing or possession of trotline equipment including limb lines, nets, traps, yo-yos, or jugs.

8. Conditions A10, A11, and A14 apply.

* * * * *

Yazoo National Wildlife Refuge

A. Migratory Game Bird Hunting. * * *

* * * * *

8. We are open for hunting within specific dates and areas during the State season except during limited draw deer hunts.

* * * * *

B. Upland Game Hunting. * * *

* * * * *

9. We prohibit hunting over or the placement of bait (see § 32.2(h)). Baiting means the direct or indirect placing, exposing, depositing, or scattering of any salt, grain, powder, liquid, or other feed substance to attract game.

C. Big Game Hunting. * * *

1. Conditions A1 through A7, A9, B6, B7, and B9 apply.

* * * * *

6. We prohibit hunting or shooting into a 100-foot (30-m) zone along either side of pipelines, power line rights-of-way, designated roads, trails, or around parking lots (see refuge brochure map). We consider it hunting if you occupy a stand or blind, have a loaded hunting firearm, or have an arrow nocked in a bow.

* * * * *

9. During designated muzzleloader hunts, we allow archery equipment and muzzleloaders loaded with a single ball. While hunting, we prohibit breech-loading firearms of any type.

* * * * *

18. Amend § 32.44 Missouri by:

a. Revising paragraphs C.1., C.2., C.4., and D.2. of Clarence Cannon National Wildlife Refuge;

b. Removing paragraph C.4.iv. and redesignating paragraph C.4.v. as paragraph C.4.iv. of Great River National Wildlife Refuge; and

c. Revising paragraphs A.1. and A.2., adding paragraphs A.6. through A.8., revising paragraph B., revising the introductory text of paragraph C., and revising paragraphs C.1., C.2., C.3., C.5., C.7., and D. of Mingo National Wildlife Refuge.

The revisions and additions read as follows:

§ 32.44 Missouri.

* * * * *

Clarence Cannon National Wildlife Refuge

* * * * *

C. Big Game Hunting. * * *

1. We allow hunting only during the State-designated managed deer hunts.

2. We require hunters to sign in and out of the refuge each day.

* * * * *

4. We allow use of portable stands, but hunters must remove them at the end of each day. If assigned a specific blind location, you may hunt only from that location.

* * * * *

D. Sport Fishing. * * *

* * * * *

2. We allow only boat fishing. We allow bank fishing during managed refuge special events.

* * * * *

Mingo National Wildlife Refuge

A. Migratory Game Bird Hunting. * * *

1. We allow the use of hunting dogs only for waterfowl hunting, provided the dogs are under the immediate control of the hunter at all times (see § 26.21(b) of this chapter).

2. We allow waterfowl hunting from ½ hour before legal sunrise until 1 pm.

* * * * *

6. We require hunters to go through the Missouri Department of Conservation daily draw process at Duck Creek Conservation Area to hunt in Pool 8.

7. We require hunters to read the current refuge hunting brochure that contains a hunting permit (signature only required). We require hunters to sign the permit and carry the signed brochure while hunting.

8. We prohibit the discharging of firearms, including air guns or any other weapons, on the refuge unless you are a hunter with a valid refuge brochure engaged in authorized activities during established seasons.

B. Upland Game Hunting. We allow hunting of squirrel only in the Public Hunting Area of the refuge in accordance with State regulations subject to the following conditions:

1. Conditions A3, A7, and A8 apply.

2. We allow hunter access to the public hunting from 1½ hours before legal shooting time until 1½ hours after legal shooting time.

3. We require that all hunters register at the hunter sign-in stations and complete an Upland Game Hunt Report (FWS Form 3-2362) located at the exit kiosks prior to exiting the refuge.

4. We prohibit the use of dogs for squirrel hunting.

5. We allow squirrel hunting from the State opening day through September 30.

6. We allow upland game hunting only with shotguns and .22 caliber rimfire rifles.

7. We require squirrel hunters to wear a hunter-orange (i.e., blaze or international orange) hat and a hunter-orange shirt, vest, or coat. These hunter-orange clothes need to be plainly visible from all sides while scouting or hunting during the overlapping portion of the squirrel, archery deer, and turkey seasons. Camouflage orange does not satisfy this requirement.

C. Big Game Hunting. We allow big game hunting in designated areas of the refuge in accordance with State regulations subject to the following conditions:

1. Conditions A3, A5, A7, A8, and B2 apply.

2. We require that all hunters register at the hunter sign-in stations and complete the Big Game Harvest Report (FWS Form 3-2359) located at the exit kiosks prior to exiting the refuge.

3. We allow archery hunting for deer and turkey during the fall season.

* * * * *

5. We require archery deer hunters to wear a hunter-orange (i.e., blaze or international orange) hat and a hunter-orange shirt, vest, or coat. These hunter-orange clothes need to be plainly visible from all sides while scouting or hunting during the overlapping portion of the squirrel, archery deer, and turkey seasons. Camouflage orange does not satisfy this requirement.

* * * * *

7. We prohibit the distribution of bait or hunting with the aid of bait, salt, or other ingestible attractant (see § 32.2(h)).

* * * * *

D. Sport Fishing. We allow fishing in designated areas of the refuge in accordance with State “impounded waters” regulations subject to the following conditions:

1. We allow fishing year-round from ½ hour before legal sunrise until ½ hour after legal sunset in Red Mill Pond, Mingo River (south of Ditch 6 Road), Stanley Creek, May Pond, Fox Pond, and Ditches 2, 6, 10, and 11.

2. We allow fishing in moist soil units, Monopoly Marsh, Rockhouse Marsh, and Ditches 3, 4, and 5 only from March 1 through September 30.

3. We allow fishing in May Pond and Fox Pond only with rod and reel or pole and line. Anglers may only take bass greater than 12 inches (30 cm) in length from May Pond.

4. We prohibit the use or possession of gasoline-powered boat motors. We allow the use of electric trolling motors, except that we prohibit all motors within the Wilderness Area.

5. We require the removal of watercraft (see § 27.93 of this chapter) from the refuge at the end of each day's fishing activity.

6. We allow anglers to take nongame fish by nets and seines for personal use only from March 1 through September 30.

7. Anglers must attend trammel and gill nets at all times and plainly label them with the owner's name, address, and phone number.

8. We only allow the use of trotlines, throwlines, limb lines, bank lines, and jug lines from ½ hour before legal sunrise until ½ hour after legal sunset. Anglers must remove all fishing lines (see § 27.93 of this chapter) from the refuge at the end of each day's fishing. Anglers must mark each line with their name, address, and phone number.

9. We allow the take of common snapping turtle and soft-shelled turtle using only pole and line. We require all anglers to immediately release all alligator snapping turtles (see § 27.21 of this chapter).

* * * * *

19. Amend § 32.46 Nebraska by adding paragraph C. of Fort Niobrara National Wildlife Refuge to read as follows:

§ 32.46 Nebraska.

* * * * *

Fort Niobrara National Wildlife Refuge

* * * * *

C. Big Game Hunting. We allow hunting of deer and elk on designated areas of the refuge in accordance with State regulations subject to the following conditions:

1. We require the submission of a Big/Upland Game Hunt Application (FWS Form 3-2356). We require hunters to carry a refuge hunting access permit (hunt application signed by the refuge officer) while hunting. We require hunters to complete a Big Game Harvest Report (FWS Form 3-2359) and return it to the refuge at the conclusion of the hunting season.

2. We allow deer and elk hunting with muzzleloader and archery equipment. We prohibit deer and elk hunting with firearms capable of firing cartridge ammunition.

3. We establish the dates when the refuge is open to hunting access annually. We specify the hunting access dates on the refuge hunting access permit.

4. We allow deer and elk hunting in the area defined as, “Those refuge lands situated north and west of the Niobrara River.” We allow access to this area only from public road right-of-ways, the Niobrara River, or designated refuge parking areas. We prohibit hunting within 200 yards (180 m) of any public use facility.

5. We allow hunter access from 2 hours before legal sunrise until 2 hours after legal sunset. We prohibit overnight parking or camping.

6. We allow horses within the wilderness area. We limit horse use to three groups at a time and no more than five horses per group. We prohibit horses from 2 hours after legal sunset until 2 hours before legal sunrise. We require registration at the refuge headquarters prior to horse use during the hunting season. We limit horse access to the wilderness area via the refuge corrals and buffalo bridge.

7. We allow canoes, kayaks, and float tubes capable of carrying no more than four people on the Niobrara River below Cornell Dam.

8. We prohibit permanent tree stands, nails, screw-in steps, or other items that penetrate the outer bark of a tree. We prohibit tree stands and ground blinds from being left in the same location for more than 7 consecutive days (see § 27.93 of this chapter). We require hunters to clearly mark (readable from the ground), with the hunter's name and date of erection, unattended tree stands and ground blinds.

* * * * *

20. Amend § 32.49 New Jersey by:

a. Revising paragraph A., adding paragraph B., and revising paragraph C. of Cape May National Wildlife Refuge; and

b. Revising Wallkill River National Wildlife Refuge to read as follows:

§ 32.49 New Jersey.

* * * * *

Cape May National Wildlife Refuge

A. Migratory Game Bird Hunting. We allow hunting of waterfowl, coot, moorhen, rail, common snipe, and woodcock on designated areas of the refuge in accordance with State regulations subject to the following conditions:

1. We allow hunting only on those refuge tracts located west of Route 47 in the Delaware Bay Division and on those tracts north of Route 550 in the Great Cedar Swamp Division. We prohibit hunting on the Two Mile Beach Unit.

2. Any time the State hunting regulations specify the requirement that hunters wear orange-colored clothing, you must wear, in a visible manner on head, chest, and back, a minimum of 400 square inches (2,600 cm²) of solid-colored, hunter-orange clothing or material. This must consist of a vest and hat or a jacket and hat. We prohibit blaze-orange camouflage.

3. You must remove all hunting blind materials, boats, and decoys at the end of each hunting day (see § 27.93 of this chapter). We prohibit permanent or pit blinds.

4. The common snipe season on the refuge begins with the start of the State early woodcock south zone season and continues through the end of the State common snipe season.

5. You may possess only approved nontoxic shot in the field while hunting migratory game birds (see § 32.2(k)).

6. We allow the use of retrieving and/or pointing dogs; however, the dogs must be under the hunter's control at all times (see § 26.21(b) of this chapter), and we prohibit groups of three or more dogs per hunter. We prohibit dog training at all times

7. We prohibit hunting on Sunday.

8. We prohibit falconry.

9. We prohibit motorized and nonmotorized vehicles on refuge lands. This includes, but is not limited to, vehicles, all-terrain vehicles, dirt bikes, motorcycles, and bicycles.

10. We prohibit hunting on all areas posted “Area Closed” and all areas marked as closed on the refuge “Hunt Map.”

B. Upland Game Hunting. We allow hunting of rabbit and squirrel on designated areas of the refuge in accordance with State regulations subject to the following conditions:

1. Conditions A1, A2, and A7 through A10 apply.

2. We will allow rabbit and squirrel hunting following the end of the State's Six-Day Firearm Season for white-tailed deer, and it will end at the close of the regular rabbit and squirrel season.

3. We prohibit the use of dogs for hunting rabbit and squirrel. We prohibit dog training at all times.

4. You must remove all hunting stands, blinds, and hunting materials at the end of each hunting day (see § 27.93 of this chapter). We prohibit permanent stands or blinds. We prohibit marking (this includes but is not limited to, the use of flagging, bright eyes, tacks, and paint), cutting, and/or removal of trees or vegetation (see § 27.61 of this chapter).

C. Big Game Hunting. We allow hunting of white-tailed deer and turkey on designated areas of the refuge in accordance with State regulations subject to the following conditions:

1. We allow hunting of white-tailed deer on all areas of the refuge except for the Two Mile Beach Unit, areas posted “Area Closed,” and all areas marked as closed on the refuge “Hunt Map.”

2. We allow turkey hunting only on refuge tracts located north of County Route 550 in the Great Cedar Swamp Division. We prohibit hunting on the Two Mile Beach Unit, areas posted “Area Closed,” and all areas marked as closed on the refuge “Hunt Map.”

3. We prohibit the use of dogs for deer and turkey hunting.

4. Conditions A2 and A7 through A10 apply.

5. We prohibit the marking (this includes but is not limited to, the use of flagging, bright eyes, tacks, and paint), cutting, and/or removal of trees or vegetation (see § 27.61 of this chapter).

6. You must remove all deer hunting stands, blinds, and hunting materials at the end of the State deer hunting season (see § 27.93 of this chapter). We prohibit permanent stands or blinds. You should mark tree stands with owner information (name, address, and phone number).

7. You must remove all turkey hunting stands, blinds, hunting materials, and decoys at the end of each hunting day (see § 27.93 of this chapter).

* * * * *

Wallkill River National Wildlife Refuge

A. Migratory Game Bird Hunting. We allow hunting of migratory birds on designated areas of the refuge in accordance with State of New Jersey regulations and subject to the following conditions:

1. You must submit a Migratory Bird Hunt Application (FWS Form 3-2357) to hunt on the refuge. We require hunters to possess a signed refuge hunt permit (name and address only) at all times while scouting and hunting on the refuge. We charge a fee for all hunters except youth age 16 and younger.

2. We issue one companion permit (no personal information) at no charge to each hunter. We allow companions to observe and/or call but not to shoot a firearm or bow. Companion and hunters must set up in the same location.

3. We provide hunters with hunt maps and parking permits (name only) which they must clearly display in their vehicle. Hunters who park on the refuge must park in identified hunt parking areas.

4. We provide a designated hunting area at 119 Owens Station Road, Vernon, New Jersey. We reserve this property for the exclusive use of those physically challenged individuals who have produced evidence of the NJ Permit to Shoot or Hunt from a Stationary Vehicle and possess a signed, disabled hunter refuge permit.

5. We prohibit the use of all-terrain vehicles (ATVs) on the refuge.

6. We require hunters to wear, in a conspicuous manner, a minimum of 400 square inches (2,600 cm²) of solid-color, hunter-orange clothing or material on the head, chest and back, except when hunting ducks and geese.

7. We prohibit hunters using or erecting permanent or pit blinds.

8. We require hunters to remove all hunting blind material, boats, and decoys from the refuge at the end of each hunting day (see § 27.93 of this chapter).

9. We allow pre-hunt scouting; however, we prohibit the use of dogs during scouting.

10. We limit the number of dogs per hunting party to no more than two dogs.

11. We allow hunters to enter the refuge 2 hours before shooting time, and they must leave no later than 2 hours after the end of shooting time.

12. We prohibit the hunting of crows on the refuge.

B. Upland Game Hunting. [Reserved]

C. Big Game Hunting. We allow hunting of white-tailed deer and wild turkey on designated areas of the refuge in accordance with State of New Jersey regulations and subject to the following conditions:

1. You must submit a Big Game Hunt Application (FWS Form 3-2356) to hunt on the refuge. We require hunters to possess a signed refuge hunt permit (name and address only) at all times while scouting and hunting on the refuge. We charge a fee for all hunters except youth age 16 and younger.

2. Conditions A3 through A5, A9, and A11 apply.

3. We require firearm hunters to wear, in a conspicuous manner, a minimum of 400 square inches (2,600 cm²) of solid-color, hunter-orange clothing or material on the head, chest and back. Bow hunters must meet the same requirements when firearm season is also open. We do not require turkey hunters to wear orange at any time.

4. We require hunters to remove all stands and other hunting material from the refuge at the end of each hunting day (see § 27.93 of this chapter).

5. We allow pre-hunt scouting; however, we prohibit the use of dogs during scouting or while turkey hunting.

6. We allow deer drives only on the last day of each hunt season.

7. We prohibit baiting on refuge lands (see § 32.2(h)).

D. Sport Fishing. We allow fishing in designated sections of the refuge in both New York and New Jersey in accordance with State regulations and subject to the following conditions:

1. We allow fishing in and along the banks of the Wallkill River. We allow shore fishing only in the pond at refuge headquarters and the ponds located at 285 Lake Wallkill Road, Vernon, New Jersey.

2. Anglers may fish from legal sunrise to legal sunset.

3. We require that anglers park in designated parking areas to access the Wallkill River through the refuge.

4. On refuge ponds, you may perform only catch-and-release fishing. We prohibit the use of live bait fish on refuge ponds.

5. We prohibit ice fishing on refuge ponds.

6. We prohibit the taking of reptiles and amphibians.

7. We prohibit the digging or collecting of bait.

8. We prohibit commercial fishing on the refuge.

21. Amend § 32.50 New Mexico by:

a. Revising paragraph C.1. of Bitter Lake National Wildlife Refuge; and

b. Revising the introductory text of paragraph C. and adding paragraphs C.5. through C.16. of Bosque del Apache National Wildlife Refuge.

The revisions and additions read as follows:

§ 32.50 New Mexico.

* * * * *

Bitter Lake National Wildlife Refuge

* * * * *

C. Big Game Hunting. * * *

1. We restrict all hunting to the North Tract (including Salt Creek Wilderness Area and the portion of the refuge located north of U.S. Highway 70) in accordance with State seasons and regulations, with the specification that you may hunt and take feral hog (no bag limit) only while legally hunting deer and only with the weapon legal for deer on that day in that area.

* * * * *

Bosque del Apache National Wildlife Refuge

* * * * *

C. Big Game Hunting. We allow hunting of mule deer, oryx, and male Rio Grande turkey on designated areas of the refuge in accordance with State regulations subject to the following conditions:

* * * * *

5. We prohibit hunting from a vehicle and hunting from blinds along roads.

6. Youth hunters age 17 and under must successfully complete a State-approved hunter education course prior to the refuge hunt. While hunting, each youth must possess and carry a card or certificate of completion.

7. Each youth hunter must remain within sight and normal voice contact of an adult companion age 21 or older. Each adult companion can supervise no more than one youth hunter. We issue one adult companion permit at no charge to each youth hunter drawn. We allow adult companions to observe and call, but they cannot shoot a firearm or bow. Adult companions and youth hunters must set up at the same location.

8. We allow male Rio Grande turkey hunting for youth in two areas of the refuge: The north hunting area and the south hunting area. We provide maps with the refuge permit, which each hunter must carry, that show these areas in detail.

9. You must possess and carry a Big/Upland Game Hunting Application (FWS Form 3-2356) for hunting of male Rio Grande turkey. The permit is available only to youth hunters and is available through a lottery drawing. You must postmark applications by March 1 of each year. A $6 nonrefundable application fee must accompany each hunt application.

10. We allow hunting of male Rio Grande turkey for youth hunters only on dates determined by refuge staff. We will announce hunt dates by September 1 of each year. Hunters must report to the refuge headquarters by 4:45 a.m. each hunt day. Legal hunting hours run from ½ hour before legal sunrise and will not extend past 5 p.m. local time.

11. We will limit the Youth Rio Grande Turkey Hunt to four weekends during the New Mexico Spring Turkey Hunting Season. We will publish specific dates and bag limits every year in the hunting brochure.

12. We will select a minimum of four hunters and a maximum of eight hunters in a random drawing of qualified applicants every year depending on annual male Rio Grande turkey population census.

13. We allow scouting of the turkey hunt units only on the Friday before the actual hunt weekend. Scouting can occur only during normal refuge hours of visitation. Drawn hunters and their parents or legal guardians should contact the refuge in advance for more information regarding scouting of proposed hunt units.

14. We allow temporary blinds for turkey hunts, and hunters must remove them from the refuge daily (see § 27.93 of this chapter). It is unlawful to mark any tree or other refuge structure with paint, flagging tape, ribbon, cat-eyes, or any similar marking device.

15. We allow youth hunters only one legally harvested male Rio Grande turkey per hunt.

16. Hunters must check out of the designated hunt unit and have their harvested turkey checked by refuge staff prior to leaving the refuge.

* * * * *

22. Amend § 32.52 North Carolina by:

a. Revising the introductory text of paragraph D. and revising paragraph D.1. of Mackay Island National Wildlife Refuge;

b. Removing paragraph A.3., redesignating paragraphs A.4. and A.5. as paragraphs A.3. and A.4., revising paragraphs B.1., C.1., C.2., and C.4., removing paragraph C.6., redesignating paragraphs C.7. through C.14. as paragraphs C.6. through C.13., revising newly redesignated paragraphs C.7. and C.13., and adding a new paragraph C.14. of Pee Dee National Wildlife Refuge; and

c. Revising paragraphs A.1., A.6., and B.6., adding paragraph C.1., and revising paragraphs C.3., C.5. through C.7., C.9., and D.1. of Pocosin Lakes National Wildlife Refuge.

The revisions and additions read as follows:

§ 32.52 North Carolina.

* * * * *

Mackay Island National Wildlife Refuge

* * * * *

D. Sport Fishing. We allow fishing on designated areas of the refuge in accordance with State regulations subject to the following conditions:

1. We allow fishing only from legal sunrise to legal sunset from March 15 through October 15 with the exception that we allow bank fishing in Corey's Ditch and the canal adjacent to the Kotts Island Causeway year-round. The 0.3 Mile Loop Trail and the terminus of the canal immediately adjacent to the Visitor's Center are open year-round, but we close them during Refuge Permit Deer Hunts.

* * * * *

Pee Dee National Wildlife Refuge

* * * * *

B. Upland Game Hunting. * * *

1. Conditions A1 through A4 apply (with the following exception to condition A2: Each adult may supervise no more than one youth hunter).

* * * * *

C. Big Game Hunting. * * *

1. Conditions A1 through A4 apply (with the following exception to condition A2: Each adult may supervise no more than one youth hunter).

2. We require each person participating in a muzzleloader or firearms quota hunt to possess a nontransferable refuge Special Use Quota Hunt Permit. You may apply for Quota Hunt Permits by submitting a completed Quota Deer Hunt Application (FWS Form 3-2354) available at the refuge office.

* * * * *

4. Youth quota hunts are for hunters ages 10-15. We prohibit supervising adults from hunting while participating in a youth quota hunt. We allow no more than one supervising adult for each youth possessing a permit on quota hunts.

* * * * *

7. We prohibit placing a tree stand on the refuge more than 4 days prior to the opening day of the deer hunt in which hunters will be participating. Hunters must remove the tree stands (see § 27.93 of this chapter) by the last day of that hunt.

* * * * *

13. During refuge muzzleloader and firearms deer hunts, we prohibit all other public use in refuge hunting areas.

14. We prohibit big game hunting within 100 feet (30 m) of any vehicle or road open to vehicle traffic.

* * * * *

Pocosin Lakes National Wildlife Refuge

A. Migratory Game Bird Hunting. * * *

1. We prohibit hunting on the Davenport and Deaver tracts (which include the area surrounding the Headquarters/Visitor Center and the Scuppernong River Interpretive Boardwalk), the Pungo Shop area, New Lake, refuge lands between Lake Phelps and Shore Drive, that portion of the Pinner Tract east of SR 1105, the portion of Western Road between the intersection with Seagoing Road and the gate to the south, and the unnamed road at the southern boundary of the refuge land located west of Pettigrew State Park's Cypress Point Access Area. During November, December, January, and February, we prohibit all public entry on Pungo and New Lakes, Duck Pen Road, and the Pungo Lake, Riders Creek, and Dunbar Road banding sites.

* * * * *

6. We prohibit the discharge of any firearm and the use of any other weapons on the refuge except for hunting as authorized in this section. We prohibit taking and attempting to take wildlife and discharging a firearm within 100 feet (30 m) of any vehicle on any road or trail.

* * * * *

B. Upland Game Hunting. * * *

* * * * *

6. You may possess only approved nontoxic shot (see § 32.2(k)) while hunting upland game on and west of Evans Road.

* * * * *

C. Big Game Hunting. * * *

1. Conditions A1 through A7 apply.

* * * * *

3. We allow the use of only shotguns, muzzleloaders, and bow and arrow for deer and feral hog hunting. We allow disabled hunters to use crossbows but only while possessing the required State permit. We allow hunters to take feral hog in any area when the area is open to hunting deer. We allow hunters to take feral hog using bow and arrow (during the State bow and arrow and gun deer seasons), muzzleloaders (during the State muzzleloader and gun deer seasons), and firearms (during the State gun deer season). In addition, hunters may take feral hog on the Frying Pan Unit during all open firearm seasons.

* * * * *

5. We only allow deer hunting with shotguns and muzzleloaders on the Pungo Unit while possessing a valid permit from the North Carolina Wildlife Resources Commission for the Pocosin Lakes National Wildlife Refuge—Pungo Unit—Either Sex deer special hunts. We schedule these special 2-day (Friday and Saturday) hunts for certain weeks in late September and October. We require a fee that validates the State permit to participate in these special hunts.

6. During the special hunts described in condition C5, we allow only permitted hunters on the Pungo Unit. We allow only permitted hunters on the Pungo Unit from 1 hour before legal shooting time until 1 hour after legal shooting time.

7. Prior to December 1, we allow deer hunting with bow and arrow on the Pungo Unit during all State deer seasons, except during the muzzleloading season and except during the special hunts described in condition C5.

* * * * *

9. We allow the use of only portable deer stands (tree climbers, ladders, tripods, etc.). Hunters may use ground blinds, chairs, buckets, and other such items for hunting, but we require that you remove all of these items (see § 27.93 of this chapter) at the end of each day, except that hunters with a valid permit for the special hunts described in condition C5 may install one deer stand on the Pungo Unit the day before the start of their hunt and leave it until the end of the 2nd day of their 2-day hunt. You must tag any stands left overnight on the refuge with the hunter's name, address, and telephone number.

* * * * *

D. Sport Fishing. * * *

1. We allow fishing only in Pungo Lake and New Lake from March 1 through October 31, except that we close Pungo Lake and the entire Pungo Unit to fishing during the special hunts described in condition C5.

* * * * *

23. Amend § 32.53 North Dakota by revising paragraphs B., C., and D. of Upper Souris National Wildlife Refuge to read as follows:

§ 32.53 North Dakota.

* * * * *

Upper Souris National Wildlife Refuge

* * * * *

B. Upland Game Hunting. We allow hunting of sharp-tailed grouse, Hungarian partridge, and pheasant on designated areas of the refuge in accordance with State regulations subject to the following conditions:

1. We allow the use of dogs for hunting and retrieving of upland game birds. Dogs must be under direct control of the hunter (see § 26.21(b) of this chapter).

2. We open for hunting on Unit I during the State hunting season. Unit I includes all refuge land north of the township road that runs east of Tolley, across Dam 41 (Carter Dam), and east to State Route 28.

3. We open for hunting on Unit II during the State hunting season, except we close from the first day of the regular State waterfowl season through the last day of State deer gun season. Unit II includes refuge land between Lake Darling Dam and Unit I.

4. We close land south of Lake Darling Dam to all upland game bird hunting.

5. We prohibit hunting the area around refuge headquarters, buildings, shops, and residences. We post these areas with “Closed to Hunting” signs.

6. We prohibit remaining on the refuge between the hours of 10 p.m. to 5 a.m.

7. We prohibit the use of snowmobiles, all-terrain vehicles (ATVs), off-highway vehicles (OHVs), utility-terrain vehicles (UTVs), bicycles, or similar vehicles on the refuge.

8. We prohibit accessing refuge lands from refuge waters, including Lake Darling and the Souris River.

9. We prohibit the use of horses, mules, or similar livestock on the refuge during all hunting seasons.

10. We require the use of approved nontoxic shot for all upland game hunting as identified in § 20.21(j) of this chapter.

C. Big Game Hunting. We allow deer hunting on designated areas of the refuge in accordance with State regulations subject to the following conditions:

1. We only allow the use of portable tree stands and ground blinds. We prohibit leaving stands and blinds overnight (see § 27.93 of this chapter) on the refuge.

2. We prohibit the use of flagging, trail markers, paint, reflective tacks, or other types of markers (see § 27.93 of this chapter).

3. We prohibit the use of trail cameras and other electronic equipment left overnight.

4. We prohibit remaining on the refuge between the hours of 10 p.m. to 5 a.m.

5. Conditions B5 and B7 through B9 apply.

6. We prohibit entry to the refuge before 12 p.m. (noon) on the first day of the respective bow, gun, or muzzleloader deer hunting seasons.

D. Sport Fishing. We allow sport fishing on designated areas of the refuge in accordance with State regulations subject to the following conditions:

1. We allow the use of fishing boats, canoes, kayaks, and float tubes in designated boat fishing areas from Lake Darling Dam north to State Highway 28 (Greene) crossing for fishing from May 1 through September 30.

2. We allow fishing from nonmotorized vessels only on the Beaver Lodge Canoe Trail from May 1 through September 30.

3. We allow boating and fishing from vessels on the Souris River from Mouse River Park to the north boundary of the refuge from May 1 through September 30.

4. We allow shore fishing in designated areas. Consult with the refuge manager or refuge fishing brochure for specific areas.

5. You may ice fish in all ice-covered waters of the Souris River and Lake Darling.

6. We prohibit remaining on the refuge between the hours of 10 p.m. and 5 a.m.

7. We prohibit the use of snowmobiles, all-terrain vehicles (ATVs), off-highway vehicles (OHVs), utility-terrain vehicles (UTVs), amphibious vehicles, personal watercraft (PWCs), bicycles, or similar vehicles on the refuge.

8. We prohibit swimming, sailing, water skiing, pleasure boating, and overnight use or camping.

9. You may drive licensed cars and pickups on the ice from Lake Darling Dam north to Carter Dam (Dam 41) for ice fishing.

10. We allow access to sites for ice fishing. Consult with the refuge manager or refuge fishing brochure for specific areas.

11. We allow walk-in access only at designated sites on the Souris River north of Carter Dam (Dam 41) and south of Lake Darling Dam for ice fishing.

12. We allow you to place fish houses overnight on the ice of Lake Darling subject to State regulations.

13. We prohibit leaving fish houses overnight or unattended on refuge uplands or in parking areas.

14. We allow anglers to place portable fish houses on the Souris River north of Carter Dam (Dam 41) and south of Lake Darling Dam for ice fishing, but anglers must remove the fish houses from the refuge daily (see § 27.93 of this chapter).

* * * * *

24. Amend § 32.54 Ohio by revising paragraphs A.1., C.1., and C.2. of Ottawa National Wildlife Refuge to read as follows:

§ 32.54 Ohio.

* * * * *

Ottawa National Wildlife Refuge

A. Migratory Game Bird Hunting. * * *

1. You must possess and carry a State-issued permit. All hunters must check-in and out at the State hunter check station.

* * * * *

C. Big Game Hunting. * * *

1. We require hunters to possess and carry a State-issued permit.

2. We require that hunters check out at the refuge check station with a Big Game Harvest Report (FWS Form 3-2359) no later than 6 p.m.

* * * * *

25. Amend § 32.55 Oklahoma by:

a. Revising paragraph A.1., adding paragraphs A.7. through A.9., revising paragraphs B.1. and B.2., adding paragraph B.10., revising paragraphs C. and D.5., and adding paragraphs D.10. and D.11. of Deep Fork National Wildlife Refuge; and

b. Revising paragraph A., the introductory text of paragraph B., and B.1. of Sequoyah National Wildlife Refuge.

The revisions and additions read as follows:

§ 32.55 Oklahoma.

* * * * *

Deep Fork National Wildlife Refuge

A. Migratory Game Bird Hunting. * * *

1. You must possess and carry a free signed refuge permit (signed refuge brochure).

* * * * *

7. We prohibit horse and mule riding while hunting on the refuge.

8. We provide access for hunters with disabilities. Please contact the refuge office for additional information.

9. Persons possessing, transporting, or carrying firearms on the refuge must comply with all provisions of State and local law. Persons may only use (discharge) firearms in accordance with refuge regulations (50 CFR 27.42 and specific refuge regulations in part 32).

B. Upland Game Hunting. * * *

1. You must possess and carry a signed refuge permit (signed refuge brochure) for squirrel, rabbit, and raccoon. We require no fee.

2. We allow shotguns, .22 and .17 caliber rimfire rifles, and pistols for rabbit and squirrel hunting. We require the use of nontoxic shot when using a shotgun (see § 32.2(k)).

* * * * *

10. Conditions A7, A8, and A9 apply.

C. Big Game Hunting. We allow hunting of white-tailed deer and feral hog on designated areas of the refuge in accordance with State regulations subject to the following conditions:

1. You must possess and carry a refuge Special Use Permit (FWS Form 3-1383) for the archery deer hunt only. Hunters must turn in a Big Game Harvest Report (FWS Form 3-2359) by December 31 annually. Failure to submit the report will render the hunter ineligible for the next year's limited season archery deer hunt.

2. We will offer a limited season archery deer hunt following the controlled deer hunt.

3. You may hunt feral hog during any established refuge hunting season. Refuge permits (either a signed refuge brochure, Special Use Permit, or a State-issued controlled hunt permit) and legal weapons apply for the current hunting season.

4. We prohibit scouting when we are conducting controlled deer hunts.

5. We offer refuge-controlled deer hunts (primitive weapon, disabled primitive, youth primitive). We require hunters to possess a permit (a State-issued controlled hunt permit) and pay a fee for these hunts. For information concerning the hunts, contact the refuge office or the State.

6. We prohibit off-road vehicle use (see § 27.31 of this chapter).

7. Conditions A7, A8, and A9 apply.

8. Hunters may place no more than one stand on the refuge. Stands may not be in place until the day the hunt begins. Hunters must remove stands the day the hunt ends.

9. We allow take of feral hog only during daylight hours, and they must be dead prior to removal from the refuge.

D. Sport Fishing. * * *

* * * * *

5. We allow bowfishing on the refuge from legal sunrise to legal sunset from March 1 to September 30 except during the Youth and Adult Controlled Turkey Hunts. Please contact the refuge for more information.

* * * * *

10. We provide access for anglers with disabilities. Please contact the refuge office for additional information.

11. Conditions A7 and A9 apply.

* * * * *

Sequoyah National Wildlife Refuge

A. Migratory Game Bird Hunting. We allow hunting of duck, goose, dove, coot, snipe, and woodcock on designated areas of the refuge in accordance with State regulations subject to the following conditions:

1. We require an annual refuge permit (Migratory Bird Hunt Application; FWS Form 3-2357) for all hunting. The hunter must possess and carry the signed permit while hunting. We require hunters to abide by all terms and conditions listed on the permit.

2. We open the refuge to hunting only on Saturdays, Sundays, Mondays, and Tuesdays. We prohibit hunters from entering the land portion of the Sandtown Bottom Unit or any portion of Sally Jones Lake before 5 a.m. Hunters must leave the area by 1 hour after legal sunset. We prohibit hunting or shooting within 50 feet (15 m) of designated roads or parking areas. All hunters must park in designated parking areas.

3. We designate the east portion of Sandtown Bottom Unit and the portion of Robert S. Kerr Reservoir, from Tuff boat ramp to the confluence of Vian Creek, as a Wildlife Use Area, and we close it to all entry, except for the designated hiking trail, from September 1 through March 31. We mark the closed area with signs and buoys.

4. Season lengths and bag limits will be in accordance with State regulations with the exception that all hunting, except for the conservation light goose season, will close on January 31 of each year. If a conservation light goose season is in effect, it will follow State regulations with the exception of special regulations and hunting days.

5. Hunters must use only legal shotguns and approved nontoxic shot for migratory bird hunting. Persons possessing, transporting, or carrying firearms on national wildlife refuges must comply with all provisions of State and local law. Persons may only use (discharge) firearms in accordance with refuge regulations (50 CFR 27.42 and specific refuge regulations in part 32).

6. We prohibit construction of pit blinds or permanent blinds. You must reduce blinds to a natural appearance or remove them (see § 27.93 of this chapter) at the end of the day. You must remove all empty shells, litter, decoys, boats, or other personal property (see §§ 27.93 and 27.94 of this chapter) at the end of the day. We prohibit camping in boats or otherwise spending the night on any area of the refuge.

7. We allow boats, and you must operate them under applicable State laws and comply with all licensing and marking regulations from their State of origin.

8. We prohibit guiding or outfitting for commercial purposes.

9. We prohibit hunters from using refuge boat ramps to access hunting areas outside the refuge boundary on days when we close the refuge for hunting certain species or for any species not hunted on the refuge.

10. We restrict the use of airboats within the refuge boundary to the navigation channel and the designated hunting areas from September 1 to March 31.

11. We prohibit hunters entering the Sandtown Bottom Unit prior to 5 a.m. during hunting season. Until 9 a.m., the entrance is through the headquarters gate only, at which time hunters may enter the Sandtown Bottom Unit through any other access point of the refuge. Hunters must leave the Sandtown Bottom Unit by 1 hour after legal sunset.

12. We prohibit alcoholic beverages when hunting (see § 32.2(j)).

B. Upland Game Hunting. We allow hunting of squirrel and rabbit on designated areas of the refuge in accordance with State regulations subject to the following conditions:

1. Conditions A1, A3, and A8 through A12 apply.

* * * * *

26. Amend § 32.57 Pennsylvania by revising paragraphs A., B.2., the introductory text of paragraph C., and revising paragraph C.5. of Erie National Wildlife Refuge to read as follows:

§ 32.57 Pennsylvania.

* * * * *

Erie National Wildlife Refuge

A. Migratory Game Bird Hunting. We allow hunting of mourning dove, rail, common snipe, goose, duck, coot, and crow on designated areas of the refuge in accordance with State regulations subject to the following conditions:

1. We allow hunting and scouting activities on the refuge from September 1 through the end of February.

2. We require all persons to possess and carry a signed refuge hunt permit (signed brochure) on their person while hunting.

3. We only allow nonmotorized boats for waterfowl hunting. We prohibit all other watercraft use.

4. We require that hunters remove all boats, blinds, decoys, and cameras from the refuge within 1 hour after legal sunset (see § 27.93 of this chapter).

5. We allow dogs for hunting; however, they must be under the immediate control of the hunter at all times (see § 26.21(b) of this chapter).

6. We prohibit field possession of migratory game birds in areas of the refuge closed to migratory game bird hunting.

B. Upland Game Hunting. * * *

* * * * *

2. Condition A2 applies.

* * * * *

C. Big Game Hunting. We allow hunting of deer and turkey on designated areas of the refuge in accordance with State regulations subject to the following conditions:

* * * * *

5. We require any person hunting bear off refuge to obtain a refuge Special Use Permit (FWS Form 3-1383) to track a wounded bear that may have entered the refuge.

* * * * *

27. Amend § 32.60 South Carolina by:

a. Revising paragraphs C.1., C.3., C.5., C.6., C.8., and D. of Pinckney Island National Wildlife Refuge; and

b. Revising Savannah National Wildlife Refuge to read as follows:

§ 32.60 South Carolina.

* * * * *

Pinckney Island National Wildlife Refuge

* * * * *

C. Big Game Hunting. * * *

1. To participate in the refuge gun hunt, hunters must submit the Quota Deer Hunt Application (FWS Form 3-2354). If drawn, hunters must submit a permit fee in order to receive the hunt permit. You may obtain information about the quota hunt drawing at the Savannah Coastal Refuges Complex headquarters.

* * * * *

3. We will allow hunters to operate their personal vehicles on the main gravel trail only. Movement within all other areas of the refuge must be by foot or bicycle. We limit entry and exit points for authorized motor vehicles to designated check stations or other specified areas (see § 27.31 of this chapter). We prohibit entry by boat, and we prohibit hunters to leave by boat to reach other parts of the island.

* * * * *

5. We prohibit the use of organized drives for taking or attempting to take game.

6. Each hunter may place one stand on the refuge during the week preceding the hunt. They must remove their stand at the end of the hunt (see § 27.93 of this chapter).

* * * * *

8. We allow only shotguns (20 gauge or larger; slugs only) for hunting.

* * * * *

D. Sport Fishing. We allow fishing on designated areas of the refuge in accordance with State regulations subject to the following conditions:

1. We allow saltwater fishing year-round in the estuarine waters adjacent to the refuge.

2. We allow fishing only from boats.

3. We prohibit freshwater fishing.

* * * * *

Savannah National Wildlife Refuge

Refer to § 32.29 Georgia for regulations.

* * * * *

28. Amend § 32.62 Tennessee by:

a. Revising Chickasaw National Wildlife Refuge;

b. Revising paragraphs A.5., A.6., B., C.1., and C.2., adding paragraphs C.3. and C.4., and revising paragraph D. of Cross Creeks National Wildlife Refuge;

c. Revising Hatchie National Wildlife Refuge;

d. Revising Lake Isom National Wildlife Refuge;

e. Revising Lower Hatchie National Wildlife Refuge;

f. Revising Reelfoot National Wildlife Refuge; and

g. Revising paragraphs A.2., A.5., A.6., B.5., B.7., and C.2., adding paragraph C.3., revising paragraphs D.1., D.3., D.5., and D.6., and adding paragraphs D.7. and D.8 of Tennessee National Wildlife Refuge.

The revisions and additions read as follows:

§ 32.62 Tennessee.

* * * * *

Chickasaw National Wildlife Refuge

A. Migratory Game Bird Hunting. We allow hunting of duck, goose, coot, merganser, mourning dove, woodcock, and snipe on designated areas of the refuge in accordance with State regulations subject to the following conditions:

1. The refuge is a day-use area only, with the exception of legal hunting/fishing activities.

2. We prohibit the use of motorized off-road vehicles (e.g., ATVs) on the refuge (see § 27.31(f) of this chapter).

3. We seasonally close the refuge sanctuary area to the public from November 15 through March 15.

4. You must possess and carry a signed refuge permit (signed refuge brochure) and comply with all provisions specified within the permit.

5. We allow hunting for duck, goose, coot, and merganser from ½ hour before legal sunrise to 12 p.m. (noon).

6. Mourning dove, woodcock, and snipe seasons close during all firearms and muzzleloader deer seasons.

7. You may use only portable blinds, and you must remove all boats, blinds, and decoys (see § 27.93 of this chapter) from the refuge by 1 p.m. daily.

8. We allow hunters to access the refuge no more than 2 hours before legal sunrise and no more than 2 hours after legal sunset.

9. Each youth hunter age 15 and younger must remain within sight and normal voice contact and under supervision of an adult age 21 or older, who possesses a license. One adult hunter may supervise no more than two youth hunters.

10. You may possess only approved nontoxic shot when hunting with a shotgun (see § 32.2(k)).

B. Upland Game Hunting. We allow hunting of squirrel, rabbit, quail, raccoon, and opossum on designated areas of the refuge in accordance with State regulations subject to the following conditions:

1. Conditions A1 through A4 and A9 through A10 apply.

2. We allow hunters to access the refuge no more than 2 hours before legal sunrise and no more than 2 hours after legal sunset with the exception of raccoon and opossum hunters who may access the refuge from legal sunset to legal sunrise.

3. We do not open for spring squirrel season on the refuge.

4. Squirrel, rabbit, and quail seasons close during all firearms and muzzleloader deer seasons.

5. Raccoon and opossum seasons close the Friday and Saturday nights during all firearms and muzzleloader deer hunts and seasons, including the Friday night prior to any hunt or season that opens on a Saturday morning.

6. We allow horses only on roads open to motorized traffic. We prohibit the use of horses and other animal conveyances from all other areas including fields, woods, and foot trails.

7. We prohibit use or possession of alcoholic beverages while hunting (see § 32.2(j)).

8. You may take coyote and beaver incidental to legal hunting activities.

C. Big Game Hunting. We allow hunting of white-tailed deer and turkey on designated areas of the refuge in accordance with State regulations subject to the following conditions:

1. Conditions A1 through A4, A8, A10, and B6 through B8 apply.

2. You may only participate in the refuge quota hunts with a special quota permit issued through random drawing. Information for permit applications is available at the refuge headquarters.

3. You may possess only approved nontoxic shot while hunting turkey (see § 32.2(k)).

4. We allow the use of lead shot while deer hunting on the refuge (see § 32.2(k)).

5. We allow the use of only portable blinds and tree stands on the refuge. You must remove blinds, tree stands, and all other personal equipment (see §§ 27.93 and 27.94 of this chapter) from the refuge at the end of each day's hunt.

6. All youth hunters age 15 and younger must remain within sight and normal voice contact of an adult age 21 or older, who possesses a license. One adult hunter may supervise only one youth hunter.

D. Sport Fishing. We allow sport fishing on designated areas of the refuge in accordance with State regulations subject to the following conditions:

1. Conditions A1 through A3 apply.

2. We allow fishing only with pole and line or rod and reel.

3. We prohibit possession of unauthorized fishing gear, including trotlines, limblines, juglines, yo-yos, nets, spears, and snag hooks, while fishing on the refuge.

4. We allow the use of bow and arrow or a gig to take nongame fish on refuge waters.

5. We prohibit taking frog or turtle on the refuge (see § 27.21 of this chapter).

6. We allow fishing from legal sunrise to legal sunset.

Cross Creeks National Wildlife Refuge

A. Migratory Game Bird Hunting. * * *

* * * * *

5. We allow access for goose hunting on the refuge from 2 hours before legal sunrise to 2 hours after legal sunset.

6. We prohibit the use of unlicensed motorized vehicles (e.g., ATVs, golf carts, etc.) on the refuge.

* * * * *

B. Upland Game Hunting. We allow hunting of squirrel on designated areas of the refuge in accordance with State regulations subject to the following conditions:

1. The refuge is a day-use area only, with the exception of legal hunting/fishing activities.

2. You must possess and carry a valid refuge permit (name and address only) while hunting on the refuge.

3. We set and publish season dates and bag limits annually in the refuge Public Use Regulations available at the refuge office.

4. We prohibit hunting within 50 yards (45 m) of any building, public use road, or boat launching ramp.

5. We allow hunters to access the refuge from 2 hours before legal sunrise to 2 hours after legal sunset.

6. We prohibit the use of unlicensed motorized vehicles (e.g., ATVs & golf carts, etc.) on the refuge (see § 27.31(f) of this chapter).

7. We prohibit the use of horses or other animal conveyances on the refuge hunts.

8. Each youth hunter under age 16 must remain within sight and normal voice contact of an adult age 21 or older. One adult hunter may supervise no more than two youth hunters.

9. We do not open for spring squirrel hunting.

C. Big Game Hunting. * * *

1. Conditions B1 through B7 apply.

2. We only allow the use of portable blinds and tree stands on the refuge. You must remove blinds, tree stands, and all other personal equipment (see § 27.93 of this chapter) from the refuge at the end of each day.

3. You may only participate in the refuge quota deer hunts with a special quota permit (name and address only) issued through random drawing. Information for permit applications is available at the refuge headquarters.

4. Each youth hunter younger than age 16 must remain within sight and normal voice contact of an adult age 21 or older. One adult hunter may supervise no more than one youth hunter.

D. Sport Fishing. We allow fishing on designated areas of the refuge in accordance with State regulations subject to the following conditions:

1. We allow fishing on the refuge pools and reservoirs from March 16 through November 14 from legal sunrise to legal sunset.

2. We prohibit trotlines, limblines, jugs, and slat baskets in refuge pools and impoundments and on Elk Reservoir and South Cross Creeks Reservoir.

3. We prohibit taking frog, turtle, and crawfish on the refuge (see § 27.21 of this chapter).

4. We prohibit leaving boats unattended on the refuge after daylight use hours.

5. We prohibit swimming in refuge impoundments and from boat ramps and boat docks.

6. We allow bow fishing in refuge impoundments and on Barkley Lake.

Hatchie National Wildlife Refuge

A. Migratory Game Bird Hunting. We allow hunting of migratory game birds on designated areas of the refuge in accordance with State regulations subject to the following conditions:

1. The refuge is a day-use area only, with the exception of legal hunting/fishing activities.

2. We prohibit the use of motorized off-road vehicles (e.g., ATVs) on the refuge (see § 27.31(f) of this chapter).

3. We seasonally close the sanctuary areas of the refuge to the public from November 15 through March 15.

4. You must possess and carry a signed refuge permit (signed refuge brochure) and comply with all provisions specified within the permit.

5. We allow waterfowl hunting only on Tuesdays, Thursdays, and Saturdays. We allow hunting for duck, goose, coot, and merganser from ½ hour before legal sunrise to 12 p.m. (noon).

6. Mourning dove, woodcock, and snipe seasons close during all deer archery and quota gun hunts.

7. We allow only portable blinds, and hunters must remove all boats, blinds, and decoys (see § 27.93 of this chapter) from the refuge by 1 p.m. daily.

8. We allow hunters to access the refuge no more than 2 hours before legal sunrise, and they must leave the refuge no more than 2 hours after legal sunset.

9. Each youth hunter age 15 and younger must remain within sight and normal voice contact and under supervision of an adult age 21 or older, who possesses a license. One adult hunter may supervise no more than two youth hunters.

10. You may possess only approved nontoxic shot while hunting (see § 32.2(k)).

B. Upland Game Hunting. We allow hunting of squirrel, rabbit, quail, raccoon, and opossum on designated areas of the refuge in accordance with State regulations subject to the following conditions:

1. Conditions A1 through A4 and A9 through A10 apply.

2. We allow hunters to access the refuge no more than 2 hours before legal sunrise and no more than 2 hours after legal sunset with the exception of raccoon and opossum hunters, who may access the refuge from legal sunset to legal sunrise.

3. We do not open to spring squirrel season on the refuge.

4. We close all small game hunts during the refuge deer archery and quota gun hunts.

5. We allow horses only on roads open to motorized traffic. We prohibit the use of horses and other animal conveyances from all other areas including fields, woods, and foot trails.

6. We prohibit use or possession of alcoholic beverages while hunting (see § 32.2(j)).

7. You may take coyote and beaver incidental to legal hunting activities.

C. Big Game Hunting. We allow hunting of white-tailed deer and turkey on designated areas of the refuge in accordance with State regulations subject to the following conditions:

1. Conditions A1 through A4, A8, A10, and B5 through B7 apply.

2. You may only participate in the refuge deer quota hunts with a special quota permit (name and address only) issued through random drawing. Information for permit applications is available at the refuge headquarters.

3. You may possess only approved nontoxic shot while hunting turkey (see § 32.2(k)).

4. We allow the use of lead shot while deer hunting on the refuge (see § 32.2(k)).

5. We allow the use of only portable blinds and tree stands on the refuge. You must remove blinds, tree stands, and all other personal equipment (see § 27.93 of this chapter) from the refuge at the end of each day's hunt.

6. We allow archery deer and turkey hunting on designated areas of the refuge as defined annually in the refuge Public Use Regulations available at the refuge office and in accordance with State regulations.

7. All youth hunters age 15 and younger must remain within sight and normal voice contact of an adult age 21 or older, who possesses a license. One adult hunter may supervise only one youth hunter.

D. Sport Fishing. We allow sport fishing on designated areas of the refuge in accordance with State regulations subject to the following conditions:

1. Conditions A1 through A3 apply.

2. We allow fishing only with pole and line or rod and reel.

3. We prohibit possession of unauthorized fishing gear, including trotlines, limblines, juglines, yo-yos, nets, spears, and snag hooks while fishing on the refuge.

4. We allow use of a bow and arrow or gig to take nongame fish on refuge waters.

5. We prohibit taking frog or turtle on the refuge (see § 27.21 of this chapter).

6. We open Oneal Lake for fishing during a restricted season and for authorized special events. Information on events and season dates is available at the refuge headquarters.

7. We only allow aluminum fishing boats and fiberglass boats of 16 feet (4.8 m) or less in length on refuge lakes.

8. We allow the use of nonmotorized boats and boats with electric motors only; we prohibit the use of gas and diesel motors on refuge lakes.

9. We allow fishing from legal sunrise to legal sunset.

Lake Isom National Wildlife Refuge

A. Migratory Game Bird Hunting. [Reserved]

B. Upland Game Hunting. We allow hunting of squirrel and raccoon on designated areas of the refuge in accordance with State regulations subject to the following conditions:

1. The refuge is a day-use area only, with the exception of legal hunting/fishing activities.

2. We prohibit the use of motorized off-road vehicles (e.g., ATVs) on the refuge (see § 27.31(f) of this chapter).

3. We set season dates and bag limits annually and publish them in the refuge Public Use Regulations available at the refuge office.

4. You must possess and carry a valid refuge permit (signed brochure) and comply with all provisions specified within the permit.

5. We allow hunters to access the refuge no more than 2 hours before legal sunrise and no more than 2 hours after legal sunset with the exception of raccoon hunters. Those hunters can access the refuge from legal sunset to legal sunrise.

6. We seasonally close the refuge sanctuary area to the public from November 15 through March 15.

7. All youth hunters age 15 and younger must remain within sight and normal voice contact of an adult age 21 or older, who possesses a license. One adult hunter may supervise no more than two youth hunters.

8. We allow horses only on roads open to motorized traffic. We prohibit the use of horses and other animal conveyances from all other areas including fields, woods, and foot trails.

9. We prohibit use or possession of alcoholic beverages while hunting (see § 32.2(j)).

10. You may possess only approved nontoxic shot while hunting (see § 32.2(k)).

11. You may take coyote and beaver incidental to legal hunting activities.

12. We prohibit camping and fires on the refuge.

C. Big Game Hunting. We allow only archery hunting for white-tailed deer on designated areas of the refuge in accordance with State regulations subject to the following conditions:

1. Conditions B1 through B6 and B8 through B12 apply.

2. We allow the use of only portable blinds and tree stands on the refuge. You must remove blinds, tree stands, and all other personal equipment (see § 27.93 of this chapter) from the refuge at the end of each day.

3. All youth hunters age 15 and younger must remain within sight and normal voice contact of an adult age 21 or older, who possesses a license. One adult hunter may supervise only one youth hunter.

D. Sport Fishing. We allow fishing on designated areas of the refuge in accordance with State regulations subject to the following conditions:

1. We open all waters of Lake Isom to fishing only from March 16 through November 14 and from legal sunrise to legal sunset.

2. We allow boats with only electric or outboard motors of 10 hp or less.

3. We prohibit taking frog or turtle from refuge waters (see § 27.21 of this chapter).

Lower Hatchie National Wildlife Refuge

A. Migratory Game Bird Hunting. We allow hunting of duck, goose, coot, merganser, mourning dove, woodcock, and snipe on designated areas of the refuge in accordance with State regulations subject to the following conditions:

1. The refuge is a day-use area only, with the exception of legal hunting/fishing activities.

2. We prohibit the use of motorized off-road vehicles (e.g., ATVs) on the refuge (see § 27.31(f) of this chapter).

3. We seasonally close the sanctuary area of the refuge and the southern unit of Sunk Lake Public Use Natural Area to the public from November 15 through March 15.

4. You must possess and carry a signed refuge permit (signed brochure) and comply with all provisions specified within the permit.

5. We allow hunting for duck, goose, coot, and merganser from ½ hour before legal sunrise to 12 p.m. (noon).

6. Mourning dove, woodcock, and snipe seasons close during all firearms and muzzleloader deer seasons.

7. You may use only portable blinds, and you must remove all boats, blinds, and decoys (see § 27.93 of this chapter) from the refuge by 1 p.m. daily.

8. We allow hunters to access the refuge no more than 2 hours before legal sunrise to no more than 2 hours after legal sunset.

9. Each youth hunter age 15 and younger must remain within sight and normal voice contact and under supervision of an adult age 21 or older, who possesses a license. One adult hunter may supervise no more than two youth hunters.

10. You may possess only approved nontoxic shot while hunting (see § 32.2(k)).

11. We close Sunk Lake Public Use Natural Area to all migratory game bird hunting, and we close the southern unit of Sunk Lake Public Use Natural Area to all hunting.

B. Upland Game Hunting. We allow hunting of squirrel, rabbit, quail, raccoon, and opossum on designated areas of the refuge in accordance with State regulations subject to the following conditions:

1. Conditions A1 through A4 and A9 through A11 apply.

2. We allow hunters to access the refuge no more than 2 hours before legal sunrise to no more than 2 hours after legal sunset with the exception of raccoon and opossum hunters. We will allow access to those hunters from legal sunset to legal sunrise.

3. We do not open for spring squirrel season on the refuge.

4. Squirrel, rabbit, and quail seasons close during all firearms and muzzleloader deer seasons.

5. Raccoon and opossum seasons close Friday and Saturday nights during all firearms and muzzleloader deer hunts and seasons, including the Friday night prior to any hunt or season that opens on a Saturday morning.

6. We allow horses only on roads open to motorized traffic. We prohibit the use of horses and other animal conveyances from all other areas including fields, woods, and foot trails.

7. We prohibit use or possession of alcoholic beverages while hunting (see § 32.2(j)).

8. You may take coyote and beaver incidental to legal hunting activities.

9. We prohibit camping and fires on the refuge.

C. Big Game Hunting. We allow hunting of white-tailed deer and turkey on designated areas of the refuge in accordance with State regulations subject to the following conditions:

1. Conditions A1 through A4, A8, A10, A11, and B6 through B9 apply.

2. You may participate in the refuge quota hunts only with a special quota permit (name and address only) issued through random drawing. Information for permit applications is available at the refuge headquarters.

3. You may possess only approved nontoxic shot while hunting turkey (see § 32.2(k)).

4. We allow the use of lead shot while deer hunting on the refuge (see § 32.2(k)).

5. We allow the use of only portable blinds and tree stands on the refuge. You must remove blinds, tree stands, and all other personal equipment (see § 27.93 of this chapter) from the refuge at the end of each day's hunt.

6. All youth hunters age 15 and younger must remain within sight and normal voice contact of an adult age 21 or older, who possesses a license. One adult hunter may supervise only one youth hunter.

7. We allow archery deer hunting only on the northern unit of Sunk Lake Public Use Natural Area.

D. Sport Fishing. We allow sport fishing on designated areas of the refuge and the Sunk Lake Public Use Natural Area in accordance with State regulations subject to the following conditions:

1. We allow fishing only from legal sunrise to legal sunset.

2. We allow fishing only with pole and line or rod and reel.

3. We prohibit possession of unauthorized fishing gear, including trotlines, limblines, juglines, yo-yos, nets, spears, and snag hooks while fishing on the refuge.

4. We allow use of a bow and arrow or a gig to take nongame fish on refuge waters.

5. We prohibit taking frog or turtle on the refuge (see § 27.21 of this chapter).

6. We seasonally close the sanctuary area of the refuge and the southern unit of Sunk Lake Public Use Natural Area to the public from November 15 through March 15.

7. We allow the use of only nonmotorized boats and boats with electric motors on Sunk Lake Public Use Natural Area.

Reelfoot National Wildlife Refuge

A. Migratory Game Bird Hunting. [Reserved]

B. Upland Game Hunting. We allow hunting of squirrel and raccoon on designated areas of the refuge in accordance with State regulations subject to the following conditions:

1. The refuge is a day-use area only, with the exception of legal hunting/fishing activities.

2. We prohibit the use of motorized off-road vehicles (e.g., ATVs) on the refuge (see § 27.31(f) of this chapter).

3. We set season dates and bag limits annually and publish them in the Refuge Public Use Regulations available at the refuge office.

4. You must possess and carry a valid refuge permit (signed brochure) and comply with all provisions specified within the permit.

5. We allow hunters to access the refuge no more than 2 hours before legal sunrise to no more than 2 hours after legal sunset with the exception of raccoon hunters. We will allow those hunters access to the refuge from legal sunset to legal sunrise.

6. We seasonally close the sanctuary areas of the refuge to the public from November 15 through March 15.

7. All youth hunters age 15 and younger must remain within sight and normal voice contact of an adult age 21 or older, who possesses a license. One adult hunter may supervise no more than two youth hunters.

8. We allow horses only on roads open to motorized traffic. We prohibit the use of horses and other animal conveyances from all other areas including fields, woods, and foot trails.

9. We prohibit use or possession of alcoholic beverages while hunting (see § 32.2(j)).

10. You may possess only approved nontoxic shot while using a shotgun (see § 32.2(k)).

11. You may take coyote and beaver incidental to legal hunting activities.

12. We prohibit camping and fires on the refuge.

C. Big Game Hunting. We allow hunting for white-tailed deer and turkey on designated areas of the refuge in accordance with State regulations subject to the following conditions:

1. Conditions B1 through B6, B8, B9, B11 and B12 apply.

2. You may participate in the refuge firearms deer and turkey quota hunts only with a special quota permit (name and address only) issued through random drawing. Information for permit applications is available at the refuge headquarters.

3. You may possess only approved nontoxic shot while turkey hunting on the refuge (see § 32.2(k)).

4. We allow the use of lead shot while deer hunting on the refuge (see § 32.2(k)).

5. We allow the use of only portable blinds and tree stands on the refuge. You must remove blinds, tree stands, and all other personal equipment from the refuge at the end of each day (see § 27.93 of this chapter).

6. All youth hunters age 15 and younger must remain within sight and normal voice contact of an adult age 21 or older, who possesses a license. One adult hunter may supervise only one youth hunter.

D. Sport Fishing. We allow fishing on designated areas of the refuge in accordance with State regulations subject to the following conditions:

1. We allow access to the Long Point Unit (north of Upper Blue Basin) for fishing from March 16 through November 14, and the Grassy Island Unit (south of Upper Blue Basin) for fishing from February 1 through November 14.

2. We allow fishing on the refuge from legal sunrise to legal sunset.

3. We prohibit taking of frog or turtle on the refuge (see § 27.21 of this chapter).

4. We prohibit airboats, hovercraft, or personal watercraft (e.g., Jet Skis) on any waters within the refuge boundary.

Tennessee National Wildlife Refuge

A. Migratory Game Bird Hunting. * * *

* * * * *

2. We require a refuge hunt permit for all hunters age 16 and older. We charge a fee for all hunt permits. You must possess and carry a valid refuge permit (name and address only) while hunting on the refuge.

* * * * *

5. We allow access for goose hunting on the refuge from 2 hours before legal sunrise to 2 hours after legal sunset.

6. We prohibit the use of unlicensed motorized vehicles (e.g., ATVs and golf carts, etc.) on the refuge (see § 27.31(f) of this chapter).

* * * * *

B. Upland Game Hunting. * * *

* * * * *

5. We allow hunters to access the refuge from 2 hours before legal sunrise to 2 hours after legal sunset.

* * * * *

7. We prohibit the use of unlicensed motorized vehicles (e.g., ATVs and golf carts, etc.) on the refuge (see § 27.31(f) of this chapter).

* * * * *

C. Big Game Hunting. * * *

* * * * *

2. You may participate in the refuge quota deer hunts only with a special quota permit (name and address only) issued through random drawing. Information for permit applications is available at the refuge headquarters.

3. We allow the use of only portable blinds and tree stands on the refuge. You must remove blinds, tree stands, and all other personal equipment (see § 27.93 of this chapter) from the refuge at the end of each day.

D. Sport Fishing. * * *

1. We allow fishing in Swamp Creek, Sulphur Well Bay, Bennetts Creek, and all interior impoundments from March 16 through November 14 from legal sunrise to legal sunset. The remainder of the refuge portion of Kentucky Lake will remain open year-round. We allow bank fishing year-round along Refuge Lane from the New Johnsonville Pump Station, and from Busseltown Bump Station areas.

* * * * *

3. We prohibit leaving boats unattended on the refuge after daylight use hours.

* * * * *

5. We prohibit taking frog, turtle, and crawfish on the refuge (see § 27.21 of this chapter).

6. We prohibit trotlines, limblines, jugs, and slat baskets in refuge pools and impoundments.

7. We prohibit swimming in refuge impoundments and from boat ramps and boat docks.

8. We allow bow fishing in refuge impoundments and on Kentucky Lake.

29. Amend § 32.63 Texas by:

a. Revising paragraphs C., D.2., and D.3. of Aransas National Wildlife Refuge;

b. Revising Balcones Canyonlands National Wildlife Refuge;

c. Adding Caddo Lake National Wildlife Refuge in alphabetical order;

d. Revising paragraph A. of Hagerman National Wildlife Refuge;

e. Revising paragraphs C. and D.2. of Laguna Atascosa National Wildlife Refuge; and

f. Revising paragraphs A. and C. of Lower Rio Grande Valley National Wildlife Refuge to read as follows:

§ 32.63 Texas.

* * * * *

Aransas National Wildlife Refuge

* * * * *

C. Big Game Hunting. We allow hunting of white-tailed deer and feral hog on designated areas of the refuge in accordance with State regulations subject to the following conditions:

1. We may immediately close the entire refuge or any portion thereof to hunting in the event of the appearance of whooping crane in the hunt area or in order to conduct habitat management practices as required during the available windows (i.e., prescribed burns, roller chopping, fire breaks).

2. For the archery and rifle season, hunters must obtain a refuge permit (name only required) and pay a fee. The hunter must tape the smaller vehicle tag on the driver's side windshield. The hunter must sign the larger permit and possess it at all times while on the refuge.

3. We define youth hunters as ages 9-16. A Texas-licensed, adult hunter, age 17 or older who has successfully completed a Hunter Education Training Course, must accompany youth hunters. We exempt those persons born prior to September 2, 1971, from the Hunter Education Training course requirement. We define accompanied as being within normal voice contact. Each adult hunter may supervise only one youth hunter.

4. We prohibit the use of dogs to trail game.

5. We prohibit possession of alcoholic beverages at any time while hunting (see § 32.2(j)).

6. We will annually designate bag limits in the refuge hunt brochure.

7. We allow archery hunting within the deer season for the county on specified days listed in the refuge hunt brochure.

8. We allow firearm hunting within the deer season for the county on specified days listed in the refuge hunt brochure.

9. All hunters must check-in and out at the entrance gate at the beginning and end of each hunt and record their harvest if applicable.

10. Hunters must clean all harvested game in the field.

11. Firearm hunters must wear a total of 400 square inches (2,600 cm²) hunter orange including 144 square inches (936 cm²) visible in front and 144 square inches visible in rear. Some hunter orange must appear on head gear.

12. We prohibit target practice or any nonhunting discharge of firearms (see § 27.42 of this chapter).

13. We prohibit hunting on or across any part of the refuge road system, or hunting from a vehicle on any refuge road or road right-of-way. Hunters must remain at a minimum of 100 yards (90 m) off any designated refuge road or structure.

14. We prohibit hunters using handguns during archery and rifle hunts. Hunters may use bows and arrows only in accordance with State law. We prohibit use of crossbows for hunting unless we issue a Special Use Permit (FWS Form 1383) due to “upper limb” disability. We allow the use of archery equipment and centerfire rifles for hunting in accordance with State law.

15. We prohibit cutting of holes or other manipulation of vegetation (e.g., cutting bushes, tree limbs, mowing, weed-eating, herbicide use, and other actions) or hunting from manipulated areas (see § 27.51 of this chapter).

16. We allow use of portable hunting stands, stalking of game, and still hunting. There is a limit of two portable stands per permitted hunter. A hunter may set up the portable stands during the scouting week but must remove them when the hunter's permit expires (see § 27.93 of this chapter). We prohibit hunters from driving nails, spikes, or other objects into trees or hunting from stands secured with objects driven into trees (see § 32.2(i)). We prohibit the building of pits and permanent blinds.

17. We prohibit hunting with the aid of bait, salt, or any ingestible attractant (see § 32.2(h)). We allow sprays and other noningestible attractants.

18. We prohibit blocking of gates and roadways (see § 27.31(h) of this chapter). We prohibit vehicles operating off-road for any reason. Hunters must park vehicles in such a manner as to not obstruct normal vehicle traffic.

19. We allow you to use only biodegradable flagging tape to mark trails and your hunt stand location during the archery and rifle hunts on the refuge. We color-code the flagging tape used each weekend during the rifle hunts. You must use the designated flagging tape color specified for particular hunt dates. We provide this information on the refuge hunt permit and in refuge regulations sent to permittees. You must remove flagging (see § 27.93 of this chapter) at the end of the hunt. The hunter must write his/her last name in black permanent marker on the first piece of flagging tape nearest the adjacent designated roadway.

20. We prohibit camping on the refuge at any time.

D. Sport Fishing. * * *

* * * * *

2. Beginning April 15 through October 15, you may fish on the refuge only in areas designated in the refuge fishing brochure. From October 16 through April 14, the only area open to fishing is adjacent to the picnic area off of the fishing pier, and we also allow wade fishing in that immediate area. You may fish all year in marshes on Matagorda Island.

3. We prohibit consumption of alcohol or possession of open alcohol containers (see § 32.5(e)).

Balcones Canyonlands National Wildlife Refuge

A. Migratory Game Bird Hunting. We allow hunting of mourning, white-wing, rock, and Eurasian-collared dove on designated areas of the refuge in accordance with State regulations subject to the following conditions:

1. The hunting season will be consistent with the State season.

2. We allow hunting in designated areas from 12 p.m. (noon) to legal sunset.

3. You may possess only approved nontoxic shot for hunting while in the field (see § 32.2(k)).

4. We require refuge permits (name, address, and signature only) and payment of a hunt fee by all hunters.

5. The bag limit will be consistent with State regulations.

6. We allow dogs to retrieve game birds during the hunt, but the dogs must be under the control of the handler at all times and not allowed to roam free (see § 26.21(b) of this chapter).

7. We define youth hunters as ages 9-16. A Texas-licensed, adult hunter, age 17 or older who has successfully completed a Hunter Education Training Course, must accompany youth hunters. We exempt those persons born prior to September 2, 1971, from the Hunter Education Training course requirement. We define accompanied as being within normal voice contact. Each adult hunter may supervise only one youth hunter.

8. We prohibit use or possession of alcohol while hunting (see § 32.2(j)).

9. We may close the entire refuge or any portion thereof to hunting for the protection of resources, as determined by the refuge manager.

10. Persons possessing, transporting, or carrying firearms on national wildlife refuges must comply with all provisions of State and local law. Persons may only use (discharge) firearms in accordance with refuge regulations (see § 27.42 of this chapter and specific refuge regulations in part 32).

11. We allow nonhunters to accompany hunters needing special assistance. Contact the refuge manager for details.

B. Upland Game Hunting. [Reserved]

C. Big Game Hunting. We allow hunting of white-tailed deer, turkey, and feral hog at designated times on designated areas of the refuge in accordance with State regulations subject to the following conditions:

1. Conditions A1, A4, A5, and A7 through A11 apply.

2. We require hunters to check-in and out daily at designated check station(s).

3. Weapons will be consistent with State regulations.

4. Hunters must visibly wear 400 square inches (2,600 cm²) of hunter orange on the outermost layer of the head, chest, and back, which must include a hunter-orange hat or cap.

5. We prohibit dogs for hunting.

6. We prohibit camping.

7. You may use vehicles only on designated roads and parking areas.

8. We allow stand-by hunting permits only if openings are available on the day of each hunt on a first-come-first-served basis. Contact the refuge manager for details.

9. We prohibit the use or possession of bait during scouting or hunting (see § 32.2(h)). We consider bait to be anything that may be eaten or ingested by wildlife. We allow scent attractants.

D. Sport Fishing. [Reserved]

* * * * *

Caddo Lake National Wildlife Refuge

A. Migratory Game Bird Hunting. [Reserved]

B. Upland Game Hunting. [Reserved]

C. Big Game Hunting. We allow hunting of deer and feral hog on designated areas of the refuge in accordance with State regulations subject to the following conditions:

1. We prohibit the use of motorized off-road vehicles (e.g., ATVs) on the refuge (see § 27.31(f) of this chapter).

2. We set season dates and bag limits annually and publish them in the refuge public use regulations available at the refuge office.

3. Deer archery hunters must possess and carry a signed refuge permit (signed refuge brochure) while hunting.

4. You may hunt only big game during designated refuge seasons.

5. You may hunt feral hog during any established refuge hunting season. Refuge permits and legal weapons apply for the current hunting season.

6. We allow hunters to access the refuge no more than 2 hours before legal sunrise and no more than 2 hours after legal sunset.

7. We define youth hunters as ages 9-16. A Texas-licensed, adult hunter, age 17 or older who has successfully completed a Hunter Education Training Course, must accompany youth hunters. We exempt those persons born prior to September 2, 1971, from the Hunter Education Training course requirement. We define accompanied as being within normal voice contact. Each adult hunter may supervise only one youth hunter.

8. You may participate in the refuge firearms deer hunt only with a Quota Deer Hunt Application (FWS Form 3-2354) issued through random drawing. You may obtain information on permit applications at the refuge headquarters.

9. We allow the use of only portable blinds and tree stands on the refuge. You must remove blinds, tree stands, and all other personal equipment from the refuge at the end of each day (see § 27.93 of this chapter).

10. We prohibit possession or distribution of bait or hunting with the aid of bait, including any grain, salt, minerals, or other feed or nonnaturally occurring attractant on the refuge (see § 32.2(h)).

11. We prohibit the use of dogs, feeders, campsites, and all-terrain vehicles (we may allow all-terrain vehicles for medically documented disabled hunters by Special Use Permit (SUP) [FWS Form 3-1383] only). Contact the wildlife refuge manager for guidelines to obtain a SUP.

12. Hunters must conspicuously wear daylight-fluorescent orange as per State deer hunting regulations on public hunting lands.

13. Persons possessing, transporting, or carrying firearms on a national wildlife refuge must comply with all provisions of State and local law. Persons may only use (discharge) firearms in accordance with refuge regulations (see § 27.42 of this chapter and specific refuge regulations in part 32).

D. Sport Fishing. [Reserved]

Hagerman National Wildlife Refuge

A. Migratory Game Bird Hunting. We allow hunting of mourning dove in the month of September on designated areas of the refuge in accordance with State regulations subject to the following conditions:

1. You must possess and carry a signed refuge brochure (which serves as your Migratory Game Bird/Upland Game Hunting Permit). The permit/brochure is available free of charge at the refuge headquarters.

2. You may possess shot for hunting no larger than #4 in the hunting area.

3. We require the hunter to self check-in and check out.

4. We prohibit hunting within 150 feet (45 m) of any Day Use Area or walking trail.

5. We prohibit target practice or any nonhunting discharge of firearms.

6. We prohibit falconry.

7. We allow retriever dogs, but the dogs must be under the control of the handler at all times (see § 26.21(b) of this chapter).

8. We prohibit airboats, hovercraft, and personal watercraft (jet skis, wave runner, jet boats, etc.) year-round on refuge waters.

9. We prohibit building or hunting from permanent blinds.

10. We prohibit blocking of gates and roads (see § 27.31(h) of this chapter).

11. We prohibit ATVs.

12. We prohibit horses.

13. We prohibit glass containers.

* * * * *

Laguna Atascosa National Wildlife Refuge

* * * * *

C. Big Game Hunting. We allow hunting of white-tailed deer, feral hog, and nilgai antelope on designated areas of the refuge in accordance with State regulations subject to the following conditions:

1. We require hunters to pay a fee and obtain a refuge hunt permit (name, address, and signature only). We issue replacement permits for an additional nominal fee. All hunt fees are nonrefundable. We require the hunter to possess and carry a signed and dated refuge hunt permit.

2. We allow archery and firearm hunting on designated units of the refuge. Units 1, 2, 3, 5, 6, and 8 are open to archery hunting during designated dates. Units 2, 3, 5, and 8 are open to firearm hunting during designated dates. We close the following areas to hunting: Adolph Thomae, Jr. County Park in Unit 3, posted “No Hunting Zones” within all hunt units, La Selva Verde Tract (Armstrong), Waller Tract, Tocayo (COHYCO, Inc.) Tract, Freze Tract, Escondido Tract, Sendero del Gato, Bahia Grande Unit, and South Padre Island Unit.

3. We offer hunting during specific portions of the State hunting season. We determine specific deer hunt dates annually, and they usually fall within November, December, and January. We may provide special feral hog and nilgai antelope hunts to reduce populations at any time during the year.

4. We annually establish a specific bag limit for deer hunted on the refuge in the refuge hunt brochure and permit. We have an unlimited bag limit on feral hog and nilgai antelope.

5. We require hunters to visibly wear 400 square inches (2,600 cm²) of hunter orange, which includes wearing a minimum of 144 square inches (936 cm²) visible on the chest, a minimum of 144 square inches visible on the back, and a hunter-orange hat or cap visible on the head when in the field. We allow hunter-orange camouflage patterns. We allow archery hunters during the archery-only hunts to remove their hunter orange in the field only when hunting at a stationary location.

6. We define youth hunters as ages 9-16. A Texas-licensed, adult hunter, age 17 or older who has successfully completed a Hunter Education Training Course, must accompany youth hunters. We exempt those persons born prior to September 2, 1971, from the Hunter Education Training course requirement. We define accompanied as being within normal voice contact. Each adult hunter may supervise only one youth hunter.

7. We allow the use of only longbows, compound bows, recurved bows, shoulder-fired muzzleloaders, and rifles. We prohibit use of a pistol or shotgun for hunting. When hunting, muzzleloader firearms must be .40 caliber or larger, and modern rifles must be center fired and .22 caliber or larger. We prohibit loaded authorized hunting firearms (see § 27.42 of this chapter) in the passenger compartment of a motor vehicle unless allowed by State regulations. We define “loaded” as having rounds in the chamber of magazine or a fire cap on a muzzleloading firearm. We prohibit target practice or “sighting-in” on the refuge.

8. We allow a 9-day scouting period, ending one week prior to the commencement of the refuge deer hunting season. A permitted hunter and a limit of two nonpermitted individuals may enter the hunt units during the scouting period. We allow access to the units during the scouting period from legal sunrise to legal sunset. You must clearly display the refuge-issued Hunt Vehicle Validation Tags/Scouting Permits (name/signature required; available from the refuge office) face up on the vehicle dashboard when hunting and scouting.

9. We allow hunters to enter the refuge only 1 hour before legal shooting hours during the permitted hunt season. We may require hunters to check out daily at the refuge check station at the end of their hunt or no later than 1 hour after legal shooting hours.

10. We allow vehicle parking at Unit 1 and Unit 6 designated parking areas and along the roadside of General Brandt Road (FM 106), Buena Vista Road, Lakeside Road, and County Road.

11. We restrict vehicle access to service roads not closed by gates or signs. We prohibit the use of motorized vehicles (see § 27.31 of this chapter). You may access hunt units only by foot or by bicycle.

12. We allow hunting from portable stands or by stalking and still hunting. There is a limit of one blind or stand per permitted hunter. You must attach hunter identification (name and phone number) to the blind or stand. We prohibit attaching blinds and stands to trees or making blinds and stands from natural vegetation (see §§ 27.51 of this chapter and 32.2(i)). You must remove all blinds and stands (see § 27.93 of this chapter) at the end of the permitted hunt season.

13. We prohibit the possession or use of dogs while scouting or hunting.

14. Hunters must field-dress all harvested big game in the field and check the game at the refuge check station before removal from the refuge. You may quarter deer, feral hog, and nilgai antelope in the field as defined by State regulations. You may use a nonmotorized cart to assist with the transportation of harvested game animals.

15. We prohibit use of or hunting from any type of watercraft or floating device.

16. You must receive authorization from a refuge employee to enter closed refuge areas to retrieve harvested game.

17. You may not kill or wound an animal covered in this section and intentionally or knowingly fail to make a reasonable effort to retrieve and include it in your bag limit.

18. We reserve the right to revoke or deny any permit for up to 5 years due to unsafe conduct or violation of one or more refuge regulations; this includes a demonstrated lack of public or hunter safety to a degree that may endanger oneself or other persons or property; multiple refuge regulation violations; aggressive, abusive, or intimidating behavior towards any employee of the United States or any local or State government employee engaged in official business, or towards any private person engaged in official business, or towards any private person engaged in the pursuit of a permitted activity on the refuge.

D. Sport Fishing. * * *

* * * * *

2. We require payment of an entry fee and boat launch at Adolph Thomae, Jr. County Park. We allow access to Adolph Thomae, Jr. County Park in accordance with the Cameron County Parks Department.

* * * * *

Lower Rio Grande Valley National Wildlife Refuge

A. Migratory Game Bird Hunting. We allow hunting of mourning, white-winged, and white-tipped dove on designated areas of the refuge in accordance with State regulations subject to the following conditions:

1. The hunting season will be concurrent with the State season. We publish this information in the refuge hunting sheet.

2. Designated areas include the La Grulla and Monte Cristo tracts of the refuge.

3. We require hunters to pay a fee to obtain a refuge hunt permit (name only required) and to possess and carry such permit at all times during your designated hunt period. Hunters must also display the refuge-issued vehicle placard (part of the hunt permit) while participating in the designated hunt period. Hunters, including youth hunters, must also have a valid hunting license, proof of hunter's education certification, and picture identification in order to obtain a refuge hunt permit and must possess the above items while on the refuge hunt.

4. You should park in designated refuge parking areas if they are available. You may park along County roads; however, you must not block the path of traffic and access to the refuge or private property (see § 27.31(h) of this chapter). We will tow inappropriately parked vehicles at the owner's expense.

5. We define youth hunters as ages 9-16. A Texas-licensed, adult hunter, age 17 or older who has successfully completed a Hunter Education Training Course, must accompany youth hunters. We exempt those persons born prior to September 2, 1971, from the Hunter Education Training course requirement. We define accompanied as being within normal voice contact. Each adult hunter may supervise only one youth hunter.

6. You may access the refuge during your permitted hunt period from 1 hour before legal hunt time to 1 hour after legal hunt time; however, you may not hunt outside of the legal hunt hours.

7. Your licenses, permits, hunting equipment, effects, and vehicles or other conveyances are subject to inspection by Federal, State, and local law enforcement officers.

8. We restrict hunt participants to those listed on the refuge hunt permit (hunter, nonhunting chaperone, and nonhunting assistant). We require all participants to wear hunter orange according to Texas State regulations (400 square inches [2,600 cm²] that is visible on the chest, back and head).

9. We allow only the hunter to hunt and carry or discharge the applicable hunting shotgun, muzzleloader, rifle, or bow.

10. We allow hunters to use bicycles on designated routes of travel.

11. You may use properly trained retriever dogs to retrieve dove during the hunt, but the dog must be under the control of the handler at all times (hunters must not allow dogs to roam free) (see § 26.21(b) of this chapter).

12. We prohibit hunters discharging firearms for any purpose other than to take or attempt to take a game bird listed in the introductory text of this paragraph A. during your established hunt.

13. We prohibit use of flagging or any other type of marker.

14. We prohibit hunters cutting or trimming any vegetation or brush (see § 27.51 of this chapter).

15. We prohibit overnight camping.

16. We prohibit the use of motorized vehicles.

17. We reserve the right to revoke or deny any permit for up to 5 years for the following reasons: Lack of public safety to a degree that may endanger oneself or other persons or property; multiple regulation violations; aggressive, abusive, or intimidating behavior towards any employee of the United States or any local or State government employee engaged in official business, or towards any private person engaged in the pursuit of a permitted activity on the refuge.

* * * * *

C. Big Game Hunting. We allow hunting of white-tailed deer, feral hog, and nilgai antelope on designated areas of the refuge in accordance with State regulations subject to the following conditions:

1. Conditions A3 through A10 and A13 through A17 apply.

2. We offer hunting during specific portions of the State hunting season. We determine specific hunt dates annually. We publish this information in the refuge hunting sheet.

3. We allow archery and firearm hunting on designated tracts of the refuge. We open Teniente Tract to archery and firearm hunting during designated dates. We open East Lake Tract to firearm hunting during designated dates.

4. We allow the use of longbows, compound bows, recurved bows, shotgun, muzzleloader, and any legal center-fire firearm except hand-held pistols (handguns) when hunting. Muzzleloader firearms must be .40 caliber or larger and slugs are the only permitted shot for shotguns when hunting. We publish this information in the refuge hunting sheet.

5. We allow the use of rattling horns.

6. We allow free-standing blinds or tripods. Hunters may set them up during the scouting days preceding each permitted hunt date and must take them down by the end of such hunt date. Hunters must mark and tag all stands with their name, contact number, and hunt date during the period of use.

7. Hunters must field-dress all harvested big game in the field.

8. Hunters may use nonmotorized dollies or carts off improved roads or trails to haul carcasses to a parking area.

9. We prohibit use of big game decoys.

10. We prohibit use or possession of dogs, horses, or mules on the refuge during big game refuge hunt.

11. We prohibit the killing, wounding, taking, or possession of an animal listed in the introductory text of this paragraph C while intentionally or knowingly failing to make a reasonable effort to retrieve or keep the edible portions of the animal and include it in your bag limit.

12. We prohibit discharge of firearms or bows and arrows for any purpose other than to take or attempt to take an animal listed in the introductory text of this paragraph C during your established hunt.

* * * * *

30. Amend § 32.64 Utah by removing paragraph B.3. and redesignating paragraph B.4. as paragraph B.3. of Ouray National Wildlife Refuge.

31. Amend § 32.66 Virginia by:

a. Revising paragraphs C.1., C.5., C.9., C.12., C.14., D.6., and D.7.iv. of Back Bay National Wildlife Refuge;

b. Revising paragraphs A.1., A.5., A.7., C.1.i., C.1.viii., and C.2.iii., removing paragraph C.2.v., redesignating paragraph C.2.vi. as paragraph C.2.v., revising paragraphs C.3.iii. through C.3.vi., and adding paragraph D.4. of Chincoteague National Wildlife Refuge;

c. Revising paragraph C. of James River National Wildlife Refuge;

d. Revising paragraphs C.2. and C.4. of Mason Neck National Wildlife Refuge;

e. Revising paragraphs C.2. and C.4. of Occoquan Bay National Wildlife Refuge;

f. Revising paragraph A. of Plum Tree Island National Wildlife Refuge;

g. Revising paragraph C. of Presquile National Wildlife Refuge; and

h. Revising paragraphs C. and D. of Rappahannock River Valley National Wildlife Refuge.

The revisions and additions read as follows:

§ 32.66 Virginia.

* * * * *

Back Bay National Wildlife Refuge

* * * * *

C. Big Game Hunting. * * *

1. Hunting brochures containing hunting application procedures, seasons, bag limits, methods of hunting, maps depicting areas open to hunting, and the terms and conditions under which we issue hunting permits (with hunter signature and date) are available at the refuge administration office and on the refuge's website.

* * * * *

5. All selected and standby applicants must enter the refuge between 4 a.m. and 4:30 a.m. on each hunt day. We may issue standby hunters permits to fill vacant slots by lottery. All hunters must cease hunting no later than 6 p.m.

* * * * *

9. You must be at least age 16 to hunt without an accompanying, qualified adult. Youths between ages 12 and 15 may hunt only when accompanied by a licensed hunter who is age 18 or older. We prohibit persons under age 12 from hunting on the refuge.

* * * * *

12. We allow scouting 1 week prior to the start of each refuge hunt period. Hunters may enter the hunt zones on foot or bicycle only. Scouts must wear 400 square inches (2,600 cm²) of visible blaze orange. We require hunters to sign in and out on each day of scouting.

* * * * *

14. We prohibit hunting or discharging of firearms within designated Safety Zones. We prohibit retrieval of wounded game from a “No Hunting Area” or “Safety Zone” without the consent of the refuge employee on duty at the check station.

* * * * *

D. Sport Fishing. * * *

* * * * *

6. You may surf fish, crab, and clam south of the refuge's beach access ramp. We allow night surf fishing by Special Use Permit (FWS Form 3-1383) in this area in accordance with dates and times designated on the permit.

7. * * *

* * * * *

iv. You must catch and release all freshwater game fish. The daily creel limit for D Pool for other species is a maximum combination of any 10 nongame fish.

* * * * *

Chincoteague National Wildlife Refuge

A. Migratory Game Bird Hunting. * * *

1. You must obtain a Migratory Bird Hunting Application (FWS Form 3-2357). Hunting brochures containing hunting application procedures, seasons, bag limits, methods of hunting, maps depicting areas open to hunting, and the terms and conditions under which we issue hunting permits are available at the refuge administration office and on the refuge's Web site.

* * * * *

5. You may erect portable blinds and deploy decoys; however, during the regular duck season, you must remove the blinds and decoys daily (see § 27.93 of this chapter).

* * * * *

7. You must complete and return a Migratory Bird Hunt Report (FWS Form 3-2361), available at the refuge administration office or on the refuge's Web site, within 15 days of the close of the season.

* * * * *

C. Big Game Hunting. * * *

1. * * *

i. You must apply for this hunt by filling out a Big/Upland Game Hunt Application (FWS Form 3-2356). Hunting brochures containing hunting application procedures, seasons, bag limits, methods of hunting, maps depicting areas open to hunting, and the terms and conditions under which we issue hunting permits are available at the refuge administration office and on the refuge's Web site.

* * * * *

viii. We prohibit the use of a boat, all-terrain vehicle (see § 27.31(f) of this chapter), bicycle, or saddled animal within your hunt zone.

* * * * *

2. * * *

* * * * *

iii. During the sika archery season, you may take up to five sika daily, of which two may be antlered. In addition, you may take white-tailed deer in accordance with State regulations.

* * * * *

3. * * *

* * * * *

iii. When hunting, you may use any firearm allowed by State law in designated areas of the refuge.

iv. We prohibit the discharge of a firearm within 50 feet (15m) of the centerline of any road.

v. During the sika firearm season, you may take up to five sika daily, two of which may be antlered. In addition, during designated white-tailed deer hunt periods, you may take white-tailed deer in accordance with State regulations.

vi. You must have a 4-wheel drive vehicle to hunt on Tom's Cove Hook. All over-sand vehicles must carry a shovel, jack, tow rope or chain, board or similar support for the jack, and a low- pressure tire gauge.

* * * * *

D. Sport Fishing. * * *

* * * * *

4. You must possess and carry a refuge permit (name, address, phone number supplied to refuge manager) to surf fish on Assawoman Island between March 15 and September 1.

* * * * *

James River National Wildlife Refuge

* * * * *

C. Big Game Hunting. We allow hunting of white-tailed deer on designated areas of the refuge in accordance with State regulations subject to the following conditions:

1. We require hunters to possess a refuge hunting permit (signed refuge brochure), along with their State hunting license and stamps, while on refuge property.

2. We require firearm hunters to purchase a refuge hunting permit (signed refuge brochure) at the Refuge Hunter Check Station on the morning of each hunt on a first-come-first-served basis. We also require hunters to complete and sign a Quota Deer Hunt Application (FWS Form 3-2354) and provide the application to the hunt administrator prior to receiving a refuge hunting permit.

3. We require persons who wish to hunt during the State archery season to obtain a refuge hunting permit by way of a Quota Deer Hunt Application and subsequent lottery administered through the Virginia Department of Game and Inland Fisheries. We notify successful applicants by mail or e-mail, and if we receive the hunting fee by the date identified in the mailing, we mail refuge hunting permits to successful applicants.

4. We allow the use of shotguns (20-gauge or larger, loaded with buckshot only), muzzleloaders, and bows and arrows as designated on refuge hunting permits.

5. We allow the take of two deer of either sex per day.

6. We prohibit dogs.

7. We allow only portable tree stands that hunters must remove at the end of each hunt day (see § 27.93 of this chapter). We prohibit damage to trees (see § 32.2(i)).

8. We require hunters during firearms and muzzleloader seasons to wear in a conspicuous manner on head, chest, and back a minimum of 400 square inches (2,600 cm²) of solid-colored, hunter-orange clothing or material.

9. We require hunters during archery only seasons to wear in a visible manner on head, chest, and back a minimum of 100 square inches (645 cm²) of solid-colored, hunter-orange clothing or material while moving to and from their stand/hunting location.

10. We require that hunters using shotguns remain within 100 feet (30 m) of their assigned stand while hunting.

11. We require that hunters using a muzzleloader must hunt from a stand elevated 10 feet (3 m) or more above the ground.

12. Persons possessing, transporting, or carrying firearms on national wildlife refuges must comply with all provisions of State and local law. Persons may only use (discharge) firearms in accordance with refuge regulation (see § 27.42 of this chapter and specific refuge regulations in part 32).

13. We prohibit the discharge of firearms or archery equipment across or within State-maintained or refuge roads, including roads closed to vehicles, as shown on refuge hunt maps.

14. We prohibit the use of flagging to mark trails or for any other purpose.

15. An adult age 21 or older, who must also possess and carry a valid hunting license and refuge hunting permit, must accompany and directly control youth hunters ages 12 to 17. We prohibit persons under age 12 to hunt on the refuge.

16. We prohibit the use or possession of alcohol while hunting on the refuge (see § 32.2(j)).

17. We require hunters to report accidents or injuries to the refuge office or sheriff's office within 24 hours after the incident. Hunters must report accidents resulting in serious injury to the sheriff's office immediately.

* * * * *

Mason Neck National Wildlife Refuge

C. Big Game Hunting. * * *

* * * * *

2. We select hunters by lottery using the Quota Deer Hunt Application (FWS Form 3-2354). Contact the refuge office for information on application dates.

* * * * *

4. Hunters must certify/qualify weapons and ammunition and attend an orientation session or take the orientation session online prior to issuance of a permit (see application form referenced above). Please contact the refuge for the online orientation Web address.

* * * * *

Occoquan Bay National Wildlife Refuge

* * * * *

C. Big Game Hunting. * * *

* * * * *

2. We select hunters by lottery using the Quota Deer Hunt Application (FWS Form 3-2354). Contact the refuge office for information on application dates.

* * * * *

4. Hunters must certify/qualify weapons and ammunition and attend an orientation session or take the orientation session online prior to issuance of a permit (see application form referenced above). Please contact the refuge for the online orientation web address.

* * * * *

Plum Tree Island National Wildlife Refuge

A. Migratory Game Bird Hunting. We allow hunting of waterfowl, gallinule, and coot on designated areas of the refuge in accordance with State regulations subject to the following conditions:

1. We require hunters to possess and carry a signed refuge hunting permit (see condition A2 below) while hunting migratory game birds on the refuge. We open the Cow Island unit of the refuge only to migratory game bird hunting. We close all other areas of the refuge to all public entry.

2. We require migratory game bird hunters to obtain a permit by way of quota hunt application and subsequent lottery administered through the Virginia Department of Game and Inland Fisheries. We mail permits to successful applicants.

3. We prohibit jump-shooting by foot or boat. All hunting must take place from a blind as determined by the hunting permit.

4. We allow only one boat or hunting party at each of the hunting locations.

5. An adult age 21 or older, possessing and carrying a valid hunting license and refuge hunting permit, must accompany and directly control youth hunters ages 12 to 17. We prohibit persons younger than age 12 to hunt on the refuge.

6. Persons possessing, transporting, or carrying firearms on national wildlife refuges must comply with all provisions of State and local law. Persons may only use (discharge) firearms in accordance with refuge regulations (see § 27.42 of this chapter).

* * * * *

Presquile National Wildlife Refuge

* * * * *

C. Big Game Hunting. We allow hunting of white-tailed deer on designated areas of the refuge in accordance with State regulations subject to the following conditions:

1. We require big game hunters to obtain a permit by way of quota hunt application and subsequent lottery administered through the Virginia Department of Game and Inland Fisheries. We require a fee to obtain a refuge hunting permit. We notify successful applicants by mail or e-mail, and if we receive the hunting fee by the date identified in the mailing, we mail refuge hunting permits to successful applicants.

2. We require hunters to possess a refuge hunting permit, along with their State hunting license and stamps, while on refuge property.

3. We require still hunting only. We prohibit the use of “man drives,” defined as individual or group efforts intended to “push” or “jump” deer for the purposes of hunting.

4. We allow the use of shotguns (20-gauge or larger, loaded with buckshot and or rifled slugs). We require hunters using slugs to be in a stand elevated 10 feet (30 m) or more above the ground.

5. We allow the take of two deer of either sex per day.

6. We prohibit dogs.

7. We prohibit the discharge of a weapon within 300 feet (90 m) of any building.

8. We allow only portable tree stands that hunters must remove at the end of each hunt day (see § 27.93 of this chapter). We prohibit damage to trees (see § 32.2(i)).

9. We require hunters to wear in a conspicuous manner on head, chest, and back a minimum of 400 square inches (2,600 cm²) of solid-colored, hunter-orange clothing or material.

10. We prohibit the use of flagging to mark trails or for any other purpose (see § 27.93 of this chapter).

11. Persons possessing, transporting, or carrying firearms on national wildlife refuges must comply with all provisions of State and local law. Persons may only use (discharge) firearms in accordance with refuge regulations (see § 27.42 of this chapter).

12. An adult, age 21 or older, who must also possess and carry a valid hunting license and refuge hunting permit, must accompany and directly control youth hunters ages 12 to 17. We prohibit persons younger than age 12 to hunt on the refuge.

13. We prohibit the use or possession of alcohol while hunting on the refuge (see § 32.2(j)).

14. We require hunters to dock their boats at designated locations on the refuge.

15. We require hunters to report accidents or injuries to the refuge office or sheriff's office within 24 hours after the incident. Hunters must report hunting accidents resulting in serious injury to the sheriff's office immediately.

* * * * *

Rappahannock River Valley National Wildlife Refuge

* * * * *

C. Big Game Hunting. We allow hunting of white-tailed deer on designated areas of the refuge in accordance with State regulations subject to the following conditions:

1. We require big game hunters to obtain a permit by way of quota hunt application and subsequent lottery administered through the Virginia Department of Game and Inland Fisheries. We require a fee to obtain a refuge hunting permit (signed and dated sheet). We notify successful applicants by mail or e-mail, and if we receive the hunting fee by the date identified in the mailing, we mail refuge hunting permits to successful applicants. We offer walk-in registration to fill hunting slots not filled during the lottery process.

2. We require hunters to possess a refuge hunting permit (signed and dated sheet), along with their State hunting license and stamps, while on refuge property. We require hunters to display a vehicle permit (contains date selected to hunt and permit number) provided by the refuge on the dashboard of their vehicle while on the refuge so that the permit is visible through the windshield.

3. We require stand hunting only. Stand hunting means the use of portable hunting blinds, portable tree stands or stationary ground hunting (see § 27.93 of this chapter). We prohibit use of nails, screws, bolts or screw-in steps. We prohibit damage to trees (see § 32.2(i)). Hunters must remove stands and blinds daily. We prohibit deer drives, still hunting, or roaming.

4. We allow archery, muzzleloader, and shotgun hunting on designated refuge tracts and days.

5. We permit the take of two deer of either sex per day.

6. We prohibit dogs.

7. We require hunters during archery-only season to wear in a conspicuous manner a minimum of 100 square inches (650 cm²) of solid-colored, hunter-orange material or clothing while moving to and from their stand or hunting location.

8. We require hunters during muzzleloader and firearms seasons to wear in a conspicuous manner on head, chest, and back a minimum of 400 square inches (2,600 cm²) of solid-colored, hunter-orange material or clothing.

9. We prohibit the use of flagging to mark trails or for any other purpose (see § 27.93 of this chapter).

10. We prohibit the use of vehicles except on designated refuge roads.

11. Hunters possessing, transporting, or carrying firearms on the refuge must comply with all provisions of State and local law. We prohibit the discharge of firearms or archery equipment within 100 feet (30 m) of refuge roads as marked on the refuge hunt maps.

12. An adult age 21 or older, possessing and carrying a valid hunting license and refuge hunting permit, must accompany and directly control youth hunters ages 12 to 17. We prohibit persons younger than age 12 to hunt on the refuge.

13. We require hunters to report accidents or injuries to the refuge office or sheriff's office within 24 hours after the incident. Hunters must report accidents resulting in serious injury to the sheriff's office immediately.

14. We prohibit the use or possession of alcohol while hunting on the refuge (see § 32.2(j)).

15. We prohibit the discharge of a weapon within 300 feet (90 m) of any building.

D. Sport Fishing. We allow fishing on designated areas of the refuge in accordance with State regulations subject to the following conditions:

1. We allow fishing access daily from legal sunrise to legal sunset.

2. During the period when the refuge is open for hunting, we will close hunting areas to all other uses, including sport fishing.

3. We prohibit fishing by any means other than by use of one or more attended poles with hook and line attached.

4. We prohibit the use of lead sinkers in freshwater ponds, including Wilna Pond and Laurel Grove Pond.

5. We require catch-and-release fishing for largemouth bass in freshwater ponds, including Wilna Pond and Laurel Grove Pond. Anglers may take other finfish species in accordance with State regulations.

6. We prohibit the take of any reptile, amphibian, or invertebrate species for use as bait or for any other purpose.

7. We prohibit the use of minnows as bait.

8. We prohibit use of boats propelled by gasoline motors, sail, or mechanically operated paddle wheel.

9. Prescheduled environmental education field trips will have priority over other uses, including sport fishing, on the Wilna Pond and Hutchinson piers at all times.

* * * * *

32. Amend § 32.68 West Virginia by revising paragraphs A.1., A.6., B.1., and C.1. of Canaan Valley National Wildlife Refuge to read as follows:

§ 32.68 West Virginia.

* * * * *

Canaan Valley National Wildlife Refuge

A. Migratory Game Bird Hunting. * * *

1. We require each hunter to possess and carry a signed refuge hunting permit (name, address, phone number), State hunting license, and driver's license (or other photo identification card) at all times while hunting on the refuge. The refuge hunting permit is free, and you may obtain it at the refuge headquarters. We require each hunter to submit a Migratory Bird Hunt Report (FWS Form 3-2361) at the end of the hunting season. Hunters must submit this form to the refuge headquarters if they wish to receive a hunting permit the following year.

* * * * *

6. We prohibit scouting and dog training except during legal hunting seasons.

* * * * *

B. Upland Game Hunting. * * *

1. Conditions A1 (Upland/Small Game Furbearer Report; FWS Form 3-2362), A2, A6, and A7 apply.

* * * * *

C. Big Game Hunting. * * *

1. Conditions A1 (Big Game Harvest Report; FWS Form 3-2359), A2, A6, A7, and B4 apply.

* * * * *

33. Amend § 32.69 Wisconsin by:

a. Revising paragraph B. of Leopold Wetland Management District; and

b. Revising paragraphs A. and B. of St. Croix Wetland Management District to read as follows:

§ 32.69 Wisconsin.

* * * * *

Leopold Wetland Management District

* * * * *

B. Upland Game Hunting. We allow hunting of upland game throughout the district (except that we prohibit hunting on the Blue-wing Waterfowl Production Area (WPA) in Ozaukee County or the Wilcox WPA in Waushara County) in accordance with State regulations subject to the following conditions:

1. Condition A1 applies.

2. You may possess only approved nontoxic shot shells while hunting in the field, including shot shells used for hunting wild turkey (see § 32.2(k)).

* * * * *

St. Croix Wetland Management District

A. Migratory Game Bird Hunting. We allow hunting of migratory game birds throughout the district in accordance with State regulations subject to the following conditions:

1. We prohibit hunting on designated portions posted as closed of the St. Croix Prairie Waterfowl Production Area (WPA) in St. Croix County.

2. We close the Oak Ridge Waterfowl Production Area in St. Croix County to hunting from the opening day of waterfowl season until the first Saturday in December except deer hunting during regular archery, gun, and muzzleloader seasons.

B. Upland Game Hunting. We allow hunting of upland game throughout the district in accordance with State regulations subject to the following conditions:

1. Conditions A1 and A2 apply.

2. You may possess only approved nontoxic shot shells while hunting in the field, including shot shells used for hunting wild turkey (see § 32.2(k)).

* * * * *

34. Amend § 32.70 Wyoming by revising paragraph C.1. to read as follows and by removing paragraph C.4. of National Elk Refuge:

§ 32.70 Wyoming.

* * * * *

National Elk Refuge

* * * * *

C. Big Game Hunting. * * *

1. We require refuge permits (issued by State of Wyoming).

* * * * *

Dated: December 21, 2010.
Eileen Sobeck,
Acting Assistant Secretary for Fish and Wildlife and Parks.

[FR Doc. 2011-225 Filed 1-20-11; 8:45 am]

BILLING CODE 4310-55-P